DEPARTMENT OF THE INTERIOR

Fish and Wildlife Service

50 CFR Part 32

[Docket No. FWS-HQ-NWRS-2016-0007; FXRS12650900000-167-FF09R26000]

RIN 1018-BB31

2016-2017 Refuge-Specific Hunting and Sport Fishing Regulations

AGENCY: Fish and Wildlife Service, Interior.

ACTION: Proposed rule.

SUMMARY: We, the U.S. Fish and Wildlife Service, propose to add 1 national wildlife refuge (NWR or refuge) to the list of areas open for hunting, increase the hunting activities available at 12 other NWRs, open 1 refuge to fishing for the first time, and add pertinent refuge-specific regulations for other NWRs that pertain to migratory game bird hunting, upland game hunting, big game hunting, and sport fishing for the 2016-2017 season.

DATES: We will accept comments received or postmarked on or before August 15, 2016.

ADDRESSES: You may submit comments by one of the following methods:

• Electronically: Go to the Federal eRulemaking Portal: http://www.regulations.gov. In the Search box, type in FWS-HQ-NWRS-2016-0007, which is the docket number for this rulemaking. Then click on the Search button. On the resulting screen, find the correct document and submit a comment by clicking on “Comment Now!”

• By hard copy: Submit by U.S. mail or hand delivery: Public Comments Processing, Attn: FWS-HQ-NWRS-2016-0007; Division of Policy, Performance, and Management Programs; U.S. Fish and Wildlife Service; 5275 Leesburg Pike, MS: BPHC; Falls Church, VA 22041-3803.

We will not accept email or faxes. We will post all comments on http://www.regulations.gov. This generally means that we will post any personal information you provide us (see Request for Comments, below, for more information). For information on specific refuges' public use programs and the conditions that apply to them or for copies of compatibility determinations for any refuge(s), contact individual programs at the addresses/phone numbers given in Available Information for Specific Refuges under SUPPLEMENTARY INFORMATION.

FOR FURTHER INFORMATION CONTACT: Jillian Cohen, (703) 358-1764.

SUPPLEMENTARY INFORMATION: The National Wildlife Refuge System Administration Act of 1966 closes NWRs in all States except Alaska to all uses until opened. The Secretary of the Interior (Secretary) may open refuge areas to any use, including hunting and/or sport fishing, upon a determination that the use is compatible with the purposes of the refuge and National Wildlife Refuge System mission. The action also must be in accordance with provisions of all laws applicable to the areas, developed in coordination with the appropriate State fish and wildlife agency(ies), consistent with the principles of sound fish and wildlife management and administration, and otherwise in the public interest. These requirements ensure that we maintain the biological integrity, diversity, and environmental health of the Refuge System for the benefit of present and future generations of Americans.

We annually review refuge hunting and sport fishing programs to determine whether to include additional refuges or whether individual refuge regulations governing existing programs need modifications. Changing environmental conditions, State and Federal regulations, and other factors affecting fish and wildlife populations and habitat may warrant modifications to refuge-specific regulations to ensure the continued compatibility of hunting and sport fishing programs and to ensure that these programs will not materially interfere with or detract from the fulfillment of refuge purposes or the Refuge System's mission.

Provisions governing hunting and sport fishing on refuges are in title 50 of the Code of Federal Regulations in part 32 (50 CFR part 32). We regulate hunting and sport fishing on refuges to:

• Ensure compatibility with refuge purpose(s);

• Properly manage fish and wildlife resource(s);

• Protect other refuge values;

• Ensure refuge visitor safety; and

• Provide opportunities for quality fish- and wildlife-dependent recreation.

On many refuges where we decide to allow hunting and sport fishing, our general policy of adopting regulations identical to State hunting and sport fishing regulations is adequate in meeting these objectives. On other refuges, we must supplement State regulations with more-restrictive Federal regulations to ensure that we meet our management responsibilities, as outlined in the Statutory Authority section, below. We issue refuge-specific hunting and sport fishing regulations when we open wildlife refuges to migratory game bird hunting, upland game hunting, big game hunting, or sport fishing. These regulations may list the wildlife species that you may hunt or fish, seasons, bag or creel (container for carrying fish) limits, methods of hunting or sport fishing, descriptions of areas open to hunting or sport fishing, and other provisions as appropriate. You may find previously issued refuge-specific regulations for hunting and sport fishing in 50 CFR part 32. In this rulemaking, we are also proposing to standardize and clarify the language of existing regulations.

Statutory Authority

The National Wildlife Refuge System Administration Act of 1966 (16 U.S.C. 668dd-668ee, as amended by the National Wildlife Refuge System Improvement Act of 1997 [Improvement Act]) (Administration Act), and the Refuge Recreation Act of 1962 (16 U.S.C. 460k—460k-4) (Recreation Act) govern the administration and public use of refuges.

Amendments enacted by the Improvement Act built upon the Administration Act in a manner that provides an “organic act” for the Refuge System, similar to organic acts that exist for other public Federal lands. The Improvement Act serves to ensure that we effectively manage the Refuge System as a national network of lands, waters, and interests for the protection and conservation of our Nation's wildlife resources. The Administration Act states first and foremost that we focus our Refuge System mission on conservation of fish, wildlife, and plant resources and their habitats. The Improvement Act requires the Secretary, before allowing a new use of a refuge, or before expanding, renewing, or extending an existing use of a refuge, to determine that the use is compatible with the purpose for which the refuge was established and the mission of the Refuge System. The Improvement Act established as the policy of the United States that wildlife-dependent recreation, when compatible, is a legitimate and appropriate public use of the Refuge System, through which the American public can develop an appreciation for fish and wildlife. The Improvement Act established six wildlife-dependent recreational uses as the priority general public uses of the Refuge System. These uses are: Hunting, fishing, wildlife observation and photography, and environmental education and interpretation.

The Recreation Act authorizes the Secretary to administer areas within the Refuge System for public recreation as an appropriate incidental or secondary use only to the extent that doing so is practicable and not inconsistent with the primary purpose(s) for which Congress and the Service established the areas. The Recreation Act requires that any recreational use of refuge lands be compatible with the primary purpose(s) for which we established the refuge and not inconsistent with other previously authorized operations.

The Administration Act and Recreation Act also authorize the Secretary to issue regulations to carry out the purposes of the Acts and regulate uses.

We develop specific management plans for each refuge prior to opening it to hunting or sport fishing. In many cases, we develop refuge-specific regulations to ensure the compatibility of the programs with the purpose(s) for which we established the refuge and the Refuge System mission. We ensure initial compliance with the Administration Act and the Recreation Act for hunting and sport fishing on newly acquired refuges through an interim determination of compatibility made at or near the time of acquisition. These regulations ensure that we make the determinations required by these acts prior to adding refuges to the lists of areas open to hunting and sport fishing in 50 CFR part 32. We ensure continued compliance by the development of comprehensive conservation plans, specific plans, and by annual review of hunting and sport fishing programs and regulations.

Amendments to Existing Regulations

This document proposes to codify in the Code of Federal Regulations all of the Service's hunting and/or sport fishing regulations that we would update since the last time we published a rule amending these regulations (80 FR 51878; August 26, 2015) and that are applicable at Refuge System units previously opened to hunting and/or sport fishing. We propose this to better inform the general public of the regulations at each refuge, to increase understanding and compliance with these regulations, and to make enforcement of these regulations more efficient. In addition to now finding these regulations in 50 CFR part 32, visitors to our refuges may find them reiterated in literature distributed by each refuge or posted on signs.

We cross-reference a number of existing regulations in 50 CFR parts 26, 27, 28, and 32 to assist hunting and sport fishing visitors with understanding safety and other legal requirements on refuges. This redundancy is deliberate, with the intention of improving safety and compliance in our hunting and sport fishing programs.

Table 1—Changes for 2016-2017 Hunting/Fishing Season
Refuge/Region (*) | State | Migratory bird hunting | Upland game hunting | Big game hunting | Sport fishing
Alamosa (6) | Colorado | D | Already open | B | Closed.
Anahuac (2) | Texas | C/D | Closed | Closed | Already open.
Atchafalaya (4) | Louisiana | Already open | Already open | D | Already open.
Baca (6) | Colorado | A | A | A | Closed.
Black Bayou Lake (4) | Louisiana | C | C | C | Already open.
Buffalo Lake (2) | Texas | Closed | Already open | B | Closed.
Detroit River NWR (3) | Illinois and Missouri | C | C | C | Closed.
Lake Andes (6) | South Dakota | Already open | Already open | Already open | B.
Monte Vista (6) | Colorado | D | Already open | B | Closed.
Montezuma (5) | New York | C/D | Closed | C/D | Already open.
Patoka River (3) | Indiana | C | C | C | C.
Waccamaw (4) | South Carolina | C | C | C | Already open.
Washita (2) | Oklahoma | Already open | Already open | D | Already open
Key:
* number in ( ) refers to the Region as defined in the preamble to this proposed rule under Available Information for Specific Refuges.
A = New refuge opened.
B = New activity on a refuge previously open to other activities.
C = Refuge already open to activity, but added new lands/waters or modified areas open to hunting or fishing.
D = Refuge already open to activity but added new species to hunt.

The changes for the 2016-17 hunting/fishing season noted in the chart above are each based on a complete administrative record which, among other detailed documentation, also includes a hunt plan, a compatibility determination, and the appropriate National Environmental Policy Act (NEPA; 42 U.S.C. 4321 et seq.) analysis, all of which were the subject of a public review and comment process. These documents are available upon request. In this proposed rule, we are also proposing to adopt new names for two refuges, White River National Wildlife Refuge and Nisqually National Wildlife Refuge. The new name for White River National Wildlife Refuge is Dale Bumpers White River National Wildlife Refuge, and the new name for Nisqually National Wildlife Refuge is Billy Frank Jr. Nisqually National Wildlife Refuge.

Fish Advisory

For health reasons, anglers should review and follow State-issued consumption advisories before enjoying recreational sport fishing opportunities on Service-managed waters. You can find information about current fish-consumption advisories on the Internet at: http://www.epa.gov/fish-tech.

Plain Language Mandate

In this proposed rule, we propose some of the revisions to the individual refuge units to comply with a Presidential mandate to use plain language in regulations; these particular revisions do not modify the substance of the previous regulations. These types of changes include using “you” to refer to the reader and “we” to refer to the Refuge System, using the word “allow” instead of “permit” when we do not require the use of a permit for an activity, and using active voice (e.g., “We restrict entry into the refuge” vs. “Entry into the refuge is restricted”).

Request for Comments

You may submit comments and materials on this proposed rule by any one of the methods listed in ADDRESSES. We will not accept comments sent by email or fax or to an address not listed in ADDRESSES. We will not consider hand-delivered comments that we do not receive, or mailed comments that are not postmarked, by the date specified in DATES.

We will post your entire comment on http://www.regulations.gov. Before including personal identifying information in your comment, you should be aware that we may make your entire comment—including your personal identifying information—publicly available at any time. While you can ask us in your comment to withhold your personal identifying information from public review, we cannot guarantee that we will be able to do so. We will post all hardcopy comments on http://www.regulations.gov.

Public Comment

Department of the Interior policy is, whenever practicable, to afford the public a meaningful opportunity to participate in the rulemaking process. The process of opening refuges is done in stages, with the fundamental work being performed on the ground at the refuge and in the community where the program is administered. In these stages, the public is given other opportunities to comment, for example, on comprehensive conservation plans and compatibility determinations. The second stage is this document, when we publish the proposed rule in the Federal Register for additional comment, usually for a 30-day comment period.

There is nothing contained in this proposed rule outside the scope of the annual review process where we determine whether individual refuges need modifications, deletions, or additions made to them. We make every attempt to collect all of the proposals from the refuges nationwide and process them expeditiously to maximize the time available for public review. A 30-day comment period, through the broader publication following the earlier public involvement, gives the public sufficient time to comment and allows us to establish hunting and fishing programs in time for the upcoming seasons. Many of these rules would also relieve restrictions and allow the public to participate in recreational activities on a number of refuges. In addition, in order to continue to provide for previously authorized hunting opportunities while at the same time providing for adequate resource protection, we must be timely in providing modifications to certain hunting programs on some refuges.

We considered providing a 60-day, rather than a 30-day, comment period. However, we determined that an additional 30-day delay in processing these refuge-specific hunting and sport fishing regulations would hinder the effective planning and administration of our hunting and sport fishing programs. Such a delay would jeopardize enacting amendments to hunting and sport fishing programs in time for implementation this year and/or early next year, or shorten the duration of these programs.

Even after issuance of a final rule, we accept comments, suggestions, and concerns for consideration for any appropriate subsequent rulemaking.

When finalized, we will incorporate these regulations into 50 CFR part 32. Part 32 contains general provisions and refuge-specific regulations for hunting and sport fishing on refuges.

Clarity of This Proposed Rule

Executive Orders 12866 and 12988 and the Presidential Memorandum of June 1, 1998, require us to write all rules in plain language. This means that each rule we publish must:

(a) Be logically organized;

(b) Use the active voice to address readers directly;

(c) Use clear language rather than jargon;

(d) Be divided into short sections and sentences; and

(e) Use lists and tables wherever possible.

If you feel that we have not met these requirements, send us comments by one of the methods listed in ADDRESSES. To better help us revise the rule, your comments should be as specific as possible. For example, you should tell us the numbers of the sections or paragraphs that are unclearly written, which sections or sentences are too long, the sections where you feel lists or tables would be useful, etc.

Regulatory Planning and Review (Executive Orders 12866 and 13563)

Executive Order 12866 provides that the Office of Information and Regulatory Affairs (OIRA) will review all significant rules. OIRA has determined that this rulemaking is not significant.

Executive Order 13563 reaffirms the principles of E.O. 12866 while calling for improvements in the nation's regulatory system to promote predictability, to reduce uncertainty, and to use the best, most innovative, and least burdensome tools for achieving regulatory ends. The executive order directs agencies to consider regulatory approaches that reduce burdens and maintain flexibility and freedom of choice for the public where these approaches are relevant, feasible, and consistent with regulatory objectives. E.O. 13563 emphasizes further that regulations must be based on the best available science and that the rulemaking process must allow for public participation and an open exchange of ideas. We have developed this rule in a manner consistent with these requirements.

Regulatory Flexibility Act

Under the Regulatory Flexibility Act (as amended by the Small Business Regulatory Enforcement Fairness Act [SBREFA] of 1996) (5 U.S.C. 601 et seq.), whenever a Federal agency is required to publish a notice of rulemaking for any proposed or final rule, it must prepare and make available for public comment a regulatory flexibility analysis that describes the effect of the rule on small entities (i.e., small businesses, small organizations, and small government jurisdictions). However, no regulatory flexibility analysis is required if the head of an agency certifies that the rule would not have a significant economic impact on a substantial number of small entities. Thus, for a regulatory flexibility analysis to be required, impacts must exceed a threshold for “significant impact” and a threshold for a “substantial number of small entities.” See 5 U.S.C. 605(b). SBREFA amended the Regulatory Flexibility Act to require Federal agencies to provide a statement of the factual basis for certifying that a rule would not have a significant economic impact on a substantial number of small entities.

This proposed rule adds 1 national wildlife refuge to the list of refuges open to hunting and increases hunting or fishing activities on 12 additional national wildlife refuges. It adds 1 national wildlife refuge to the list of refuges open to fishing. As a result, visitor use for wildlife-dependent recreation on these NWRs will change. If the refuges establishing new programs were a pure addition to the current supply of those activities, it would mean an estimated increase of 4,045 user days (one person per day participating in a recreational opportunity, Table 2). Because the participation trend is flat in these activities since 1991, this increase in supply will most likely be offset by other sites losing participants. Therefore, this is likely to be a substitute site for the activity and not necessarily an increase in participation rates for the activity.

Table 2—Estimated Change in Recreation Opportunities in 2016/2017
[Dollars in thousands]
Refuge | Additional days | Additional expenditures
Alamosa | 499 | 19.4
Anahuac | 350 | 13.6
Atchafalaya | 200 | 7.8
Baca | 970 | 37.8
Black Bayou Lake | 200 | 7.8
Buffalo Lake | 12 | 0.5
Detroit River | 115 | 4.5
Lake Andes | 0 | 0.0
Monte Vista | 499 | 19.4
Montezuma | 945 | 36.8
Patoka River | 185 | 7.4
Waccamaw | 10 | 0.4
Washita | 60 | 2.3
Total | 4,045 | 157.7

To the extent visitors spend time and money in the area of the refuge that they would not have spent there anyway, they contribute new income to the regional economy and benefit local businesses. Due to the unavailability of site-specific expenditure data, we use the national estimates from the 2011 National Survey of Fishing, Hunting, and Wildlife Associated Recreation to identify expenditures for food and lodging, transportation, and other incidental expenses. Using the average expenditures for these categories with the maximum expected additional participation of the Refuge System yields approximately $158,000 in recreation-related expenditures (Table 2). By having ripple effects throughout the economy, these direct expenditures are only part of the economic impact of these recreational activities. Using a national impact multiplier for hunting activities (2.27) derived from the report “Hunting in America: An Economic Force for Conservation” and for fishing activities (2.40) derived from the report “Sportfishing in America” yields a total economic impact of approximately $358,000 (2015 dollars) (Southwick Associates, Inc., 2012). Using a local impact multiplier would yield more accurate and smaller results. However, we employed the national impact multiplier due to the difficulty in developing local multipliers for each specific region.

Since we know that most of the fishing and hunting occurs within 100 miles of a participant's residence, then it is unlikely that most of this spending would be “new” money coming into a local economy; therefore, this spending would be offset with a decrease in some other sector of the local economy. The net gain to the local economies would be no more than $358,000, and most likely considerably less. Since 80 percent of the participants travel less than 100 miles to engage in hunting and fishing activities, their spending patterns would not add new money into the local economy and, therefore, the real impact would be on the order of about $72,000 annually.

Small businesses within the retail trade industry (such as hotels, gas stations, taxidermy shops, bait-and-tackle shops, and similar businesses) may be affected by some increased or decreased refuge visitation. A large percentage of these retail trade establishments in the local communities around NWRs qualify as small businesses (Table 3). We expect that the incremental recreational changes will be scattered, and so we do not expect that the rule will have a significant economic effect on a substantial number of small entities in any region or nationally. As noted previously, we expect approximately $158,000 to be spent in total in the refuges' local economies. The maximum increase at most would than one-tenth of 1 percent for local retail trade spending (Table 3).

Table 3—Comparative Expenditures for Retail Trade Associated With Additional Refuge Visitation for 2016/2017
[Thousands, 2015 dollars]
Refuge/County(ies) | Retail trade in 2012 | Estimated maximum addition from new activities | Addition as % of total | Establishments in 2012 | Establ. with <10 emp in 2012
Alamosa:
Alamosa, CO | $320,858 | $9.7 | 0.003 | 85 | 64
Costilla, CO | 13,340 | 9.7 | 0.073 | 10 | 10
Anahuac:
Chambers, TX | 323,766 | 13.6 | 0.004 | 85 | 75
Atchafalaya:
St. Martin, LA | 638,981 | 3.9 | 0.001 | 142 | 101
Iberville, LA | 319,242 | 3.9 | 0.001 | 88 | 61
Baca:
Saguache, CO | 26,605 | 37.8 | 0.142 | 16 | 13
Black Bayou Lake:
Ouachita, LA | 2,728,780 | 7.8 | <0.001 | 710 | 498
Buffalo Lake:
Randall, TX | 2,063,425 | 0.5 | <0.001 | 352 | 246
Detroit River:
Monroe, MI | 1,681,716 | 2.2 | <0.001 | 377 | 264
Wayne, MI | 19,901,061 | 2.2 | <0.001 | 6,091 | 4,738
Monte Vista:
Rio Grande, CO | 114,102 | 19.4 | 0.017 | 48 | 41
Montezuma:
Cayuga, NY | 999,879 | 18.4 | <0.001 | 260 | 195
Seneca, NY | 559,990 | 18.4 | <0.001 | 183 | 114
Wayne, NY | 940,334 | 1.2 | <0.001 | 267 | 181
Patoka River:
Gibson, IN | 637,370 | 3.7 | 0.001 | 120 | 84
Pike, IN | 82,914 | 3.7 | 0.004 | 31 | 23
Waccamaw:
Georgetown, SC | 803,958 | 0.2 | <0.001 | 303 | 230
Horry, SC | 5,990,133 | 0.2 |  | 1,666 | 1,185
Washita:
Custer, OK | 606,827 | 2.3 | <0.001 | 149 | 102

With the small change in overall spending anticipated from this proposed rule, it is unlikely that a substantial number of small entities will have more than a small impact from the spending change near the affected refuges. Therefore, we certify that, if adopted as proposed, this rule would not have a significant economic effect on a substantial number of small entities as defined under the Regulatory Flexibility Act (5 U.S.C. 601 et seq.). An initial regulatory flexibility analysis is not required. Accordingly, a small entity compliance guide is not required.

Small Business Regulatory Enforcement Fairness Act

The proposed rule is not a major rule under 5 U.S.C. 804(2), the Small Business Regulatory Enforcement Fairness Act. We anticipate no significant employment or small business effects. This rule:

a. Would not have an annual effect on the economy of $100 million or more. The minimal impact would be scattered across the country and would most likely not be significant in any local area.

b. Would not cause a major increase in costs or prices for consumers; individual industries; Federal, State, or local government agencies; or geographic regions. This proposed rule would have only a slight effect on the costs of hunting opportunities for Americans. If the substitute sites are farther from the participants' residences, then an increase in travel costs would occur. The Service does not have information to quantify this change in travel cost but assumes that, since most people travel less than 100 miles to hunt, the increased travel cost would be small. We do not expect this proposed rule to affect the supply or demand for hunting opportunities in the United States, and, therefore, it should not affect prices for hunting equipment and supplies, or the retailers that sell equipment.

c. Would not have significant adverse effects on competition, employment, investment, productivity, innovation, or the ability of U.S.-based enterprises to compete with foreign-based enterprises. This proposed rule represents only a small proportion of recreational spending at NWRs. Therefore, if adopted, this rule would have no measurable economic effect on the wildlife-dependent industry, which has annual sales of equipment and travel expenditures of $72 billion nationwide.

Unfunded Mandates Reform Act

Since this proposed rule would apply to public use of federally owned and managed refuges, it would not impose an unfunded mandate on State, local, or Tribal governments or the private sector of more than $100 million per year. The rule would not have a significant or unique effect on State, local, or Tribal governments or the private sector. A statement containing the information required by the Unfunded Mandates Reform Act (2 U.S.C. 1531 et seq.) is not required.

Takings (E.O. 12630)

In accordance with E.O. 12630, this proposed rule would not have significant takings implications. This rule would affect only visitors at NWRs and describe what they can do while they are on a refuge.

Federalism (E.O. 13132)

As discussed in Regulatory Planning and Review and Unfunded Mandates Reform Act, above, this proposed rule would not have sufficient federalism implications to warrant the preparation of a federalism summary impact statement under E.O. 13132. In preparing this proposed rule, we worked with State governments.

Civil Justice Reform (E.O. 12988)

In accordance with E.O. 12988, the Department of the Interior has determined that this proposed rule would not unduly burden the judicial system and that it meets the requirements of sections 3(a) and 3(b)(2) of the Order. The rule would clarify established regulations and result in better understanding of the regulations by refuge visitors.

Energy Supply, Distribution or Use (E.O. 13211)

On May 18, 2001, the President issued E.O. 13211 on regulations that significantly affect energy supply, distribution, and use. E.O. 13211 requires agencies to prepare Statements of Energy Effects when undertaking certain actions. Because this proposed rule would add a new hunt at 1 NWR, increase hunting or fishing activities at 12 other NWRs, and add fishing to 1 NWR, it is not a significant regulatory action under E.O. 12866, and we do not expect it to significantly affect energy supplies, distribution, or use. Therefore, this action is not a significant energy action, and no Statement of Energy Effects is required.

Consultation and Coordination With Indian Tribal Governments (E.O. 13175)

In accordance with E.O. 13175, we have evaluated possible effects on federally recognized Indian tribes and have determined that there are no effects. We coordinate recreational use on NWRs with Tribal governments having adjoining or overlapping jurisdiction before we propose the regulations.

Paperwork Reduction Act

This proposed rule does not contain any information-collection requirements other than those already approved by the Office of Management and Budget (OMB) under the Paperwork Reduction Act (44 U.S.C. 3501 et seq.) and assigned OMB Control Numbers 1018-0102 (expires June 30, 2017), 1018-0140 (expires May 31, 2018), and 1018-0153 (expires December 31, 2018). An agency may not conduct or sponsor and a person is not required to respond to a collection of information unless it displays a currently valid OMB control number.

Endangered Species Act Section 7 Consultation

We comply with section 7 of the Endangered Species Act of 1973, as amended (16 U.S.C. 1531 et seq.), when developing Comprehensive Conservation Plans and step-down management plans—which would include hunting and/or fishing plans—for public use of refuges, and prior to implementing any new or revised public recreation program on a refuge as identified in 50 CFR 26.32. We have completed section 7 consultation on each of the affected refuges.

National Environmental Policy Act

We analyzed this proposed rule in accordance with the criteria of the National Environmental Policy Act of 1969 (NEPA) (42 U.S.C. 4332(C)), 43 CFR part 46, and 516 Departmental Manual (DM) 8.

A categorical exclusion from NEPA documentation applies to publication of proposed amendments to refuge-specific hunting and fishing regulations because they are technical and procedural in nature, and the environmental effects are too broad, speculative, or conjectural to lend themselves to meaningful analysis (43 CFR 46.210 and 516 DM 8). Concerning the actions that are the subject of this proposed rulemaking, we have complied with NEPA at the project level when developing each proposal. This is consistent with the Department of the Interior instructions for compliance with NEPA where actions are covered sufficiently by an earlier environmental document (43 CFR 46.120).

Prior to the addition of a refuge to the list of areas open to hunting and fishing in 50 CFR part 32, we develop hunting and fishing plans for the affected refuges. We incorporate these proposed refuge hunting and fishing activities in the refuge Comprehensive Conservation Plan and/or other step-down management plans, pursuant to our refuge planning guidance in 602 Fish and Wildlife Service Manual (FW) 1, 3, and 4. We prepare these Comprehensive Conservation Plans and step-down plans in compliance with section 102(2)(C) of NEPA, and the Council on Environmental Quality's regulations for implementing NEPA in 40 CFR parts 1500 through 1508. We invite the affected public to participate in the review, development, and implementation of these plans. Copies of all plans and NEPA compliance are available from the refuges at the addresses provided below.

Available Information for Specific Refuges

Individual refuge headquarters have information about public use programs and conditions that apply to their specific programs and maps of their respective areas. To find out how to contact a specific refuge, contact the appropriate Regional office listed below:

Region 1—Hawaii, Idaho, Oregon, and Washington. Regional Chief, National Wildlife Refuge System, U.S. Fish and Wildlife Service, Eastside Federal Complex, Suite 1692, 911 NE 11th Avenue, Portland, OR 97232-4181; Telephone (503) 231-6214.

Region 2—Arizona, New Mexico, Oklahoma, and Texas. Regional Chief, National Wildlife Refuge System, U.S. Fish and Wildlife Service, P.O. Box 1306, 500 Gold Avenue SW., Albuquerque, NM 87103; Telephone (505) 248-6937.

Region 3—Illinois, Indiana, Iowa, Michigan, Minnesota, Missouri, Ohio, and Wisconsin. Regional Chief, National Wildlife Refuge System, U.S. Fish and Wildlife Service, 5600 American Blvd. West, Suite 990, Bloomington, MN 55437-1458; Telephone (612) 713-5360.

Region 4—Alabama, Arkansas, Florida, Georgia, Kentucky, Louisiana, Mississippi, North Carolina, South Carolina, Tennessee, Puerto Rico, and the Virgin Islands. Regional Chief, National Wildlife Refuge System, U.S. Fish and Wildlife Service, 1875 Century Boulevard, Atlanta, GA 30345; Telephone (404) 679-7166.

Region 5—Connecticut, Delaware, District of Columbia, Maine, Maryland, Massachusetts, New Hampshire, New Jersey, New York, Pennsylvania, Rhode Island, Vermont, Virginia, and West Virginia. Regional Chief, National Wildlife Refuge System, U.S. Fish and Wildlife Service, 300 Westgate Center Drive, Hadley, MA 01035-9589; Telephone (413) 253-8307.

Region 6—Colorado, Kansas, Montana, Nebraska, North Dakota, South Dakota, Utah, and Wyoming. Regional Chief, National Wildlife Refuge System, U.S. Fish and Wildlife Service, 134 Union Blvd., Lakewood, CO 80228; Telephone (303) 236-8145.

Region 7—Alaska. Regional Chief, National Wildlife Refuge System, U.S. Fish and Wildlife Service, 1011 E. Tudor Rd., Anchorage, AK 99503; Telephone (907) 786-3545.

Region 8—California and Nevada. Regional Chief, National Wildlife Refuge System, U.S. Fish and Wildlife Service, 2800 Cottage Way, Room W-2606, Sacramento, CA 95825; Telephone (916) 414-6464.

Primary Author

Jillian Cohen, Division of Natural Resources and Conservation Planning, National Wildlife Refuge System, is the primary author of this rulemaking document.

List of Subjects in 50 CFR Part 32

Fishing, Hunting, Reporting and recordkeeping requirements, Wildlife, Wildlife refuges.

Proposed Regulation Promulgation

For the reasons set forth in the preamble, we propose to amend title 50, chapter I, subchapter C of the Code of Federal Regulations as follows:

PART 32—HUNTING AND FISHING

1. The authority citation for part 32 continues to read as follows:

Authority: 5 U.S.C. 301; 16 U.S.C. 460k, 664, 668dd-668ee, and 715i.

§ 32.7 [Amended]

2. Amend § 32.7 by:

a. Adding, in alphabetical order, an entry for “Dale Bumpers White River National Wildlife Refuge” in the State of Arkansas;

b. Removing the entry for “White River National Wildlife Refuge” from the State of Arkansas;

c. Adding, in alphabetical order, an entry for “Baca National Wildlife Refuge” in the State of Colorado;

d. Adding, in alphabetical order, an entry for “Billy Frank Jr. Nisqually National Wildlife Refuge” in the State of Washington; and

e. Removing the entry for “Nisqually National Wildlife Refuge” in the State of Washington.

3. Amend § 32.20, the entry for Choctaw National Wildlife Refuge, by:

a. Revising paragraph B;

b. Revising paragraphs C.1, C.2, and C.4;

c. Removing paragraph C.5; and

d. Revising paragraphs D.2, D.4, and D.7.

The revisions read as follows:

§ 32.20 Alabama.

* * * * *

Choctaw National Wildlife Refuge

* * * * *

B. Upland Game Hunting. We allow hunting of squirrel and rabbit on designated areas of the refuge in accordance with State regulations and subject to the following conditions:

1. We prohibit access to closed areas and hunting within 100 yards (91.4 meters) of the fenced-in refuge work center area, designated hiking trails, and refuge boat ramps.

2. We prohibit leaving unattended personal property, including, but not limited to, boats or vehicles of any type, geocaches, lumber, and cameras, overnight on the refuge (see § 27.93 of this chapter). We prohibit marking trees and using flagging tape, reflective tacks, and other similar marking devices.

3. You may take incidental species (coyote, beaver, nutria, and feral hog) during any hunt with those weapons legal during those hunts as defined by the State of Alabama. For hunting, you may possess only approved nontoxic shot (see § 32.2(k)), .22 caliber rimfire or smaller rifles, or legal archery equipment according to State regulations.

4. You must possess and carry a signed refuge hunt permit (signed brochure) when hunting.

5. All persons age 15 or younger, while hunting on the refuge, must be in the presence and under direct supervision of a licensed or exempt hunter at least age 21. A licensed hunter supervising a youth must hold a valid State license for the species being hunted. One adult may supervise no more than two youth hunters.

6. The refuge is open daily from 1 hour before legal sunrise to 1 hour after legal sunset.

7. We require all hunters to record hours hunted and all harvested game on the Visitor Check-In Permit and Report (FWS Form 3-2405) at the conclusion of each day at one of the refuge check stations.

8. Persons possessing, transporting, or carrying firearms on the refuge must comply with all provisions of State and local law. Persons may only use (discharge) firearms in accordance with refuge regulations (see § 27.42 of this chapter and specific refuge regulations in this part 32).

9. We prohibit equestrian use, domestic livestock, and use of all-terrain vehicles (ATVs) and utility-type vehicles (UTVs).

10. You must restrain all pets, except during squirrel and rabbit hunting, when you may hunt with unleashed dogs.

11. Public use information and hunting and fishing dates are available at refuge headquarters and specified in the refuge brochure.

12. We prohibit the use or possession of alcoholic beverages while hunting (see § 32.2(j)).

13. We prohibit hunting with the aid of baits, salts, scent, or ingestible attractant (see § 32.2(h)).

C. * * *

1. Conditions B1 through B13 apply.

2. Deer hunters may place one portable stand or blind on the refuge for use while deer hunting, but only during the open deer season. The stand must be clearly labeled with the hunter's name, address, and phone number. You may leave the stand or blind on the refuge overnight in a non-hunting position at ground level.

* * * * *

4. We prohibit damaging trees, including driving or screwing any metal object into a tree or hunting from a tree in which a metal object has been driven or screwed to support a hunter (see § 32.2(i)).

D. * * *

2. Conditions B1, B2, B4, B6, B8 through B13, and C4 apply.

* * * * *

4. We prohibit the taking of frogs, turtles, and crawfish (see § 27.21 of this chapter).

* * * * *

7. We require a refuge Special Use Permit (FWS Form 3-1383-C) for commercial activities.

* * * * *

4. Amend § 32.22, the entry for Havasu National Wildlife Refuge, by revising paragraphs A, B.2, C.1, D.3, and D.6 to read as follows:

§ 32.22 Arizona.

* * * * *

Havasu National Wildlife Refuge

A. Migratory Game Bird Hunting. We allow hunting of mourning and white-winged dove, duck, coot, moorhen, goose, and common snipe on designated areas of the refuge in accordance with State regulations and subject to the following conditions:

1. We prohibit falconry.

2. You may possess only approved nontoxic shot while in the field (see § 32.2(k)).

3. You may not hunt within 50 yards (45 meters) of any building or public road.

4. We prohibit target shooting.

5. Persons possessing, transporting, or carrying firearms on the refuge must comply with all provisions of State and local law. Persons may only use (discharge) firearms in accordance with refuge regulations (see § 27.42 of this chapter and specific refuge regulations in this part 32).

6. We prohibit the construction or use of pits and permanent blinds (see § 27.92 of this chapter).

7. You must remove temporary blinds, boats, hunting equipment, and decoys from the refuge following each day's hunt (see §§ 27.93 and 27.94 of this chapter).

8. We prohibit retrieving game from closed areas. You may retrieve game from areas closed to hunting, but otherwise open to entry, as long as you possess no hunting firearms or other means of take.

9. Anyone hired to assist or guide hunter(s) must possess and carry a valid Special Use Permit (FWS Form 3-1383) issued by the refuge manager.

10. We prohibit hunting on those refuge lands within the Lake Havasu City limits.

11. The following conditions apply only to Pintail Slough (all refuge lands north of North Dike):

i. We require a fee for waterfowl hunting. You must possess proof of payment while hunting.

ii. Waterfowl hunters must hunt within 25 feet (7.5 meters) of the numbered post of their assigned blind.

iii. We limit the number of persons at each waterfowl hunt blind to three. Observers cannot hold shells or guns for hunting unless in possession of a valid State hunting license and stamps.

iv. We limit the number of shells a waterfowl hunter may possess to 25.

v. Waterfowl hunters must possess at least 12 decoys per blind.

vi. You may use only dead vegetation or materials brought from off refuge for making or fixing hunt blinds. We prohibit the cutting, pulling, marking or removing vegetation (see §§ 27.51 of this chapter).

vii. Waterfowl hunters must be at their blind at least 45 minutes before legal shoot time and not leave their blind until 10 a.m. MST.

viii. We allow waterfowl hunting on Wednesdays, Saturdays, and Sundays. Waterfowl hunting ends at 12 p.m. (noon) MST. Hunters must be out of the slough area by 1 p.m. MST.

ix. We allow qualifying youth to participate in the youth waterfowl hunt.

x. We allow dove hunting at Pintail Slough only during the September season.

12. The following conditions apply to all waters of the lower Colorado River within the refuge:

i. We close designated portions of Topock Marsh to all entry from October 1 through the last day of the waterfowl hunt season (including the State youth waterfowl hunt). These areas are indicated in refuge brochures and identified by buoys and/or signs.

ii. We prohibit hunting in the waters of the Colorado River and on those refuge lands within ¼ mile (.4 kilometer) of the waters of the Colorado River from and including Castle Rock Bay north to Interstate 40.

iii. We allow hunting on refuge lands and waters south of Castle Rock Bay to the north boundary of the Lake Havasu City limits.

13. We prohibit the use of all air-thrust boats and/or air-cooled propulsion engines, including floating aircraft.

14. Dogs must be under your immediate control at all times.

B. * * *

2. We prohibit the possession of rifles for hunting.

* * * * *

C. * * *

1. Conditions A2 through A9, and A12ii apply.

D. * * *

3. Anyone hired to assist or guide anglers must possess and carry a valid Special Use Permit (FWS Form 3-1383) issued by the refuge manager.

* * * * *

6. The following apply to improved areas within the refuge. Improved areas consist of the Mesquite Bay areas, Castle Rock, the Diving Cliffs, Catfish Paradise, Five Mile Landing and North Dike.

i. We prohibit entry of all motorized watercraft in all three bays of the Mesquite Bay areas as indicated by signs or regulatory buoys.

ii. Improved areas are day-use only and are open from ½ hour before legal sunrise to ½ hour after legal sunset. We allow fishing and launching water craft at these and other areas 24 hours a day.

iii. We prohibit the possession of open containers of alcohol or the possession of glass beverage containers in improved areas.

* * * * *

5. Amend § 32.23 by:

a. Under the entry Bald Knob National Wildlife Refuge:

i. Revising paragraphs A.1, A.2, A.9, A.11, and A.22;

ii. Revising paragraphs B.1 and B.3 through B.6;

iii. Revising paragraphs C.1, C.3, C.5, C.6, C.9, C.10, C.11, and C.17;

iv. Adding paragraph C.19; and

v. Revising paragraph D introductory text and paragraphs D.1 and D.2;

b. Under the entry Big Lake National Wildlife Refuge:

i. Revising paragraphs B.15, B.17, and C.7; and

ii. Adding paragraph C.12;

c. Under the entry Cache River National Wildlife Refuge:

i. Revising paragraphs A.2 and A.23; and

ii. Revising paragraph C introductory text and paragraph C.12;

d. Revising paragraphs B, C, and D under the entry Holla Bend National Wildlife Refuge;

e. Under the entry Wapanocca National Wildlife Refuge:

i. Revising paragraphs A.5, A.10, and A.11;

ii. Revising paragraph C.6; and

iii. Adding paragraph C.9; and

f. Under the entry White River National Wildlife Refuge:

i. Revising the heading of the entry to read, “Dale Bumpers White River National Wildlife Refuge” and moving the entry into alphabetical order within the section;

ii. Removing paragraph A.14;

iii. Redesignating paragraphs A.15 through A.26 as A.14 through A.25, respectively;

iv. Revising newly redesignated paragraphs A.16, A.17, A.20, and A.24;

v. Revising paragraphs B.1 and B.6;

vi. Revising paragraphs C.1, C.2, C.3, C.8, and C.10;

vii. Removing paragraph C.11;

viii. Redesignating paragraphs C.12 through C.20 as C.11 through C.19, respectively;

ix. Revising newly redesignated paragraphs C.18 and C.19; and

x. Revising paragraph D.5.

The revisions and additions read as follows:

§ 32.23 Arkansas.

* * * * *

Bald Knob National Wildlife Refuge

A. * * *

1. We require refuge hunting permits (signed brochure). The permits are nontransferable, and anyone on refuge land in possession of hunting equipment must possess a signed permit at all times.

2. We prohibit migratory game bird hunting on the refuge during the Quota Gun Deer Hunt.

* * * * *

9. We open the refuge to daylight use only, with the exception that hunters may enter the refuge beginning at 4 a.m. and must exit by 1 hour after legal shooting time ends.

* * * * *

11. You may possess only biodegradable materials to mark trails.

* * * * *

22. We prohibit the use or possession of alcoholic beverages while hunting (see § 32.2(j)). We prohibit open alcohol containers on refuge roads, all-terrain vehicles (ATV) trails, boat ramps, observation platforms, and parking areas.

* * * * *

B. * * *

1. Conditions A1, A6, A9, A11 through A13, and A17 through A23 apply.

* * * * *

3. We allow squirrel hunting September 1 through February 28 on the Mingo Creek Unit and on the Farm Unit, except for season closure of the refuge during the Quota Gun Deer Hunt. We allow dogs.

4. We allow rabbit hunting in accordance with the State season on the Mingo Creek Unit and on the Farm Unit, except for season closure of the refuge during the Quota Gun Deer Hunt. We allow dogs.

5. We allow quail hunting in accordance with the State season except for season closure of the refuge during the Quota Gun Deer Hunt. We allow dogs.

6. We allow daylight hunting of raccoon and opossum with dogs on all refuge hunt units. Nighttime hunting of raccoon and opossum is allowed only on the Mingo Creek Unit with a Special Use Permit (FWS Form 3-1383-G). We require dogs for hunting raccoon/opossum at night. We list annual season dates in the refuge hunting brochure/permit. We prohibit field trials and organized training events.

* * * * *

C. * * *

1. Conditions A1, A6, A9, A11 through A13, A17 through A23, and B8 through B12 apply.

* * * * *

3. The archery/crossbow hunting season for deer begins on the opening day of the State season and continues throughout the State season in the Mingo Creek Unit and Farm Unit except for the season closure of the refuge during the Quota Gun Deer Hunt. We provide annual season dates and bag limits in the hunt brochure/permit (signature required).

* * * * *

5. The modern gun hunting season for deer will begin in November and continue for a period of up to 9 days in all hunting units with annual season dates and bag limits provided in the hunt brochure/permit.

6. We prohibit leaving any tree stand, ground blind, or game camera on the refuge without the owner's name, address, and phone number clearly written in a conspicuous location.

* * * * *

9. Immediately record the zone (002) on your hunting license and check all harvested game according to State regulations.

10. You may use only shotguns with rifled slugs, muzzleloaders, and legal pistols for modern gun deer hunting on the Farm Unit.

11. We allow only portable deer stands capable of being carried in their entirety by a single individual. You may erect stands 7 days prior to the refuge deer season and must remove them from the waterfowl sanctuaries prior to November 15, except for stands used by Quota Gun Deer Hunt permit holders (signature required), which you must remove by the last day of the Quota Gun Deer Hunt. You must remove all stands on the remainder of the refuge within 7 days of the closure of archery season (see § 27.93 of this chapter).

* * * * *

17. We allow only Quota Gun Deer Hunt permit holders on the refuge during the Quota Gun Deer Hunt and only for the purposes of deer hunting. We close the refuge to all other entry and public use during the Quota Gun Deer Hunt.

* * * * *

19. You may enter the refuge at 4 a.m. and remain until 1 hour after legal shooting time.

D. Sport Fishing. We allow fishing in accordance with State regulations subject to the following conditions:

1. Conditions A9, A11, A19 through A23, B11, and C18 apply.

2. We close waterfowl sanctuaries to all entry from November 15 to February 28. We also close the refuge to all entry and fishing during the Quota Gun Deer Hunt.

* * * * *

Big Lake National Wildlife Refuge

* * * * *

B. * * *

15. We prohibit the use or possession of alcoholic beverages while hunting (see § 32.2(j)). We prohibit open alcohol containers on refuge roads, trails, boat ramps, parking areas, fishing piers, observation decks, and photo blinds.

* * * * *

17. We prohibit loaded hunting firearms or muzzleloaders in or on a vehicle, or boat while under power. We define “loaded” as shells in the firearm or ignition device on the muzzleloader.

* * * * *

C. * * *

7. We allow only portable deer stands capable of being carried in their entirety by a single individual. You may erect stands 7 days prior to the refuge deer season and must remove them 7 days before the closure of archery season (see § 27.93 of this chapter).

* * * * *

12. We prohibit leaving any tree stand, ground blind, or game camera on the refuge without the owner's name, address, and phone number clearly written in a conspicuous location.

* * * * *

Cache River National Wildlife Refuge

A. * * *

2. We prohibit migratory game bird hunting on the refuge during the Quota Gun Deer Hunt.

* * * * *

23. We prohibit loaded hunting firearms or muzzleloaders in or on a vehicle, ATV, or boat while under power. We define “loaded” as shells in the firearm or ignition device on the muzzleloader.

* * * * *

C. Big Game Hunting. We allow hunting of deer and turkey on designated areas of the refuge in accordance with State regulations and subject to the following conditions:

* * * * *

12. We prohibit leaving any tree stand, ground blind, or game camera on the refuge without the owner's name, address, and phone number clearly written in a conspicuous location.

* * * * *

Dale Bumpers White River National Wildlife Refuge

A. * * *

16. We require hunters born after 1968 to carry a valid hunter-education card. We do not require hunters under age 16 to have a hunter-education card while under direct supervision (within arm's reach) of a holder of a valid hunting license who is at least age 21. Youth hunters under age 16 must remain within sight and normal voice contact of an adult age 21 or older, possessing a valid hunting license. An adult may supervise only one youth for big game hunting but may supervise up to two youths for waterfowl and small game hunting.

17. We allow take of beaver, nutria, and coyote, incidental to any daytime refuge hunt with weapons authorized for that hunt. We prohibit take of beaver, nutria, and feral hog with the aid of dogs or after the hunter has taken the daily bag limit for that hunt. We allow feral hog to be taken during modern gun and muzzleloader deer hunts.

* * * * *

20. We allow camping only in designated sites and areas identified in the refuge user brochure/permit, and we restrict camping to individuals involved in wildlife-dependent activities. Campers may stay no more than 14 days during any 30 consecutive-day period in any campground site or area and must occupy camps daily. We prohibit all disturbances, including use of generators, after 10 p.m.

* * * * *

24. We prohibit hovercraft, personal watercraft (e.g., jet skis, etc.), and airboats.

* * * * *

B. * * *

1. Conditions A1, A9, A10, A11, A12, and A15 through A25 apply.

* * * * *

6. You may possess only approved nontoxic shot when hunting upland game (see § 32.2(k)).

* * * * *

C. * * *

1. Conditions A1, A9, A10, A11, A12, and A15 through A25 apply.

2. Archery deer seasons on the North Unit are from the beginning of the State archery season until the end of January except for refuge-wide season closure during quota muzzleloader and quota gun deer hunts. We provide annual season dates and bag limits in the refuge user brochure/permit.

3. Archery deer seasons on the South Unit are from the beginning of the State archery season until the end of December except for refuge-wide season closure during quota muzzleloader and quota gun deer hunts. We provide annual season dates and bag limits in the refuge user brochure/permit.

* * * * *

8. If you harvest deer or turkey on the refuge, you must immediately record the zone number (Zone 146 South Unit and Zone 145 North Unit) on your hunting license and later check deer and/or turkey through State phone or online checking system.

* * * * *

10. You must follow refuge guidance regarding flood-zone closures during the deer hunt. Guidance is found in the refuge brochure, which you must carry at all times.

* * * * *

18. We prohibit hunting on the Kansas Lake Area after November 30.

19. We prohibit the possession of buckshot on the refuge.

D. * * *

5. We prohibit all commercial and recreational harvest of turtle on all property administered by Dale Bumpers White River National Wildlife Refuge.

* * * * *

Holla Bend National Wildlife Refuge

* * * * *

B. Upland Game Hunting. We allow hunting of squirrel, rabbit, raccoon, opossum, beaver, armadillo, coyote, and bobcat on designated areas of the refuge in accordance with State regulations and subject to the following conditions:

1. We require refuge hunting permits (name, address, signature required). The permits are nontransferable, and anyone on refuge land in possession of hunting equipment must sign, possess, and carry the permits at all times. Your hunt permit will also act as your entrance pass to the refuge.

2. During the refuge archery season, you may take only squirrel, rabbit, raccoon, opossum, beaver, armadillo, coyote, or bobcat.

3. We allow gun hunting of raccoon and opossum with dogs every Thursday, Friday, and Saturday until legal sunrise during the month of February. We prohibit field trails and organized training events (see § 26.21(b) of this chapter).

4. Persons possessing, transporting, or carrying firearms on the refuge must comply with all provisions of State and local law. Persons may only use (discharge) firearms in accordance with refuge regulations (see § 27.42 of this chapter and specific refuge regulations in this part 32). We prohibit target practice or nonhunting discharge of firearms (see § 27.42(a) of this chapter).

5. We prohibit the use or possession of alcoholic beverages while hunting (see § 32.2(j)). We prohibit open alcohol containers on refuge roads, boat ramps, observation platforms, and parking areas.

6. We only allow all-terrain vehicles (ATVs) for hunters and anglers with disabilities. We require a refuge ATV permit (Special Use Permit; FWS Form 3-1383-G) issued by the refuge manager.

7. We prohibit the use of horses and mules.

8. We prohibit hunting from a vehicle.

9. We only allow vehicle use on established roads and trails (see § 27.31 of this chapter).

10. You must enter and exit the refuge from designated roads and parking areas. We prohibit accessing refuge waters and land from the Arkansas River. We prohibit boating over the dam at the Old River Channel from either direction.

11. We prohibit hunting within 150 feet (45 meters) of roads open to motor vehicle use and nature trails.

12. We prohibit marking trails with tape, ribbon, paint, or any other substance other than biodegradable materials.

13. We allow the use of nonmotorized boats during the refuge fishing/boating season (March 1 to October 31), but we prohibit hunters leaving boats on the refuge overnight (see § 27.93 of this chapter).

14. You must adhere to all public use special conditions and regulations in the annual public use regulations brochure/permit.

15. You may not possess live hogs or live coyotes.

C. Big Game Hunting. We allow hunting of deer and turkey on designated areas of the refuge in accordance with State regulations and subject to the following conditions:

1. Conditions B1 and B4 through B15 apply.

2. We allow archery/crossbow hunting for white-tailed deer and turkey. We provide annual season dates in the public use regulations brochure/permit (name, address, signature required).

3. The refuge will conduct one youth-only (between ages 6 and 15 at the beginning of the gun deer season in Zone 7) quota gun deer hunt. Specific hunt dates and application procedures will be available at the refuge office in July. We restrict hunt participants to those selected for a quota permit, except that one nonhunting adult age 21 or older must accompany the youth hunter during the youth hunt.

4. We open spring and fall archery turkey hunting during the State spring and fall turkey season for this zone.

5. We close the refuge to all entry and public use during scheduled youth quota gun hunts, except for those allowed to participate in the youth quota gun hunt.

6. The refuge will conduct two youth-only (age 6 to 15 at the beginning of the spring turkey season) quota spring gun turkey hunts, each 2 days in length. Specific hunt dates and application procedures will be available at the refuge office in January. We restrict hunt participants to those selected for a quota permit, except that one nonhunting adult age 21 or older must accompany the youth hunter during the youth hunt.

7. An adult age 21 or older must accompany and be within sight or normal voice contact of hunters age 15 and under. One adult may supervise no more than one youth hunter.

8. We allow only portable deer stands and blinds capable of being carried in their entirety by a single individual. You may erect stands 7 days before the start of the season and must remove the stands from the refuge within 7 days after the season ends (see §§ 27.93 and 27.94 of this chapter).

9. You must permanently affix the owner's name, address, and phone number to all tree stands, ground blinds, or game cameras on the refuge.

10. We prohibit the use of dogs during big game hunting.

11. We prohibit hunting from paved, graveled, and mowed roads and mowed trails (see § 27.31 of this chapter).

12. We prohibit hunting with the aid of bait, salt, or ingestible attractant (see § 32.2(h)).

13. We prohibit all forms of organized game drives.

14. You must check all game at the refuge check station.

15. We prohibit commercial hunting/guiding.

D. Sport Fishing. We allow sport fishing and frogging in accordance with State regulations and subject to the following conditions:

1. Conditions B6, B7, B9, and C5 apply.

2. Waters of the refuge are only open for fishing March 1 through October 31 during daylight hours.

3. We do not require a permit to fish but do require an entrance pass to the refuge, which can be purchased at the entrance fee station or refuge office.

4. We limit free-floating fishing devices, trotlines, and tree limb devices to 20 per person. Each device must have the angler's name and address.

5. You must reset trotlines and limb lines when receding water levels expose them.

6. We prohibit leaving trotlines and other self-fishing devices overnight or unattended.

7. You must enter and exit the refuge from designated roads and parking areas. We prohibit accessing refuge waters and land from the Arkansas River. We prohibit boating over the dam at the Old River Channel from either direction.

8. We prohibit anglers from leaving their boats unattended overnight on any portion of the refuge (see § 27.93 of this chapter).

9. We require a Special Use Permit (FWS form 3-1383-C) for all commercial fishing activities on the refuge.

10. We prohibit the take and possession of turtles and/or mollusks (see § 27.21 of this chapter).

11. We prohibit airboats, hovercraft, and personal watercraft (Jet Skis, etc.) (see § 27.31 of this chapter).

* * * * *

Wapannoca National Wildlife Refuge

A. * * *

5. We prohibit all-terrain vehicles (ATVs).

* * * * *

10. We prohibit the use or possession of alcoholic beverages while hunting (see § 32.2(j)). We prohibit open alcohol containers on refuge roads, trails, boat ramps, parking areas, fishing piers, observation decks, and photo blinds.

11. We prohibit loaded hunting firearms or muzzleloaders in or on a vehicle or boat while under power (see § 27.42(b) of this chapter). We define “loaded” as shells in the firearm or ignition device on the muzzleloader.

* * * * *

C. * * *

6. We allow only portable deer stands capable of being carried in their entirety by a single individual. You may erect stands 7 days prior to the refuge deer season and must remove them from the waterfowl sanctuaries by December 1. You must remove all stands on the remainder of the refuge within 7 days of the closure of archery season (see § 27.93 of this chapter).

* * * * *

9. We prohibit leaving any tree stand, ground blind, or game camera on the refuge without the owner's name, address, and phone number clearly written in a conspicuous location.

* * * * *

6. Amend § 32.24 by:

a. Under the entry Clear Lake National Wildlife Refuge:

i. Revising paragraphs A.1 and A.2;

ii. Removing paragraph A.3; and

iii. Revising paragraph C.1;

b. Revising paragraphs A.2 and A.3 under the entry Colusa National Wildlife Refuge;

c. Revising paragraphs A.2, A.3, and A.12 under the entry Delevan National Wildlife Refuge;

d. Under the entry Don Edwards San Francisco Bay National Wildlife Refuge:

i. Revising paragraphs A.2.iii, A.2.iv, A.3, A.4, A.5, A.6, and A.7;

ii. Removing paragraph A.8;

iii. Redesignating paragraphs A.9 and A.10 as A.8 and A.9, respectively; and

iv. Revising newly redesignated paragraph A.8;

e. Revising paragraph A.4 under the entry Lower Klamath National Wildlife Refuge;

f. Revising paragraphs A.2, A.3, and A.12 under the entry Sacramento National Wildlife Refuge;

g. Revising paragraph A under the entry Salinas National Wildlife Refuge;

h. Revising paragraphs A.1, A.3, A.4, A.5, A.6, and A.8 under the entry San Pablo Bay National Wildlife Refuge;

i. Revising paragraphs A.2 and A.3 under the entry Sutter National Wildlife Refuge; and

j. Under the entry Tule Lake National Wildlife Refuge:

i. Revising paragraph A.4;

ii. Redesignating paragraphs A.5 through A.9 as A.6 through A.10; and

iii. Adding a new paragraph A.5.

The revisions and addition read as follows:

§ 32.24 California.

* * * * *

Clear Lake National Wildlife Refuge

A. * * *

1. We allow waterfowl hunting on designated areas of the refuge 7 days per week during the State regulated season.

i. You may hunt from the shoreline only.

ii. You may not use a boat of any kind while conducting waterfowl hunting activities.

2. You may possess only approved nontoxic shot while in the field (see § 32.2(k)).

* * * * *

C. * * *

1. You may hunt only in the unit for 9 consecutive days beginning on the first Saturday following the third Wednesday in August.

* * * * *

Colusa National Wildlife Refuge

A. * * *

2. You must return the State-issued entry permit and vacate the refuge no later than 1½ hours after legal sunset unless participating in an overnight stay in accordance with A13.

3. Youth hunters must be accompanied by an adult (age 18 or older) at all times while hunting.

* * * * *

Delevan National Wildlife Refuge

A. * * *

2. You must return the State-issued entry permit and vacate the refuge no later than 1½ hours after legal sunset unless participating in an overnight stay in accordance with A14.

3. Youth hunters must be accompanied by an adult (age 18 or older) at all times while hunting.

* * * * *

12. We prohibit snipe hunting in the assigned pond/spaced blind areas.

* * * * *

Don Edwards San Francisco Bay National Wildlife Refuge

A. * * *

2. * * *

iii. Ponds AB1, A2E, AB2, A3N, and A3W in the Alviso Unit. These ponds are located on the west side of the Bay between Stevens Creek and Guadalupe Slough. You must obtain a refuge Special Use Permit (FWS Form 3-1383) to hunt these ponds. Access to Ponds AB1 and A2E will be from the Crittenden Lane Trailhead in Mountain View. Access to Ponds A3W will be from the Carl Road Trailhead in Sunnyvale. Access to Ponds A3N and AB2 is by boat from the other ponds. We allow hunting only from existing hunting blinds. We allow hunting only on Wednesdays, Saturdays, and Sundays on these ponds.

iv. Ponds A5, A7, and A8N in the Alviso Unit. These ponds are located on the south end of the Bay between Guadalupe Slough and Alviso Slough. You must obtain a refuge Special Use Permit (FWS Form 3-1383) to hunt these ponds. Access is via walking and bicycling from the Gold Street gate in Alviso. We allow hunting from existing hunting blinds and by walking pond levees. We allow hunting only on Wednesdays, Saturdays, and Sundays on these ponds.

3. During the 2 weeks before the opening of the hunt season, you may bring a boat into Ponds AB1, A2E, AB2, A3N, A3W, A5, A7, and A8N and moor it at a designated site only if authorized by a valid refuge Special Use Permit (FWS Form 3-1383). These boats will be used to access the hunting blinds and will stay in the pond during the hunt season. You must remove your boat within 2 weeks following the close of the hunt season. We allow nonmotorized boats and motorized boats powered by electric, gasoline direct fuel injection 2-stroke, or 4-stroke gasoline motors only.

4. You may maintain an existing blind in the ponds open to hunting if you have a valid refuge Special Use Permit (FWS Form 3-1383), but the blind will be open for general use on a first-come, first-served basis. We prohibit pit blinds or digging into the levees (see § 27.92 of this chapter).

5. You must remove all decoys and other personal property (except personal boats authorized by a refuge Special Use Permit, FWS Form 3-1383) from the refuge by legal sunset. You must remove all trash, including shotshell hulls, when leaving hunting areas (see §§ 27.93 and 27.94 of this chapter).

6. You may enter closed areas of the refuge to retrieve downed birds, provided you leave all weapons in a legal hunting area. We encourage the use of retriever dogs. We prohibit other domesticated animals or pets. You must keep your dog(s) under immediate control of the handler at all times (see § 26.21(b) of this chapter). Dogs must remain inside a vehicle or be on a leash until they are on the ponds or on the levees (Ponds R1, 2, A5, 7, and 8N only) as a part of the hunt.

7. You may possess shotshells in quantities of 25 or fewer when in the field.

8. Persons possessing, transporting, or carrying firearms on the refuge must comply with all provisions of State and local law. Persons may only use (discharge) firearms in accordance with refuge regulations (see § 27.42 of this chapter and specific refuge regulations in this part 32). We prohibit target practice on the refuge or any nonhunting discharge of any firearm (see § 27.42 of this chapter).

* * * * *

Lower Klamath National Wildlife Refuge

A. * * *

4. Shooting hours end at 1 p.m. on all California portions of the refuge with the following exceptions:

i. The refuge manager may designate up to 6 afternoon special youth, ladies, veteran, or disabled hunter waterfowl hunts per season.

ii. The refuge manager may designate up to 3 days per week of afternoon waterfowl hunting for the general public after December 1.

* * * * *

Sacramento National Wildlife Refuge

A. * * *

2. You must return the State-issued entry permit and vacate the refuge no later than 1½ hours after legal sunset unless participating in an overnight stay in accordance with A14.

3. Youth hunters must be accompanied by an adult (age 18 or older) at all times while hunting.

* * * * *

12. We prohibit snipe hunting in the assigned pond/spaced blind areas.

* * * * *

Salinas National Wildlife Refuge

A. Migratory Game Bird Hunting. We allow hunting of goose, duck, coot, and moorhen on a hunt area along the Salinas River on the southeast portion of the refuge, as designated by posted signs, in accordance with State regulations and subject to the following conditions:

1. You may possess shotshells only in quantities of 25 or fewer.

2. Access to the hunt area is by foot traffic only. We prohibit bicycles and other conveyances. Mobility-impaired hunters should consult with the refuge manager for allowed conveyances.

3. We only allow dogs engaged in hunting activities on the refuge during the waterfowl season. You must keep dog(s) under your immediate control at all times (see § 26.21(b) of this chapter). We prohibit training of dogs on the refuge. We prohibit other domesticated animals or pets.

4. Persons possessing, transporting, or carrying firearms on the refuge must comply with all provisions of State and local law. Persons may only use (discharge) firearms in accordance with refuge regulations (see § 27.42 of this chapter and specific refuge regulations in this part 32). We prohibit target practice on the refuge or any nonhunting discharge of any firearm (see § 27.42 of this chapter).

5. You must remove all decoys and other personal property from the refuge at the end of each day (see § 27.93 of this chapter). You must remove all trash, including shotshell hulls, when leaving hunting areas (see § 27.94 of this chapter).

* * * * *

San Pablo Bay National Wildlife Refuge

A. * * *

1. Unless posted in the field and/or noted below, we only allow hunting in the open waters of San Pablo Bay and its navigable sloughs. The following areas are closed to hunting:

i. Lower Tubbs Island;

ii. Lower Tubbs Setback;

iii. Cullinan Ranch Unit;

iv. Sonoma Baylands Unit; and

v. Within 300 feet (90 meters) of Highway 37.

* * * * *

3. You may possess shotshells only in quantities of 25 or fewer while in the field.

4. You must remove all decoys, boats, and other personal property from the refuge at the end of each day (see § 27.93 of this chapter). You must remove all trash, including shotshell hulls, when leaving hunting areas (see § 27.94 of this chapter).

5. We prohibit entry to closed areas of the refuge prior to the hunting season in order to scout for hunting sites.

6. We only allow dogs engaged in hunting activities on the refuge during waterfowl season. We prohibit other domesticated animals or pets. You must keep dog(s) under your immediate control at all times (see § 26.21(b) of this chapter). We prohibit training of dogs on the refuge.

* * * * *

8. Persons possessing, transporting, or carrying firearms on the refuge must comply with all provisions of State and local law. Persons may only use (discharge) firearms in accordance with refuge regulations (see § 27.42 of this chapter and specific refuge regulations in this part 32). We prohibit target practice on the refuge or any nonhunting discharge of any firearm (see § 27.42 of this chapter).

* * * * *

Sutter National Wildlife Refuge

A. * * *

2. You must return the State-issued entry permit and vacate the refuge no later than 1½ hours after legal sunset unless participating in an overnight stay in accordance with A13.

3. Youth hunters must be accompanied by an adult (age 18 or older) at all times while hunting.

* * * * *

Tule Lake National Wildlife Refuge

A. * * *

4. Shooting hours end at 1 p.m. on all California portions of the refuge with the following exceptions:

i. The refuge manager may designate up to 6 afternoon special youth, ladies, veteran, or disabled hunter waterfowl hunts per season.

ii. The refuge manager may designate up to 3 days per week of afternoon waterfowl hunting for the general public after December 1.

5. You must be drawn daily to hunt all spaced blinds, including numbered blind areas, Sump 1B, and Frey's Island units, from the first day of the regulated hunting season through November 30. Drawings are held at the hunter check station located on County Road 103. Beginning December 1 through the last day of the season, spaced blinds are first-come, first-served.

* * * * *

7. Amend § 32.25 by:

a. Revising paragraphs A, B, and C under the entry Alamosa National Wildlife Refuge;

b. Adding, in alphabetical order, an entry for Baca National Wildlife Refuge; and

c. Revising paragraphs A, B, and C under the entry Monte Vista National Refuge.

The addition and revisions read as follows:

§ 32.25 Colorado.

* * * * *

Alamosa National Wildlife Refuge

A. Migratory Game Bird Hunting. We allow hunting of geese, ducks, coots, snipe, Eurasian collared-doves, and mourning doves on designated areas of the refuge in accordance with State and Federal regulations, and subject to the following conditions:

1. We allow Eurasian collared-dove hunting only during the mourning dove season.

2. You may possess only approved nontoxic shot for hunting (see § 32.2(k)).

3. The only acceptable methods of take are shotguns, hand-held bows, and hawking/falconry.

4. Persons possessing, transporting, or carrying firearms on national wildlife refuges must comply with all provisions of State and local law. Persons may only use (discharge) firearms in accordance with refuge regulations (see § 27.42 of this chapter and specific refuge regulations in this part 32).

B. Upland Game Hunting. We allow hunting of cottontail rabbit, and black-tailed and white-tailed jackrabbit, on designated areas of the refuge in accordance with State regulations and subject to the following conditions:

1. Conditions A2, A3 and A4 apply.

C. Big Game Hunting. We allow hunting of elk on designated areas of the refuge in accordance with State regulations and subject to the following conditions:

1. Condition A4 applies.

2. You must possess a valid State license and a refuge-specific permit from the State, or a valid State license issued specifically for the refuge, to hunt elk. State license selection will be made via the Colorado Parks and Wildlife hunt selection process.

* * * * *

Baca National Wildlife Refuge

A. Migratory Game Bird Hunting. We allow hunting of Eurasian collared-doves and mourning doves only in designated areas of the refuge in accordance with State and Federal regulations, and subject to the following conditions:

1. We allow Eurasian collared-dove hunting only during the mourning dove season.

2. You may possess only approved nontoxic shot for hunting (see § 32.2(k)).

3. The only acceptable methods of take are shotguns, hand-held bows, and hawking/falconry.

4. Persons possessing, transporting, or carrying firearms on national wildlife refuges must comply with all provisions of State and local law. Persons may only use (discharge) firearms in accordance with refuge regulations (see § 27.42 of this chapter and specific refuge regulations in this part 32).

B. Upland Game Hunting. We allow hunting of cottontail rabbit, and black-tailed and white-tailed jackrabbit, on designated areas of the refuge in accordance with State regulations and subject to the following conditions:

1. Conditions A2 and A4 apply.

2. We prohibit handguns for hunting.

3. Shotguns, rifles firing rim-fire cartridges less than .23 caliber, hand-held bows, pellet guns, slingshots, and hawking/falconry are the only acceptable methods of take.

C. Big Game Hunting. We allow hunting of elk on designated areas of the refuge in accordance with State regulations and subject to the following conditions:

1. Condition A4 applies.

2. You must possess a valid State license and a refuge-specific permit from the State, or a valid State license issued specifically for the refuge, to hunt elk. State license selection will be made via the Colorado Parks and Wildlife hunt selection process.

D. Sport Fishing. [Reserved]

* * * * *

Monte Vista National Wildlife Refuge

A. Migratory Game Bird Hunting. We allow hunting of geese, ducks, coots, snipe, Eurasian collared-doves, and mourning doves on designated areas of the refuge in accordance with State and Federal regulations, and subject to the following conditions:

1. We allow Eurasian collared-dove hunting only during the mourning dove season.

2. You may possess only approved nontoxic shot for hunting (see § 32.2(k)).

3. The only acceptable methods of take are shotguns, hand-held bows, and hawking/falconry.

4. Persons possessing, transporting, or carrying firearms on national wildlife refuges must comply with all provisions of State and local law. Persons may only use (discharge) firearms in accordance with refuge regulations (see § 27.42 of this chapter and specific refuge regulations in this part 32).

B. Upland Game Hunting. We allow hunting of cottontail rabbit, and black-tailed and white-tailed jackrabbit, on designated areas of the refuge in accordance with State regulations and subject to the following conditions:

1. Conditions A2, A3, and A4 apply.

C. Big Game Hunting. We allow hunting of elk on designated areas of the refuge in accordance with State regulations and subject to the following conditions:

1. Condition A4 applies.

2. You must possess a valid State license and a refuge-specific permit from the State, or a valid State license issued specifically for the refuge, to hunt elk. State license selection will be made via the Colorado Parks and Wildlife hunt selection process.

3. During firearms elk seasons, hunters must follow State law for use of hunter orange.

* * * * *

8. Amend § 32.27 by revising paragraph D under the entry Prime Hook National Wildlife Refuge to read as follows:

§ 32.27 Delaware.

* * * * *

Prime Hook National Wildlife Refuge

* * * * *

D. Sport Fishing. We allow fishing and crabbing on designated areas of the refuge in accordance with State regulations and subject to the following conditions:

1. We require all individuals fishing and/or crabbing on or from the refuge or within refuge waters to possess a signed refuge fishing/crabbing permit (FWS Form 3-2358) and a valid form of government-issued photo identification.

2. Anglers using boats on Turkle and Fleetwood Ponds may propel them manually or with electric motors only.

3. We do not allow fishing or crabbing from water control structures.

4. You may use or possess only nontoxic terminal tackle, weights, sinkers, and/or split shot while fishing or crabbing within refuge boundaries.

5. You may use only hook-and-line tackle when fishing for finfish.

6. You may use only hand lines, crab dip nets, hoop crab nets, and/or manually operated crab traps (collapsible traps) for crabbing.

7. You must attend to your fishing and/or crabbing lines and gear at all times.

8. We do not allow commercial fishing and/or crabbing.

* * * * *

9. Amend § 32.28 by:

a. Revising paragraphs C and D under the entry Lake Woodruff National Wildlife Refuge;

b. Under the entry Merritt Island National Wildlife Refuge:

i. Revising paragraph A introductory text and paragraphs A.1 through A.9, A.12, A.14, and A.15;

ii. Adding paragraph A.16;

iii. Revising paragraph C;

iv. Revising paragraph D introductory text and paragraphs D.1, D.3, D.4, D.5, D.8, D.11, D.14, D.15, D.16, and D.17; and

v. Removing paragraph D.18;

c. Revising paragraphs C.6 through C.9 and C.12 under the entry St. Marks National Wildlife Refuge; and

d. Revising paragraphs C.1, C.2, C.3, C.8, C.9, C.18 and D.6 under the entry St. Vincent National Wildlife Refuge.

The addition and revisions read as follows:

§ 32.28 Florida.

* * * * *

Lake Woodruff National Wildlife Refuge

* * * * *

C. Big Game Hunting. We allow hunting of white-tailed deer and feral hog on designated areas of the refuge in accordance with State regulations and subject to the following conditions:

1. We require Lake Woodruff hunt permits. The permits (signed annual hunt brochure) are free and nontransferable, and anyone on refuge land in possession of hunting equipment must sign, possess, and carry the permit at all times.

2. In addition to the valid, paid Lake Woodruff Quota Hunt Permit (Florida Fish and Wildlife Conservation Commission State Permit), which can be purchased through Florida Fish and Wildlife Conservation Commission (FWC), and a signed Lake Woodruff National Wildlife Refuge hunt permit (signed annual hunt brochure), hunters must have on their person all applicable Florida hunting licenses and permits. State requirements for hunter safety apply.

3. All hunters must be on stands or in blinds while hunting.

4. We prohibit stalking or movement through the hunt area while hunting.

5. We prohibit scouting in the hunt area, whether you hold a permit for the current hunt or a future hunt, during the quota hunt.

6. We prohibit possession of hunting weapons while scouting.

7. Persons possessing, transporting, or carrying firearms on National Wildlife Refuges must comply with all provisions of State and local law. Persons may only use (discharge) firearms in accordance with refuge regulations (see § 27.42 of this chapter and refuge-specific regulations in this part 32).

8. We close the hunt areas of the refuge to all public use except to permitted hunters. The refuge is closed between legal sunset and legal sunrise, except permitted hunters may access the refuge 2 hours prior to legal sunrise each hunting day. All hunters must be off the refuge 2 hours after legal sunset.

9. You may set up stands or blinds 2 days prior to the hunt for which you are permitted, and you must remove them on or before the last day of your permitted hunt. You must clearly mark stands with the hunter's name and address or the Florida Fish and Wildlife Conservation Commission (FWC) customer number found on your hunting license. No more than one stand or blind per person may be on the refuge at any time, unless a permitted hunter is accompanied by a youth hunter. Stands and/or blinds for youth hunters must be placed within sight and normal voice contact of the permitted hunter's stand and marked with the adult permitted hunter's name and address or the FWC customer number and the word “YOUTH.”

10. If you use flagging or other trail marking material, you must print your name or FWC customer number on each piece or marker. You may set up flagging and trail markers 2 days prior to the permitted hunt, and you must remove them on or before the last day of the permitted hunt.

11. You must check out any game taken during the hunts at a self-check station.

12. We allow primitive gun hunting only in the Western Unit, which is only accessible by boat.

13. We prohibit hunting with dogs.

14. We prohibit accessing the refuge through the railroad right-of-way.

15. Hunters under age 16 do not need a quota permit, but must be accompanied by an adult age 18 or older. Each adult may supervise one youth hunter and must remain within sight and normal voice contact; the pair must share a single bag limit unless hunting during a designated Family or Youth Hunt.

16. Archery hunters must wear a vest or jacket containing back and front panels of at least 500 square inches (3,226 square centimeters) of solid-fluorescent-orange color when moving to and from their vehicle, to their deer stand or their hunting spot, and while tracking or dragging out their deer. We do not require archery hunters to wear solid-colored-fluorescent hunter orange when positioned in their stands to hunt.

D. Sport Fishing. We allow sport fishing on designated areas of the refuge in accordance with State regulations and subject to the following conditions:

1. We require a Florida Freshwater Fishing license, and we adhere to State regulations for bag and length limits.

2. Fishing on the refuge is by hook and line only. We prohibit cast nets.

3. We allow fishing from legal sunrise to legal sunset.

4. We prohibit the use of airboats on the refuge.

5. We prohibit commercial fishing and the taking of frogs, turtles, or any other wildlife without permit (see § 27.21 of this chapter).

6. We prohibit the use of snatch hooks in the refuge impoundments.

* * * * *

Merritt Island National Wildlife Refuge

A. Migratory Game Bird Hunting. We allow hunting of ducks, mergansers, and coots in designated areas of the refuge in accordance with State regulations and subject to the following conditions:

1. Persons possessing, transporting, or carrying firearms on National Wildlife Refuges must comply with all provisions of Federal, State, and local law. Persons may only use (discharge) firearms in accordance with refuge regulations (see § 27.42 of this chapter and this part 32).

2. You must possess and carry a current, signed Merritt Island National Wildlife Refuge hunt permit (signed brochure, non-transferable) at all times while hunting waterfowl on the refuge.

3. You must carry a valid State-issued Merritt Island Waterfowl Quota Permit (Waterfowl Quota Permit), which can be purchased through the Florida Fish and Wildlife Conservation Commission (FWC) while hunting in areas 1 or 4 from the beginning of the regular waterfowl season through January 31.

4. We allow hunting on Wednesdays, Saturdays, Sundays, and Federal holidays, including Thanksgiving, Christmas, and New Year's Day, that fall within the State's waterfowl season.

5. We allow hunting in four designated areas of the refuge as delineated in the refuge hunting regulations map. We prohibit hunters entering the normal or expanded restricted areas of the Kennedy Space Center (KSC).

6. We only allow hunting of waterfowl on refuge-established hunt days from ½ hour before legal sunrise until 12 p.m. (noon). All equipment must be removed by 1 p.m. daily.

7. You may enter the refuge no earlier than 4 a.m. for the purpose of waterfowl hunting.

8. You must comply with State requirements for hunter-education courses.

9. We require an adult, age 18 or older, to supervise hunters age 15 and younger. The adult must remain within sight and normal voice contact of the youth hunter.

* * * * *

12. We prohibit hunting or shooting within 25 feet (7.6 meters), or shooting from any portion of, a dike, dirt road, or railroad grade.

* * * * *

14. You must stop at posted refuge waterfowl check stations and report statistical hunt information on the Migratory Bird Hunt Report (FWS Form 3-2361) to refuge personnel.

15. You may not possess more than 25 shells in 1 hunt day.

16. You may only use gasoline, diesel, or electric motors inside the impoundment perimeter ditch.

* * * * *

C. Big Game Hunting. We allow the hunting of white-tailed deer and feral hog in designated areas of the refuge in accordance with State regulations and subject to the following conditions:

1. We require a State-issued Merritt Island National Wildlife Refuge Big Game Quota Hunt Permit (Quota Hunt Permit), which can be purchased through the FWC. The Quota Hunt Permit is a limited entry quota permit, is zone-specific, and is nontransferable.

2. You must have a valid signed Big Game Hunt Permit (signed annual hunt brochure). The permits are free and nontransferable, and anyone on refuge land in possession of hunting equipment must sign and carry the signed permit at all times.

3. You must also have on your person all applicable Florida hunting licenses and permits. State requirements for hunter safety apply.

4. Licenses, permits, all hunting equipment and effects, and vehicles and/or other conveyances are subject to inspection by law-enforcement officials.

5. We allow hunting as a 3-day weekend within the State's deer season. Legal shooting hours are ½ hour before legal sunrise to ½ hour after legal sunset.

6. We close the hunt areas of the refuge to all public use except to permitted hunters.

7. The refuge is closed between legal sunset and legal sunrise except permitted hunters may access the refuge no earlier than 2 hours before legal sunrise and must leave the refuge no later than 2 hours after legal sunset.

8. You are prohibited from entering the normal or expanded restricted areas of KSC. KSC maintains the right to close any portion of the refuge for any length of time. In that case, we will not refund or reissue any permits.

9. We prohibit hunting from refuge roads or within 100 yards of roads open to public vehicle traffic or within 200 yards of a building or KSC facility.

10. Persons possessing, transporting, or carrying firearms on a National Wildlife Refuge must comply with all provisions of State and local law. Persons may only use (discharge) firearms in accordance with refuge regulations (see § 27.42 of this chapter and this part 32).

11. Hunters under age 16 do not need a Quota Hunt Permit, but must be accompanied by an adult age 18 or older. Each adult may supervise one youth hunter and must remain within sight and normal voice contact. The pair must share a single bag limit unless hunting during a designated Youth or Family hunt.

12. You may set up stands or blinds up to 2 days prior to the permitted hunt; you must remove them on the last day of your permitted hunt. You must clearly mark stands and blinds with your name and address or the FWC customer number found on your hunting license. You may have no more than one stand or blind per person on the refuge at any time. Stands or blinds for youth hunters must be placed within sight and normal voice contact of the supervisory hunter's stand and marked with the supervisory hunter's name and address or FWC customer number and the word “YOUTH.”

13. We prohibit all scouting in the hunt area during the quota hunt.

14. If you use flagging or other trail-marking material, you must print your name or FWC customer number on each piece or marker. You may set out flagging and trail markers up to 2 days prior to the permitted hunt, and you must remove them on the last day of the permitted hunt.

15. We allow legally permitted hunters to scout within their permitted zones up to 7 days prior to their permitted hunts. You must carry your valid Quota Hunt Permit identifying the permitted hunt zone while scouting.

16. We allow parking for scouting and/or hunting only along State Road (SR) 3, not within the hunt areas.

17. You must be on your stand or in your blind while hunting.

18. We prohibit stalking or moving through the hunt area while hunting.

19. You must be at your vehicle within 1 hour after legal shooting time. If you wish to track wounded game beyond 1 hour after legal sunset, you must gain consent from a Federal Wildlife Officer to do so.

20. We prohibit hunting with dogs.

21. We prohibit using dogs for tracking unless authorized by a Federal Wildlife Officer. Dogs must remain on a leash and be equipped with a GPS tracking device.

22. You may field dress game; however, we prohibit cleaning game within 1,000 feet of any public area, road, game-check station, or gate. We prohibit dumping game carcasses on the refuge.

23. Archery hunters must wear at least 500 square inches (3,226 square centimeters) of solid fluorescent-orange color while moving to and from their vehicles, to their stands or hunting spots, and while tracking or dragging out game.

24. The bag limit and antler requirements for white-tailed deer on the refuge will follow State regulations but will not exceed two deer per hunt. Antlered and antlerless deer are defined per State regulations. It is illegal to take spotted fawns.

25. There is no bag limit or size limit for the take of feral hogs.

26. You must report all hunting activities at one of the two check stations, including both successful and non-successful hunts, prior to leaving the refuge.

D. Sport Fishing. We allow recreational fishing, crabbing, clamming, and shrimping in designated areas of the refuge as delineated in the refuge fishing regulations map in accordance with State regulations and subject to the following conditions:

1. You must possess a current, signed refuge fishing permit (signed brochure) and a Florida State Freshwater and/or Saltwater fishing license at all times while fishing on the refuge. All State regulations for bag and length limits apply.

* * * * *

3. We allow launching of boats for night fishing activities only from Bair's Cove, Beacon 42, and Biolab boat ramps.

4. We prohibit crabbing or fishing from Black Point Wildlife Drive or any side road connected to Black Point Wildlife Drive except from L Pond Road.

5. We prohibit launching boats, canoes, or kayaks from Black Point Wildlife Drive or any side road connected to Black Point Wildlife Drive except from L Pond Road.

* * * * *

8. We prohibit use of personal watercraft, kite surfing, kite boarding, wind surfing, sail boarding, use of air thrust boats, and use of hovercraft or any similar non-wildlife oriented watercraft on the refuge or in refuge waters.

* * * * *

11. We prohibit fishing within the normal or expanded restricted areas of the KSC, unless those areas are officially designated by KSC as special fishing opportunity sites.

* * * * *

14. We prohibit fishing from, or in the immediate vicinity of, the Manatee Viewing Deck on the northeast side of Haulover Canal.

15. We require all commercial fishing guides to purchase, possess, and carry a Special Use Permit (FWS Form 3-1383-C).

16. You may only use gasoline, diesel, or electric motors inside the impoundment perimeter ditch.

17. Persons possessing, transporting, or carrying firearms on National Wildlife Refuges must comply with all provisions of Federal, State, and local law. Persons may only use (discharge) firearms in accordance with refuge regulations (see § 27.42 of this chapter and this part 32).

* * * * *

St. Marks National Wildlife Refuge

* * * * *

C. * * *

6. There are two fall archery hunts: You may harvest either-sex deer, feral hog, and bearded turkey during the fall archery hunts. We will hold one hunt on the Panacea Unit and one hunt on the Wakulla Unit. See condition C8 for specific information on bag limits. Contact the refuge office for specific dates.

7. There are two modern gun hunts. You may harvest deer, feral hog, and bearded turkey. Modern guns must meet State requirements. We will hold one hunt on the Panacea Unit and one hunt on the Wakulla Unit. See condition C8 for specific information on bag limits. Contact the refuge office for specific dates.

8. The bag limit for white-tailed deer is two deer per hunt, either two antlerless deer or one antlerless deer and one antlered deer. Antlerless deer are defined per State regulations as deer with no antler or antlers less than 5 inches (12.75 centimeters). Antlered deer must have at least three points, 1 inch (2.5 centimeters) or greater on one antler to be harvested.

9. There is one youth white-tailed deer hunt and one youth turkey hunt for youth ages 12 to 17, on the St. Marks Unit in an area we will specify in the refuge hunt brochure. Youth hunters age 12 to 15 may harvest two deer, either two antlerless deer or one antlerless and one antlered. There are no restrictions on antler size for youth age 12 to 15. Youth hunters age 16 to 17 may harvest two deer, either two antlerless or one antlerless and one antlered. Antlered deer must have at least two points, 1 inch (2.5 centimeters) or greater on one antler to be harvested by youth age 16 to 17. Antlerless deer are defined in C8. The youth turkey hunt will be conducted in the St. Marks Unit in an area we will specify in the refuge hunt brochure. The limit will be one bearded turkey per hunter. Unlimited hogs may be harvested on both hunts. Only the youth hunter may handle or discharge firearms used for hunting. An adult age 21 or older must accompany and remain in sight and normal voice contact with each youth hunter. Contact the refuge office for specific dates.

* * * * *

12. Portions of the St. Marks Unit adjacent to Flint Rock Wildlife Management Area (as specified in the hunt brochure) will be open concurrent with Flint Rock Wildlife Management Area seasons and regulations except only white-tailed deer, feral hog, and turkey may be harvested. We require a refuge permit (signed brochure).

* * * * *

St. Vincent National Wildlife Refuge

* * * * *

C. * * *

1. We require refuge permits (State license—fee charged). The permits are nontransferable, and the hunter must possess them while hunting. Only signed permits are valid. We only allow people with a signed refuge hunt permit or the helpers of mobility-impaired hunters on the island during the hunt periods. Contact the refuge office for details on receiving a permit. We will charge fees for duplicate permits.

2. We restrict hunting to three periods: Primitive Weapons Sambar Deer (sambar deer, raccoon, and feral hog); Archery (white-tailed deer, raccoon, feral hog); and Primitive Weapons White-Tailed Deer (white-tailed deer, raccoon, and feral hog). Contact the refuge office for specific dates. You may check-in and set up camp sites and stands on the day prior to the scheduled hunt as specified in the brochure. You must leave the island and remove all equipment by the date and time specified in the brochure.

3. You must check-in at the check stations on the island. We restrict entry onto St. Vincent Island to the Indian Pass and West Pass Campsites. All access to hunt areas will be on foot or by bicycle from these areas.

* * * * *

8. You may retrieve game from the closed areas only if accompanied by a refuge staff member or a Federal Wildlife Officer.

9. We limit weapons to primitive weapons (bow and arrow and muzzleloader) on the primitive weapons sambar deer hunt and the primitive weapons white-tailed deer hunt. We limit the archery hunt to bow and arrow. Weapons must meet all State regulations. We prohibit crossbows during the white-tailed deer archery hunt except with a State disabled persons permit. You may take feral hog and raccoon only with the weapons allowed for that period.

* * * * *

18. Bag limits:

i. Primitive Weapons Sambar Deer Hunt: One sambar deer of either sex, no limit on feral hog or raccoon.

ii. Archery Hunt: One white-tailed deer of either sex. Antlered deer must have at least two points, 1 inch (2.5 centimeters) or more on one antler to be harvested. Antlerless deer are defined per State regulations as deer with no antler or antlers less than 5 inches (12.75 centimeters). Youth age 15 or younger may harvest any deer except spotted fawn. We prohibit harvesting of spotted fawns. There is no limit on feral hog or raccoon.

iii. Primitive Weapons White-Tailed Deer Hunt: One white-tailed deer. Antlered deer must have at least two points, 1 inch (2.5 centimeters) or more in length on one antler, to be harvested. We issue a limited number of either-sex tags. If you have an either-sex tag, the bag limit is one deer that may be antlerless or antlered with legal antler configuration. Antlerless deer are defined per State regulation as deer with no antler or antlers less than 5 inches (12.75 centimeters). Youth age 15 or younger may harvest any deer except spotted fawn. We prohibit harvesting of spotted fawns. There is no limit on feral hog or raccoon.

* * * * *

D. * * *

6. You may take only fish species, and you must comply with the fish limits, authorized by State regulations. We prohibit the taking of frog and/or turtle.

10. Amend § 32.31 by:

a. Revising paragraphs A, C.2, C.7, C.8, D.1, and D.4 under the entry Deer Flat National Wildlife Refuge; and

b. Revising paragraph A introductory text and paragraphs A.4 and C under the entry for Kootenai National Wildlife Refuge.

The revisions read as follows:

§ 32.31 Idaho.

* * * * *

Deer Flat National Wildlife Refuge

A. Migratory Game Bird Hunting. We allow hunting of goose, duck, coot, common snipe, and dove on designated areas of the refuge in accordance with State regulations and subject to the following conditions:

1. You may hunt only duck, coot, and mourning dove on the Lake Lowell Unit.

2. You may hunt duck and coot only within 200 yards (180 meters) of the shoreline.

3. Duck and coot hunting in the East Side Recreation Area is walk-in only. We prohibit using float tubes and boats. Duck and coot hunters in the South Side Recreation Area may use float tubes, nonmotorized boats, or boats equipped with electric motors within 200 yards (180 meters) of the shoreline. We prohibit the use or possession of gas-powered motors.

4. You may possess only 25 or fewer shotgun shells per day for hunting duck and coot.

5. You may only use portable and temporary blinds. We prohibit permanent structures (see § 27.92 of this chapter).

6. You must remove boats, decoys, blinds, other personal property, and any materials brought onto the refuge for blind construction at the end of each day (see §§ 27.93 and 27.94 of this chapter).

7. You may enter the refuge 1 hour before official shooting hours (½ hour before legal sunrise), and remain on the refuge until 1 hour after official shooting hours (legal sunset).

8. You may use dogs for hunting. Dogs must be under the immediate control of the handler at all times.

9. From February 1 through June 14, we prohibit hunting on all islands in the Snake River Islands Unit. From June 15 through June 30, we prohibit hunting on islands used by nesting birds. You must comply with all posted signs.

* * * * *

C. * * *

2. Only the southern portion of the Lake Lowell Unit is open to deer hunting. We define the boundary of the deer hunting area on the north by the southern shoreline of Lake Lowell, on the east by the New York Canal, on the south by the southern boundary of the refuge, and on the west by Riverside Road.

* * * * *

7. You may enter the Lake Lowell Unit no earlier than 2 hours before official shooting hours (½ hour before legal sunrise) and must leave the area within 2 hours after official shooting hours (½ hour after legal sunset). Successful hunters may extend their departure time only as long as is necessary to retrieve dead deer.

8. A refuge employee, State Game Warden, or local law-enforcement officer must accompany hunters to retrieve a wounded or dead deer from any area that is closed to deer hunting.

D. * * *

1. From October 1 through April 14, we only allow ice fishing within 200 yards (180 meters) of the shoreline in front of both the Lower Dam (Fishing Area A) and the Upper Dam (Fishing Area B) on the Lake Lowell Unit, unless otherwise posted by the Bureau of Reclamation.

* * * * *

4. From February 1 through June 14, we prohibit fishing from all islands in the Snake River Islands Unit. From June 15 through June 30, we prohibit fishing from islands used by nesting birds. You must comply with all posted signs.

* * * * *

Kootenai National Wildlife Refuge

A. Migratory Game Bird Hunting. We allow hunting of goose, duck, and coot on designated areas of the refuge in accordance with State regulations and subject to the following conditions:

* * * * *

4. On waterfowl hunt days, we allow waterfowl hunters to access the waterfowl hunt area after 3 a.m.

* * * * *

C. Big Game Hunting. We allow hunting of deer, elk, black bear, moose, and mountain lion on that portion of the refuge that lies west of Lion's Den Road in accordance with State regulations and subject to the following conditions:

1. We allow hunting of white-tailed deer at the designated accessible blind for hunters with disabilities subject to the following conditions:

i. You may only participate in deer hunting at the accessible blind with a refuge permit (name/address/phone number), which is issued through a random drawing in early August. You may apply for a 7-day archery-only permit (name/address/phone number) or a 7-day archery/special weapons-only permit (name/address/phone number). A total of 4 weeks of archery-only permits and 6 weeks of archery/special weapon-only permits will be available.

ii. You must possess a valid State disabled hunting license and tag and provide proof of this prior to the drawing.

iii. We only allow deer hunting at the accessible blind using the following weapons: Muzzleloader, archery equipment, crossbow, shotgun, or handgun. For shotguns, you may only use slugs. For handguns, you may only use straight-walled cartridges not originally established for rifles.

iv. You may possess only approved nontoxic shot for hunting (see § 32.2(k)).

2. We prohibit the use of dogs to hunt big game.

* * * * *

11. Amend § 32.32 by:

a. Under the entry Crab Orchard National Wildlife Refuge:

i. Removing paragraph B.6;

ii. Redesignating paragraphs B.3 through B.5 as B.4 through B.6, respectively;

iii. Adding a new paragraph B.3; and

iv. Revising paragraphs C.3. and D.10;

b. Under the entry Great River National Wildlife Refuge:

i. Revising paragraph C.5; and

ii. Removing paragraph C.7.iii;

c. Revising paragraphs B.1, C.1, C.2, and D.4 under the entry Middle Mississippi River National Wildlife Refuge; and

d. Under the entry Port Louisa National Wildlife Refuge:

i. Adding an introductory sentence immediately after the entry's heading and before paragraph A; and

ii. Revising paragraphs B.2 through B.5.

The revisions and additions read as follows:

§ 32.32 Illinois.

* * * * *

Crab Orchard National Wildlife Refuge

* * * * *

B. * * *

3. For hunting, you may possess only approved nontoxic shot shells while in the field, including shot shells used for hunting wild turkey (see § 32.2(k)).

* * * * *

C. * * *

3. We allow the use of legal-sized lead ammunition (see current Illinois hunting digest) for the taking of deer.

* * * * *

D. * * *

10. Anglers may not submerge any poles or similar object to take or locate any fish.

* * * * *

Great River National Wildlife Refuge

* * * * *

C. * * *

5. On the Fox Island Division, we only allow deer hunting during the Statewide archery deer season and special managed hunts.

* * * * *

Middle Mississippi River National Wildlife Refuge

* * * * *

B. * * *

1. On the Wilkinson Island Division, you must comply with both Illinois and Missouri firearm blaze-orange safety requirements from October 1 to January 31.

* * * * *

C. * * *

1. Conditions A1, A2, and B1 apply. Condition A4 applies only to wild turkey.

2. On the Harlow, Crains, and Meissner Island Divisions, you may only use archery equipment to harvest white-tailed deer.

* * * * *

D. * * *

4. You must remove all fishing devices (see § 27.93 of this chapter) at the end of each day's fishing.

* * * * *

Port Louisa National Wildlife Refuge

Refer to § 32.34 (Iowa) for regulations regarding Iowa River Corridor Lands.

* * * * *

B. * * *

2. Condition A3 applies to upland game, including wild turkey. We allow shotgun slug or muzzleloading rifle for hunting coyotes.

3. We allow only squirrel hunting on the Keithsburg Division from the beginning of the State season to September 15. We prohibit hunting of any other upland game on the Keithsburg Division.

4. We allow hunting on the Horseshoe Bend Division from September 1 until September 15, and December 1 until February 28. We allow spring turkey hunting.

5. We allow hunting on the Big Timber Division from September 1 until February 28. We allow spring turkey hunting.

* * * * *

12. Amend § 32.33, the entry for Patoka River National Wildlife Refuge and Management Area, by:

a. Adding paragraph A.9; and

b. Revising paragraphs B.1, B.3, and C.6.

The addition and revisions read as follows:

§ 32.33 Indiana.

* * * * *

Patoka River National Wildlife Refuge and Management Area

A. * * *

9. We prohibit the use of trail and game cameras on the refuge.

B. * * *

1. You must register to hunt furbearers at the refuge office, record the number of furbearers harvested on the Upland Game Hunt Report (FWS Form 3-2362), and return the completed form to the refuge office after the hunting season.

* * * * *

3. Conditions A7 through A9 apply.

C. * * *

6. Conditions A6 through A9 apply. Condition A8 applies only to wild turkey.

* * * * *

13. Amend § 32.34 by:

a. Revising the entry for Iowa Wetland Management District; and

b. Adding an introductory sentence immediately after the entry's heading and before paragraph A under Port Louisa National Wildlife Refuge.

The addition and revision read as follows:

§ 32.34 Iowa.

* * * * *

Iowa Wetland Management District

A. Migratory Game Bird Hunting. We allow hunting of migratory game birds throughout the district in accordance with State regulations and subject to the following conditions:

1. For hunting, you may possess only approved nontoxic shot shells while in the field, including shot shells used for hunting wild turkey (see § 32.2(k)).

2. We prohibit leaving boats, decoys, or other personal property unattended at any time. You must remove all personal property, which includes boats, decoys, and blinds, brought onto the district at the end of each day (see §§ 27.93 and 27.94 of this chapter).

3. We allow boats or other floating devices. We restrict all watercraft motors to 15 horsepower (11.2 kW) or less.

B. Upland Game Hunting. We allow upland game hunting throughout the district in accordance with State regulations and subject to the following condition: Conditions A1 and A2 apply.

C. Big Game Hunting. We allow big game hunting throughout the district in accordance with State regulations and subject to the following conditions:

1. You may leave tree stands in an area for a continuous period of time beginning 7 days prior to the open season for hunting deer and ending 7 days after the final day of that season. You must clearly mark the stand with your name or Iowa hunting license number.

2. You do not have exclusive use of the tree stand when unattended or exclusive use of the tree stand site.

3. We prohibit driving nails, screws, spikes, or other metal objects into a tree (see § 32.2(i)).

D. Sport Fishing. We allow sport fishing throughout the district in accordance with State regulations and subject to the following conditions:

1. Condition A3 applies.

2. You must remove all ice fishing shelters and other personal property at the end of each day's fishing (see § 27.93 of this chapter).

* * * * *

Port Louisa National Wildlife Refuge

Refer to § 32.32 (Illinois) for Port Louisa National Wildlife Refuge fee title lands.

* * * * *

14. Amend § 32.35 by:

a. Under the entry Flint Hills National Wildlife Refuge:

i. Redesignating paragraphs A.1 through A.9 as A.2 through A.10, respectively;

ii. Adding a new paragraph A.1;

iii. Revising newly redesignated paragraph A.10;

iv. Revising paragraphs B.1 and C.6; and

v. Adding paragraph C.7;

b. Under the entry Kirwin National Wildlife Refuge:

i. Removing paragraph A.8;

ii. Redesignating paragraphs A.9 through A.12 as A.8 through A.11, respectively;

iii. Removing paragraph B.3;

iv. Redesignating paragraphs B.4 through B.6 as B.3 through B.5, respectively;

v. Revising newly redesignated paragraph B.5; and

vi. Revising paragraphs C.9 and D.9; and

c. Under the entry Marais des Cygnes National Wildlife Refuge:

i. Redesignating paragraphs A.1 through A.4 as A.2 through A.5, respectively;

ii. Adding a new paragraph A.1;

iii. Revising paragraphs B.1, B.4, and C.1;

iv. Adding paragraphs C.4 and C.5; and

v. Revising paragraph D.

The revisions and additions read as follows:

§ 32.35 Kansas.

* * * * *

Flint Hills National Wildlife Refuge

A. * * *

1. You must possess and carry a signed refuge hunt permit (signed brochure) when hunting.

* * * * *

10. We allow crow hunting on designated areas of the refuge subject to the following conditions:

i. We prohibit the use of centerfire rifles and pistols for hunting on the refuge.

ii. We close hunting areas on the north side of the Neosho River to all hunting from November 1 through March 1.

iii. Conditions A1, A3, A4, A7, and A8 apply.

B. * * *

1. Conditions A1, A3, A7, and A8 apply.

* * * * *

C. * * *

6. We prohibit the use of electronic or photographic trail-monitoring devices.

7. Conditions A1, A3, A7, A8, B3 and B4 apply.

* * * * *

Kirwin National Wildlife Refuge

* * * * *

B. * * *

5. Conditions A1, A8, A9, A10, and A11 apply.

C. * * *

9. Conditions A8 through A11 apply.

D. * * *

9. Conditions A8 through A11 apply.

Marais des Cygnes National Wildlife Refuge

A. * * *

1. You must possess and carry a signed refuge hunt permit (signed brochure) when hunting.

* * * * *

B. * * *

1. Conditions A1 and A3 apply.

* * * * *

4. You may possess only approved nontoxic shot for hunting (see § 32.2(k)).

C. * * *

1. Conditions A1, A3, A4, A5, and B2 apply.

* * * * *

4. We prohibit the use of electronic or photographic trail monitoring devices.

5. You may possess only approved nontoxic shot for turkey hunting (see § 32.2(k)).

D. Sport Fishing. We allow fishing on designated areas of the refuge in accordance with State regulations and subject to the following condition: Condition A2 applies.

* * * * *

15. Amend § 32.36, the entry for Clarks River National Wildlife Refuge, by:

a. Revising paragraphs A.5, A.6, A.9, A.12, A.17, A.18, and A.19;

b. Removing paragraph A.20; and

c. Revising paragraphs C.2 and C.5.

The revisions read as follows:

§ 32.36 Kentucky.

* * * * *

Clarks River National Wildlife Refuge

A. * * *

5. You must possess and carry a signed refuge permit (signed brochure) while hunting and/or fishing on the refuge.

6. To retrieve or track game from a posted closed area of the refuge, you must first receive authorization from the refuge manager at 270-527-5770 or the law enforcement officer at 270-703-2836.

* * * * *

9. We prohibit discharge of firearms on or within 200 feet (90 meters) of any home, the abandoned railroad tracks, graveled roads, and hiking trails.

* * * * *

12. We allow trail cameras. Cameras may be used year-round. Cameras must have the owner's name, address, and phone number clearly displayed or they may be confiscated.

* * * * *

17. By 12 p.m. (noon) during the Statewide waterfowl season: You must cease hunting; unload firearms used for waterfowl hunting (see § 27.42(b) of this chapter); remove decoys, blinds, boats, and all other equipment (see § 27.93 of this chapter); and be out of the field daily.

18. We close to all entry of, as posted, the Clarks River Waterfowl Units from November 1 through March 31, with the exception of drawn permit holders (name/address/phone) and their guests.

19. We only allow waterfowl hunting on the Clarks River Waterfowl Units on specified days during the State waterfowl season. We only allow hunting by individuals in possession of a drawn permit and their guests. State regulations and the following conditions apply:

i. Application procedures and eligibility requirements are available from the refuge office.

ii. We allow drawn permit holders and up to four guests to hunt their assigned zone and/or provided blind on the designated date. We prohibit guests on the Clarks River Waterfowl Units without the attendance of the drawn permit holder.

iii. We prohibit selling, trading, or bartering of drawn permits. These permits are nontransferable.

iv. You may place decoys out the first morning of the drawn hunt, and you must remove them at the close of the drawn hunt (see § 27.93 of this chapter).

v. We prohibit watercraft on the Clarks River Waterfowl Units, except for drawn permit holders to access their blinds and retrieve downed birds as needed.

* * * * *

C. * * *

2. We only allow the use of portable and climbing stands. You may place stands in the field no earlier than 2 weeks prior to the opening of deer season, and you must remove them from the field within 1 week after the season closes (see §§ 27.93 and 27.94 of this chapter). The hunter's name, address, and phone number must appear on all stands left in the field.

* * * * *

5. Ground blinds used for the purpose of hunting any species during the deer modern gun, muzzleloader, and youth firearms seasons must display one square foot (144 square inches) of solid, unbroken, hunter orange visible from all sides. You must remove ground blinds when not in use.

* * * * *

16. Amend § 32.37 by:

a. Revising the entry for Atchafalaya National Wildlife Refuge;

b. Under the entry Bayou Cocodrie National Wildlife Refuge:

i. Revising paragraph A;

ii. Revising paragraphs B.3, B.5, and B.6;

iii. Revising paragraphs C.2, C.3, C.4, and C.5;

iv. Redesignating C.11 and C.12 as C.12 and C.13, respectively;

v. Adding a new paragraph C.11;

vi. Revising newly redesignated paragraph C.13; and

vii. Revising paragraph D;

c. Revising paragraph C.1 under the entry Bayou Teche National Wildlife Refuge;

d. Revising paragraphs A.15 and B.1 under the entry Big Branch Marsh National Wildlife Refuge;

e. Under the entry Black Bayou Lake National Wildlife Refuge:

i. Revising paragraphs A, B, and C;

ii. Removing paragraph D.8; and

iii. Redesignating paragraph D.9 as D.8;

f. Revising paragraphs A.7, A.11, and C.8 under the entry Bogue Chitto National Wildlife Refuge;

g. Under the entry Cat Island National Wildlife Refuge:

i. Revising paragraphs A, B.3, C.3, C.4, C.7, and C.8;

ii. Redesignating paragraph C.9 and C.10 as C.10 and C.11, respectively;

iii. Adding a new paragraph C.9; and

iv. Revising paragraph D.8;

h. Revising paragraphs A, B, C, D.1, and D.3 under the entry D'Arbonne National Wildlife Refuge; and

i. Revising paragraphs A, B, C, D.2, and D.4 under the entry Upper Ouachita National Wildlife Refuge.

The additions and revisions read as follows:

§ 32.37 Louisiana.

* * * * *

Atchafalaya National Wildlife Refuge

A. Migratory Game Bird Hunting. We allow hunting of migratory game birds on designated areas of the refuge in accordance with State regulations and subject to the following conditions:

1. Hunting must be in accordance with State-issued Sherburne Wildlife Management Area regulations.

2. Feral hogs are incidental take species. You may take feral hog during any open hunting season, only with the weapon allowed for that season, and only if you are a hunter with proper licenses and permits for that season. There is no bag limit on feral hog.

B. Upland Game Hunting. We allow hunting of upland game on designated areas of the refuge in accordance with State regulations and subject to the following conditions: A1 and A2 apply.

C. Big Game Hunting. We allow hunting of white-tailed deer and turkey on designated areas of the refuge in accordance with State regulations and subject to the following conditions: A1 and A2 apply.

D. Sport Fishing. We allow finfishing and shellfishing year-round in accordance with Sherburne Wildlife Management Area regulations and subject to the following condition: We prohibit all commercial finfishing and shellfishing without a Special Use Permit (FWS Form 3-1383-C).

Bayou Cocodrie National Wildlife Refuge

A. Migratory Game Bird Hunting. We allow hunting of duck, goose, coot, and woodcock on designated areas of the refuge in accordance with State regulations and subject to the following conditions:

1. We require that all hunters and anglers age 16 and older purchase an annual public use permit (name/address/telephone number). We waive the fee for individuals age 60 and older. You must sign the permit, certifying that you understand and will comply with all regulations. You must carry this permit at all times while on the refuge.

2. We allow migratory game bird hunting on Wednesdays, Saturdays, and Sundays until 12 p.m. (noon) during the State season. We do not open for the special teal season or the State youth waterfowl hunt.

3. We prohibit hunting within 150 feet (45 meters) of the maintained rights-of-way of roads, refuge roads or designated trails, buildings, residences, or designated public facilities.

4. You must remove harvested waterfowl, temporary blinds, and decoys (see § 27.93 of this chapter) used for duck hunting by 1 p.m. daily.

5. We only allow dogs to locate, point, and retrieve when hunting for migratory game birds.

6. While hunting, all persons age 16 or younger must be in the presence and under direct supervision of a licensed or exempt hunter age 18 or older.

7. We prohibit any person or group to act as a hunting guide, outfitter, or in any other capacity that any other individual(s) pays or promises to pay directly or indirectly for services rendered to any other person or persons hunting on the refuge, regardless of whether the payment is for guiding, outfitting, lodging, or club membership.

8. We prohibit use or possession of any type of trail-marking material.

9. Coyote, beaver, feral hog, and raccoon are incidental take species and you may take them during any open hunting season only with the weapon allowed for that season if you are a hunter having the required licenses and permits. There is no bag limit on coyote, feral hog, and beaver. State regulations apply on other incidental species.

10. You must check all game taken on the refuge before leaving the refuge at one of the self-clearing check stations indicated on the map in the refuge Hunting and Fishing Regulations Brochure.

11. We allow all-terrain vehicles (ATVs) and utility vehicles in accordance with State Wildlife Management Area (WMA) regulations and size specifications on designated trails (see § 27.31 of this chapter) from scouting season until February 28. An ATV is an off-road vehicle with factory specifications not to exceed the following: Weight 750 pounds (337.5 kilograms), length 85 inches (212.5 centimeters (cm)), and width 48 inches (120 cm). We restrict ATV tires to those no larger than 26 inches (66 cm) by 12 inches (30.5 cm) with a maximum 1-inch (2.5-cm) lug height and a maximum allowable tire pressure of 7 psi (48 kPa) as indicated on the tire by the manufacturer.

12. You may possess only approved nontoxic shot while hunting on the refuge (see § 32.2(k)). This requirement only applies to the use of shotgun ammunition.

13. You must obtain a daily use reporting card (one per person) and place it on the dashboard of your vehicle or in your boat so that your personal information (name/city/State/zip code) is readable and in plain view. You must complete all the information requested (name/address/phone number) and return the cards to the refuge kiosk/check stations upon departure from the refuge.

14. You may enter the refuge no earlier than 4 a.m. and must exit the refuge by 2 hours after legal sunset except that raccoon and opossum hunters during the month of February may use the refuge at night.

15. Waterfowl hunters are allowed no more than 25 shotshells per person.

B. * * *

3. We allow the use of dogs to hunt squirrel and rabbit during that portion of the season designated as small game with dogs. We list specific season dates in the refuge brochure.

* * * * *

5. You may enter the refuge no earlier than 4 a.m. and must exit the refuge by 2 hours after legal sunset.

6. While hunting, all persons age 16 and younger must be in the presence and under direct supervision of a licensed or exempt hunter age 18 or older.

C. * * *

2. The bag limit is one deer per day. The State tagging regulations apply.

3. You must check all deer on the same day taken during lottery deer hunts at the nearest refuge check station.

4. You must wear a minimum of 500 square inches (3,226 square centimeters) of unbroken hunter orange as the outermost layer of clothing on the chest and back, and a hat or cap of unbroken hunter orange. You must wear the solid-hunter-orange items while in the field.

5. You may place stands up to 2 days prior to established hunting season dates. You must remove stands by 2 days after the hunting season closes. You must mark your name and phone number on your stand. You are allowed one portable stand or blind on the refuge.

* * * * *

11. We prohibit the use of trail cameras.

* * * * *

13. There is an application fee per person for the lottery gun hunt application (name/address/phone number). We waive the fee for youth and special access applications.

D. Sport Fishing. We allow fishing on the refuge in accordance with State regulations and subject to the following conditions:

1. Conditions A11 through A15 apply.

2. We prohibit commercial fishing.

3. We prohibit the taking of alligator snapping turtle (see § 27.21 of this chapter).

4. We only allow fishing during daylight hours.

5. The refuge boat ramp is open for daylight use only, except during specified hunting seasons when the ramp is open from 4 a.m. until 2 hours after legal sunset.

6. We prohibit wire traps, slat traps, wire nets, hoop nets, trotlines, yo-yos, and jug lines on the refuge.

* * * * *

Bayou Teche National Wildlife Refuge

* * * * *

C. * * *

1. We allow hunting of deer only with firearms (see § 27.42 of this chapter) during 5 specific days during October and November. A youth gun hunt will occur during the last weekend of October. The general gun hunt will occur during the final full weekend in November. The youth gun hunt includes both Saturday and Sunday. The general gun hunt includes the Friday immediately before the weekend.

* * * * *

Big Branch Marsh National Wildlife Refuge

A. * * *

15. We prohibit all-terrain vehicles (ATVs) and utility-type vehicles (UTVs).

* * * * *

B. * * *

1. We allow upland game hunting during the open State season. When hunting, you may possess only approved nontoxic shot (see § 32.2(k) of this chapter), shot size 4 or smaller, or 0.22 caliber rimfire rifles or smaller.

* * * * *

Black Bayou Lake National Wildlife Refuge

A. Migratory Game Bird Hunting. We allow hunting of certain species of migratory birds on designated areas of the refuge as indicated in the annual Public Use Regulations brochure in accordance with State regulations and subject to the following conditions:

1. You must carry a signed refuge hunt permit (signed Public Use Regulations brochure) and must carry and fill out daily a Visitor Check-In Permit and Report (FWS Form 3-2405).

2. We allow migratory bird hunting on designated areas as indicated in the annual Public Use Regulations brochure.

3. We allow waterfowl hunting until 12 p.m. (noon) during the State season.

4. We prohibit accessing the hunting area by boat from Black Bayou Lake.

5. You may enter the refuge no earlier than 4 a.m.

6. We prohibit hunting within 100 feet (30 meters) of the maintained right-of-way of roads and from or across all-terrain vehicle (ATV) trails (see § 27.31 of this chapter). We prohibit hunting within 50 feet (15 meters), or trespassing on above-ground oil, gas, or electrical transmission facilities.

7. We prohibit leaving boats, blinds, and decoys overnight.

8. We only allow hunting dogs to locate, point, and retrieve when hunting migratory game birds.

9. Youths are generally defined as those individuals age 17 or younger, except that for migratory bird hunts youth are defined as age 15 or younger. Youths younger than age 16 may hunt without hunter-education certification if they are accompanied by and under direct supervision of a person born before September 1, 1969, who has a valid hunting license or if they are accompanied by and under the direct supervision of a person who is age 18 or older and has proof of successful completion of a hunter-education course approved by Louisiana Department of Wildlife and Fisheries. Direct supervision means that the person being supervised is within a normal audible voice contact and in direct line of sight of the supervising person at all times while hunting. The supervising adult is responsible for ensuring that youth hunters do not violate refuge regulations.

10. We prohibit any person or group to act as a hunting guide, outfitter, or in any other capacity that any other individual(s) pays or promises to pay directly or indirectly for services rendered to any other person or persons hunting on the refuge, regardless of whether the payment is for guiding, outfitting, lodging, or club membership.

11. We only allow ATVs on trails (see § 27.31 of this chapter) designated for their use and marked by signs. ATV trails are closed March 1 through August 31. An ATV is an off-road vehicle with factory specifications not to exceed the following: Weight 750 lbs. (337.5 kilograms), length 85 inches (212.5 centimeters (cm)), and width 48 inches (120 cm). We restrict ATV tires to those no larger than 25 inches by 12 inches (62.5 cm by 30 cm) with a maximum of 1-inch (2.5-cm) lug height and a maximum allowable tire pressure of 7 psi (48 kPa) as indicated on the tire by the manufacturer.

B. Upland Game Hunting. We allow hunting of certain species of upland game on designated areas of the refuge as indicated in the annual Public Use Regulations brochure and in accordance with State regulations and subject to the following conditions:

1. Conditions A1, A4, A6, A9, A10, and A11 apply.

2. Specific open dates and open areas to small game hunting will appear in the annual Public Use Regulations brochure.

3. We prohibit taking small game with firearms larger than .22 caliber rimfire, shotgun slugs, and buckshot.

4. You may enter the refuge no earlier than 4 a.m. and must exit no later than 1 hour after legal shooting hours end.

5. You may possess only approved nontoxic shot (see § 32.2(k)) while hunting on the refuge. This requirement only applies to the use of shotgun ammunition.

C. Big Game Hunting. We allow archery hunting of white-tailed deer on designated areas of the refuge as indicated in the annual Public Use Regulations brochure in accordance with State regulations and subject to the following conditions:

1. Conditions A1, A4, A6, A9, A10, A11, and B4 apply.

2. Specific open dates and open areas will appear in the annual Public Use Regulations brochure.

3. We prohibit gun deer hunting.

4. The daily bag limit is one deer of either sex. The State season limit applies.

5. We prohibit leaving deer stands, blinds, cameras, and other equipment unattended.

6. An adult at least age 21 must supervise youth hunters under age 16 during all hunts. One adult may supervise two youths during small game and migratory bird hunts but may supervise only one youth during big game hunts. Youth must remain within normal voice contact of the adult who is supervising them. Parents or adult guardians are responsible for ensuring that hunters under age 16 do not violate refuge regulations.

7. We prohibit possession or distribution of bait or hunting with the aid of bait, including any grain, salt, minerals, or other feed or any nonnaturally occurring attractant, on the refuge (see § 32.2(h)).

* * * * *

Bogue Chitto National Wildlife Refuge

A. * * *

7. We prohibit hunting within 150 feet (45 meters) from the centerline of any public road, refuge road, designated or maintained trail, building, residence, designated public facility, or from or across aboveground oil or gas or electric facilities. We prohibit hunting in refuge-designated closed areas, which we post on the refuge and identify in the refuge hunt permits (signed brochure).

* * * * *

11. We prohibit horses, trail cameras, all-terrain vehicles (ATVs), and utility-type vehicles (UTVs).

* * * * *

C. * * *

8. You may take hog as incidental game while participating in the refuge archery, primitive weapon, and general gun deer hunts and where otherwise specified. We list specific dates for the special hog hunts in January, February, and March in the refuge hunt permit (signed brochure). During the special hog hunts in February, you must use trained hog-hunting dogs to aid in the take of hog. During the special hog hunts, you may take hog from ½ hour before legal sunrise until ½ hour after legal sunset. You may possess only approved nontoxic shot or pistol or rifle ammunition not larger than .22 caliber rimfire to take the hog after it has been caught by dogs. During the special hog hunt in March, you may use any legal firearm. A8 applies during special hog hunts in February.

* * * * *

Cat Island National Wildlife Refuge

A. Migratory Game Bird Hunting. We allow hunting of duck, goose, coot, and woodcock on designated areas of the refuge as shown on the refuge hunt brochure map in accordance with State regulations and subject to the following conditions:

1. We require that all hunters and anglers age 16 and older purchase an annual public use permit (name/address/telephone number). We waive the fee for hunters age 65 and older. The refuge user is required to sign, certifying that you understand and will comply with all regulations, and carry this permit at all times while on the refuge.

2. You may enter the refuge no earlier than 4 a.m. and must exit the refuge by 2 hours after legal sunset.

3. You may possess only approved nontoxic shot while hunting on the refuge (see § 32.2(k)). This requirement applies only to the use of shotgun ammunition.

4. Waterfowl hunters may possess no more than 25 shotshells per person.

5. While hunting, all persons age 17 or younger must be in the presence and under direct supervision of a licensed or exempt hunter age 18 or older.

6. We allow take of beaver, feral hog, nutria, raccoon, and coyote incidental to any refuge hunt with weapons legal for that hunt until you take the daily bag limit of game.

7. You must check all game (name) taken prior to leaving the refuge at one of the self-clearing check stations indicated on the map in the refuge public use brochure.

8. We allow all-terrain vehicles (ATVs) and utility-type vehicle (UTVs) in accordance with State Wildlife Management Area regulations and size specifications on designated trails (see § 27.31 of this chapter) from scouting season until February 28. An ATV is an off-road vehicle with factory specifications not to exceed the following: Weight 750 pounds (337.5 kilograms), length 85 inches (212.5 centimeters (cm)), and width 48 inches (120 cm). We restrict ATV tires to those no larger than 26 inches by 12 inches (66 cm by 30 cm) with a maximum 1-inch (2.5-cm) lug height and a maximum allowable tire pressure of 7 psi (48 kPa) as indicated on the tire by the manufacturer.

9. We prohibit hunting within 150 feet (45 meters) of any public road, refuge road, trail or ATV trail, building, residence, or designated public facility.

10. We prohibit the possession or use of any type of trail-marking material.

11. We prohibit horses or mules.

12. We prohibit camping or overnight parking on the refuge.

13. We prohibit air-thrust boats on the refuge.

14. We prohibit all other hunting during refuge lottery deer hunts.

15. We allow waterfowl hunting on Wednesdays, Saturdays, and Sundays until 12 p.m. (noon) during the designated State duck season.

16. You must remove harvested waterfowl, temporary blinds, and decoys (see § 27.93 of this chapter) used for duck hunting by 1 p.m. daily.

17. We allow dogs to only locate, point, and retrieve when hunting for migratory game birds.

18. We prohibit accessing refuge property by boat from the Mississippi River.

19. We prohibit trapping.

20. We prohibit the possession of saws, saw blades, or machetes.

21. We prohibit the use or possession of alcohol while hunting (see § 32.2(j)).

22. We prohibit all commercial activities (including, but not limited to, guiding).

B. * * *

3. We allow the use of squirrel and rabbit dogs during designated small game with dog seasons. We allow up to two dogs per hunting party for squirrel hunting.

* * * * *

C. * * *

3. There is no application fee per person for each lottery hunt application (name/address/phone number).

4. You may place stands up to 2 days prior to established hunting season dates, and you must remove them no more than 2 days after the hunting season closes. You must mark your name and phone number on your stand. You are allowed one portable stand or blind on the refuge.

* * * * *

7. You must wear a minimum of 500 square inches (3,226 square centimeters) of unbroken-hunter orange as the outermost layer of clothing on the chest and back, and a hat or cap of unbroken-hunter orange.

8. We prohibit nailing deer stands or steps to trees. We prohibit attaching any blind or stand to a tree by using any metal object inserted into the tree.

9. We prohibit the use of trail cameras.

* * * * *

D. * * *

8. We prohibit boat launching by trailer from all refuge roads and parking lots except at designated boat ramps.

* * * * *

D'Arbonne National Wildlife Refuge

A. Migratory Game Bird Hunting. We allow hunting of certain species of migratory birds on designated areas of the refuge as indicated in the annual Public Use Regulations brochure in accordance with State regulations and subject to the following conditions:

1. You must carry a signed refuge hunt permit (signed Public Use Regulations brochure) and must carry and fill out daily a Visitor Check-In Permit and Report (FWS Form 3-2405).

2. We allow migratory game bird hunting on designated areas as indicated in the annual Public Use Regulations brochure.

3. We allow waterfowl hunting until 12 p.m. (noon) during the State season.

4. You may enter the refuge no earlier than 4 a.m.

5. We prohibit hunting within 100 feet (30 meters (m)) of the maintained rights-of-way of roads. We prohibit hunting within 50 feet (15 m) or trespassing on above-ground oil, gas, or electrical transmission facilities.

6. We prohibit leaving boats, blinds, and decoys overnight.

7. We only allow hunting dogs to locate, point, and retrieve when hunting migratory game birds.

8. Youths are generally defined as those individuals age 17 or younger, except that for migratory bird hunts youth are defined as age 15 or younger. Youths younger than age 16 may hunt without hunter-education certification if they are accompanied by and under direct supervision of a person born before September 1, 1969, who has a valid hunting license or if they are accompanied by and under the direct supervision of a person who is age 18 or older and has proof of successful completion of a hunter-education course approved by Louisiana Department of Wildlife and Fisheries. Direct supervision means that the person being supervised is within a normal audible voice contact and in direct line of sight of the supervising person at all times while hunting. The supervising adult is responsible for ensuring that youth hunters do not violate refuge regulations.

9. We prohibit any person or group to act as a hunting guide, outfitter, or in any other capacity that any other individual(s) pays or promises to pay directly or indirectly for services rendered to any other person or persons hunting on the refuge, regardless of whether the payment is for guiding, outfitting, lodging, or club membership.

10. We prohibit motorized boats in the No Gun Hunting Area (the “Beanfield”) from November 1 through January 31.

B. Upland Game Hunting. We allow hunting of certain species of upland game on designated areas of the refuge as indicated in the annual Public Use Regulations brochure in accordance with State regulations and subject to the following conditions:

1. Conditions A1, A5, A8, A9, and A10 apply.

2. Specific open dates and open areas to small game hunting will appear in the annual Public Use Regulations brochure.

3. We prohibit taking small game with firearms larger than .22 caliber rimfire, shotgun slugs, and buckshot.

4. You may enter the refuge no earlier than 4 a.m. and must exit no later than 2 hours after legal shooting hours.

5. You may possess only approved nontoxic shot for hunting (see § 32.2(k)). This requirement only applies to the use of shotgun ammunition.

6. We allow hunting dogs only to locate, point, and retrieve when hunting for upland game species.

C. Big Game Hunting. We allow hunting of white-tailed deer on designated areas of the refuge as indicated in the annual Public Use Regulations brochure in accordance with State regulations and subject to the following conditions:

1. Conditions A1, A5, A8, A9, A10, and B4 apply.

2. Specific open dates and open areas will appear in the annual Public Use Regulations brochure.

3. You must check all deer taken during general Gun Deer Hunts at a refuge check station on the same day taken.

4. We prohibit leaving deer stands, blinds, cameras, and other equipment unattended.

5. Deer hunters must wear hunter orange in accordance with State deer hunting regulations in Wildlife Management areas.

6. We prohibit hunters from placing or hunting from stands on pine trees with white-painted bands or rings.

7. We prohibit possession or distribution of bait or hunting with the aid of bait, including any grain, salt, minerals, or other feed or any nonnaturally occurring attractant, on the refuge (see § 32.2(h)).

8. We prohibit the hunting of big game species with dogs.

D. * * *

1. We prohibit leaving boats and other personal property on the refuge overnight.

* * * * *

3. We prohibit commercial fishing. For recreational fishing using commercial gear (slat traps, etc.) we require you to carry a Special Use Permit (FWS Form 3-1383), which is available at the refuge office.

* * * * *

Upper Ouachita National Wildlife Refuge

A. Migratory Game Bird Hunting. We allow hunting of certain species of migratory birds on designated areas of the refuge as indicated in the annual Public Use Regulations brochure in accordance with State regulations and subject to the following conditions:

1. You must carry a signed refuge hunt permit (signed Public Use Regulations brochure) and must carry and fill out daily a Visitor Check-In Permit and Report (FWS Form 3-2405).

2. We allow migratory game bird hunting on designated areas as indicated in the annual Public Use Regulations brochure.

3. We allow waterfowl hunting until 12 p.m. (noon) during the State season.

4. You may enter the refuge no earlier than 4 a.m.

5. We prohibit hunting within 100 feet (30 meters (m)) of the maintained rights-of-way of roads and from or across all-terrain vehicle (ATV) trails. We prohibit hunting within 50 feet (15 m), or trespassing on aboveground oil, gas, or electrical transmission facilities.

6. We prohibit leaving boats, blinds, and decoys overnight.

7. We only allow hunting dogs to locate, point, and retrieve when hunting migratory game birds.

8. Youths are generally defined as those individuals age 17 or younger; for migratory bird hunts youth are defined as age 15 or younger. Youths younger than age 16 may hunt without hunter-education certification if they are accompanied by and under direct supervision of a person born before September 1, 1969, who has a valid hunting license or if they are accompanied by and under the direct supervision of a person who is age 18 or older and has proof of successful completion of a hunter-education course approved by Louisiana Department of Wildlife and Fisheries. Direct supervision means that the person being supervised is within a normal audible voice contact and in direct line of sight of the supervising person at all times while hunting. The supervising adult is responsible for ensuring that youth hunters do not violate refuge regulations.

9. We prohibit any person or group to act as a hunting guide or outfitter, or in any other capacity that receives payment directly or indirectly for services rendered to any other person or persons hunting on the refuge, regardless of whether the payment is for guiding, outfitting, lodging, or club membership.

10. We allow ATVs only on trails (see § 27.31 of this chapter) designated for their use and marked by signs. ATV trails are closed March 1 through August 31. An ATV is an off-road vehicle with factory specifications not to exceed the following: Weight 750 lbs. (337.5 kilograms), length 85 inches (212.5 centimeters (cm)), and width 48 inches (120 cm). We restrict ATV tires to those no larger than 25 inches by 12 inches (62.5 cm by 30 cm) with a maximum of 1-inch (2.5-cm) lug height and a maximum allowable tire pressure of 7 psi (48 kPa) as indicated on the tire by the manufacturer.

B. Upland Game Hunting. We allow hunting of certain species of upland game on designated areas of the refuge in accordance with State regulations and subject to the following conditions:

1. Conditions A1, A5, A8, A9, and A10 apply.

2. Specific open dates and open areas to hunt small game will appear in the annual Public Use Regulations brochure.

3. We prohibit taking small game with firearms larger than .22 caliber rimfire, shotgun slugs, and buckshot.

4. You may enter the refuge no earlier than 4 a.m. and must exit no later than 2 hours after legal shooting hours.

5. You may possess only approved nontoxic shot for hunting (see § 32.2(k)). This requirement only applies to the use of shotgun ammunition.

C. Big Game Hunting. We allow hunting of certain species of big game on designated areas of the refuge in accordance with State regulations and subject to the following conditions:

1. Conditions A1, A5, A8, A9, A10, and B4 apply.

2. Specific open dates and open areas will appear in the Annual Public Use Regulations Brochure.

3. We prohibit leaving deer stands, blinds, cameras, and other equipment unattended.

4. Deer hunters must wear hunter orange in accordance with State deer hunting regulations in Wildlife Management Areas.

5. We prohibit hunters from placing stands or hunting from stands on pine trees with white-painted bands and/or rings.

6. We prohibit possession or distribution of bait or hunting with the aid of bait, including any grain, salt, minerals, or other feed or nonnaturally occurring attractant, on the refuge (see § 32.2(h)).

7. We prohibit the use of dogs for hog hunting.

D. * * *

2. We prohibit outboard motors in the Wigeon Ponds (only trolling motors allowed).

* * * * *

4. We prohibit leaving boats and other personal property on the refuge overnight (see § 27.93 of this chapter).

* * * * *

17. Amend § 32.38 by:

a. Revising paragraph C.15 under the entry Moosehorn National Wildlife Refuge; and

b. Revising paragraphs B.3 and C.3 under the entry Umbagog National Wildlife Refuge.

The revisions read as follows:

§ 32.38 Maine.

* * * * *

Moosehorn National Wildlife Refuge

* * * * *

C. * * *

15. We prohibit hunting in the following areas:

i. The South Magurrewock Area: The boundary of this area begins at the intersection of the Charlotte Road and U.S. Route 1; it follows the Charlotte Road in a southerly direction to a point just south of the fishing pier and observation blind, where it turns in an easterly direction, crossing the East Branch of the Magurrewock Stream, and proceeds in a northerly direction along the upland edge of the Upper and Middle Magurrewock Marshes to U.S. Route 1 where it follows Route 1 in a southerly direction to the point of origin.

ii. The North Magurrewock Area: The boundary of this area begins where the northern exterior boundary of the refuge and Route 1 intersect; it follows the boundary line in a westerly direction to the railroad grade where it follows the main railroad grade and refuge boundary in a southwest direction to the upland edge of the Lower Barn Meadow Marsh; then it follows the upland edge of the marsh in a southerly direction to U.S. Route 1 where it follows Route 1 to the point of origin.

iii. The posted safety zone around the refuge headquarters: The boundary of this area starts where the snowmobile trail intersects with Charlotte Road. The boundary follows the southern edge of the field, across the abandoned Maine Central Railroad grade, where it follows the snowmobile trail in a northwesterly direction to Barn Meadow Road. It proceeds across Barn Meadow Road to the South Fireline, where it follows the South Fireline to the Headquarters Road. It follows the Headquarters Road in a southerly direction to Two Mile Meadow Road. It follows the westerly side of Two Mile Meadow Road to the intersection with Mile Bridge Road. It then follows Mile Bridge Road to the intersection with Hanson Pit Road, then along Hanson Pit Road leaving the road in an easterly direction at the site of the old crossing, across the abandoned Maine Central Railroad grade to Charlotte Road (directly across from the Moosehorn Ridge Road gate). The line follows Charlotte Road in a northerly direction to the point of origin.

iv. The Southern Gravel Pit: The boundary of this area starts at a point where Cranberry Brook crosses the Charlotte Road and proceeds south along the Charlotte Road to the Baring/Charlotte Town Line, east along the Town Line to a point where it intersects the railroad grade where it turns in a northerly direction, and follows the railroad grade to Cranberry Brook, following Cranberry Brook in a westerly direction to the point of origin.

* * * * *

Umbagog National Wildlife Refuge

* * * * *

B. * * *

3. We open the refuge to hunting during the hours stipulated under State hunting regulations. You must unload all hunting firearms (see § 27.42 of this chapter) and nock no arrows outside of legal hunting hours.

* * * * *

C. * * *

3. We allow prehunt scouting of the refuge; however, we prohibit dogs and hunting firearms (see § 27.42 of this chapter) during prehunt scouting.

* * * * *

18. Amend § 32.39 by:

a. Revising paragraphs A.1, A.3, and C.13 under the entry Blackwater National Wildlife Refuge;

b. Revising paragraph C.12 under the entry Eastern Neck National Wildlife Refuge; and

c. Under the entry Patuxent Research Refuge:

i. Revising paragraphs A.12, B.2, C.6, C.7, and C.8;

ii. Removing paragraph C.16;

iii. Redesignating paragraphs C.17 through C.20 as C.16 through C.19, respectively;

iv. Revising newly redesignated paragraphs C.17, C.18, and C.19; and

v. Revising paragraphs D.15.iv and D.15.v.

The revisions read as follows:

§ 32.39 Maryland.

* * * * *

Blackwater National Wildlife Refuge

A. * * *

1. We require you to obtain a refuge waterfowl hunting permit using the Waterfowl Lottery Application (FWS Form 3-2355) or a signed refuge permit (signed brochure) while hunting on refuge property.

* * * * *

3. We allow only hunters possessing a valid refuge waterfowl hunting permit issued by the refuge to participate in the waterfowl hunt during designated days.

* * * * *

C. * * *

13. Disabled persons may have an assistant during the hunt in designated areas of the refuge. Persons assisting disabled hunters must be at least age 18 and obey all refuge, State, and Federal laws and regulations. Non-hunting assistants assisting disabled hunters must not be afield with a hunting firearm, bow, or other hunting device. Assistants who wish to hunt must abide by the conditions in C1 and C3. Assistants may not enter a designated disabled hunting area unless they are accompanied by a certified disabled hunter. All refuge-provided hunt blinds are reserved for disabled hunters only; however, when a certified disabled hunter and their assistant occupy the same blind, both may take game.

* * * * *

Eastern Neck National Wildlife Refuge

* * * * *

C. * * *

12. Disabled persons may have an assistant during the hunt on designated areas of the refuge. Persons assisting disabled hunters must be at least age 18 and obey all refuge, State, and Federal laws and regulations. Non-hunting assistants assisting disabled hunters must not be afield with a hunting firearm, bow, or other hunting device. Assistants who wish to hunt must abide by the conditions in C1 and C3. Assistants participating in a disabled hunt must be accompanied by a certified disabled hunter.

* * * * *

Patuxent Research Refuge

A. * * *

12. Goose, duck, and dove hunting is suspended during the muzzleloader and firearms seasons, with the exceptions that waterfowl hunting will remain open during the 2-day January firearms season, during the early muzzleloader season, and waterfowl hunters are restricted to hunting only Blue Heron Pond, Lake Allen, and Area Z.

* * * * *

B. * * *

2. You may possess only approved nontoxic shot while hunting in the field (see § 32.2(k)), except for the use of .22-caliber rimfire rifles during the months of December and January only to hunt squirrel.

* * * * *

C. * * *

6. We require turkey hunters to pattern their hunting weapons prior to going afield. Contact refuge headquarters for more information.

7. Prior to issuing a hunt permit, we require you to pass a yearly proficiency test with each hunting weapon used. See A1 for issuing information.

8. We only allow the use of a hunting shotgun, muzzleloader, or bow and arrow according to refuge hunting regulations.

* * * * *

17. North Tract: We allow shotgun, muzzleloader, and bow hunting in accordance with the following: Conditions C1 through C16 apply.

18. Central Tract: Headquarters/Mills Race (MR) Lottery Hunt: We only allow shotgun and bow hunting in accordance with the following: Conditions C1 through C15 apply (except C8).

19. South Tract: We allow shotgun, muzzleloader, and bow hunting in accordance with the following: Conditions C1 through C16 apply.

D. * * *

15. * * *

iv. Anglers may fish from April 1 until mid-October, as posted. We also reserve the right to close Cash Lake at any time.

v. We allow fishing from legal sunrise to legal sunset.

* * * * *

19. Amend § 32.40 by:

a. Revising paragraphs A.4, A.5, A.9, C.9, and D.1 under the entry Assabet River National Wildlife Refuge;

b. Revising paragraphs A.5, A.10, and C.8 under the entry Great Meadows National Wildlife Refuge;

c. Revising paragraphs D.1 and D.3 under the entry Nantucket National Wildlife Refuge; and

d. Revising the heading of paragraph A, and paragraphs A.6, A.11, C.7, and C.9 under the entry Oxbow National Wildlife Refuge.

The revisions read as follows:

§ 32.40 Massachusetts.

* * * * *

Assabet River National Wildlife Refuge

A. * * *

4. We prohibit use of motorized vehicles on the refuge. The refuge will provide designated parking areas for hunters. You must display issued hunter parking permits (generated from the Migratory Bird Hunt Application, FWS Form 3-2357) on their dashboards when parked in designated hunter parking areas.

5. During any season when it is legal to hunt deer with a shotgun or muzzleloader, we require all hunters, including archers and small game hunters, to wear a minimum of 500 square inches (3,226 square centimeters) of solid-orange clothing or material in a conspicuous manner on their chest, back, and head. During all other times, if you are engaged in woodcock hunting on the refuge, you must wear a minimum of a solid-orange hat.

* * * * *

9. You may begin scouting hunting areas 1 month prior to the opening day of your permitted season. We require possession of refuge permits (Migratory Bird Hunt Application, FWS Form 3-2357) while scouting.

* * * * *

C. * * *

9. We prohibit construction or use of permanent structures while hunting.

* * * * *

D. * * *

1. We allow fishing from designated locations on the banks of Puffer Pond. We prohibit the use of motorized and non-motorized boats on Puffer Pond.

* * * * *

Great Meadows National Wildlife Refuge

A. * * *

5. We prohibit use of motorized vehicles on the refuge. The refuge will provide designated parking areas for hunters. You must display issued hunter parking permits (generated from the Migratory Bird Hunt Application, FWS Form 3-2357) on their dashboards when parked in designated hunter parking areas.

* * * * *

10. You may begin scouting hunting areas beginning 1 month prior to the opening day of your permitted season. We require possession of refuge permits (FWS Form 3-2357) while scouting. We prohibit the use of dogs during scouting.

* * * * *

C. * * *

8. We prohibit construction or use of permanent structures while hunting.

* * * * *

Nantucket National Wildlife Refuge

* * * * *

D. * * *

1. We reserve the right to close the refuge shoreline and beach area to surf fishing and over-sand vehicle use during the period of April 1 through mid-September annually, based on biological needs and beach conditions. Seasonal closures are delineated with posted signs. A portion of the northernmost area of the shoreline, commonly referred to as the point, is posted closed from April 1 through mid-September.

* * * * *

3. We require a permit obtained from the Trustees of Reservations for the use of over-sand, surf-fishing vehicles on the refuge.

* * * * *

Oxbow National Wildlife Refuge

A. Migratory Game Bird Hunting. * * *

6. We prohibit use of motorized vehicles on the refuge. The refuge will provide designated parking areas for hunters. You must display issued hunter parking permits (generated from the Migratory Bird Hunt Application, FWS Form 3-2357) on their dashboards when parked in designated hunter parking areas.

* * * * *

11. You may begin scouting hunting areas 1 month prior to the opening day of your permitted season. We require possession of refuge permits while scouting. We prohibit the use of dogs during scouting.

* * * * *

C. * * *

7. You may use decoys to hunt turkey.

* * * * *

9. We prohibit construction or use of permanent structures while hunting.

* * * * *

20. Amend § 32.41, the entry for Detroit River International Wildlife Refuge, by revising paragraphs A.4, B.1, B.2, and C to read as follows:

§ 32.41 Michigan.

* * * * *

Detroit River International Wildlife Refuge

A. * * *

4. For hunting, you may possess only approved nontoxic shot while in the field, including shot shells used for hunting wild turkey (see § 32.2(k)). Discarded shells are considered litter.

* * * * *

B. * * *

1. Conditions A1, A2, A3, A5, A6, A7, A8, and A9 apply.

2. You may possess only approved nontoxic shot (see § 32.2(k)) while in the field with the following exception: While hunting fox, coyotes, and raccoons in units where we allow it, you may use single projectile shot such as bullets, slugs, or muzzleloader bullets containing lead. We prohibit the use of buckshot for any hunting on the refuge. Discarded shells are considered litter.

C. Big Game Hunting. We allow hunting of deer and turkey on designated areas of the refuge in accordance with State regulations and subject to the following conditions:

1. Conditions A1, A2, A3, A4, A5, A6, A8, and A9 apply.

2. We prohibit the distribution of bait or hunting with the aid of bait, salt, minerals, or other ingestible attractant (see § 32.2(h)).

3. For deer hunting, you may use only single projectile shot. We prohibit the use of buckshot for any hunting on the refuge. Discarded shells are considered litter.

4. We allow portable tree stands for deer hunting.

5. We allow only one tree stand per hunter per refuge unit.

6. We do not require hunters to remove tree stands at the end of each day's hunt, but we strictly enforce State rules on tree stands.

7. For Humbug Marsh Only:

i. You must obtain permits for this unit by entering the Michigan Department of Natural Resources annual drawing.

ii. You must possess a valid permit for the date you are hunting in the Humbug Marsh Unit.

iii. We will provide fixed hunting platforms and blinds for selected hunters.

8. The Fix Unit is closed to firearm deer hunting. We allow only archery deer hunting in the Fix Unit.

* * * * *

21. Amend § 32.43 by:

a. Revising paragraphs A, D.1, D.2, and D.8 under the entry Coldwater River National Wildlife Refuge;

b. Revising paragraphs A, B, C, D.1, D.2, and D.7 under the entry Dahomey National Wildlife Refuge;

c. Revising paragraphs A.2, A.3, A.13, and A.14 under the entry Hillside National Wildlife Refuge;

d. Revising paragraphs A.2, A.3, and A.9 under the entry Holt Collier National Wildlife Refuge;

e. Revising paragraphs A.2, A.3, and A.12 under the entry Mathews Brake National Wildlife Refuge;

f. Revising paragraphs A.2, A.3, A.13, and A.14 under the entry Morgan Brake National Wildlife Refuge;

g. Revising paragraphs A.2, A.3, and A.13 under the entry Panther Swamp National Wildlife Refuge;

h. Revising the entry for Sam D. Hamilton Noxubee National Wildlife Refuge;

i. Under the entry St. Catherine Creek National Wildlife Refuge:

i. Revising paragraphs A.1, A.9, A.11, A.12, and A.14;

ii. Revising paragraphs B.3.iii and B.6;

iii. Revising paragraphs C.3, C.4, C.7, and C.9;

iv. Adding paragraph C.13; and

v. Revising paragraph D introductory text and paragraphs D.1 and D.5;

j. Revising the entry for Tallahatchie National Wildlife Refuge; and

k. Revising paragraphs A.2, A.3, A.10, and A.13 under the entry Yazoo National Wildlife Refuge.

The addition and revisions read as follows:

§ 32.43 Mississippi.

* * * * *

Coldwater River National Wildlife Refuge

A. Migratory Game Bird Hunting. We allow hunting of migratory waterfowl, coots, snipe, and woodcock on designated areas of the refuge in accordance with State regulations and subject to the following conditions:

1. All hunters must comply with all State hunter education requirements. All hunters age 16 and older must possess and carry a valid, signed refuge hunting permit (Visitor Check-In Permit and Report, FWS Form 3-2405). While hunting on the refuge, all persons younger than age 16 (“youth hunter”) must be in the presence and under the direct supervision of a licensed or exempt hunter at least age 21 (“licensed hunter”). A hunter supervising a youth hunter must hold all required licenses and permits.

2. General refuge hours are legal sunrise to legal sunset. During hunting season, hunters may enter the refuge at 4 a.m. and must exit the refuge no later than 2 hours after legal sunset except during raccoon and frog hunts.

3. We allow hunting of migratory game birds, including under the Light Goose Conservation Order, only on Wednesdays, Saturdays, and Sundays ending at 12 p.m. (noon).

4. Each hunter must obtain a daily Big Game Harvest Report (FWS Form 3-2359), available at each refuge information station, and follow the printed instructions on the card. You must display the card in plain view on the dashboard of your vehicle so that the personal information is readable. Prior to leaving the refuge, you must complete the reverse side of the card and deposit it at one of the refuge information stations. Include all game harvested, and if you harvest no game, report “0.” We prohibit hunters possessing more than one Big Game Harvest Report at a time.

5. We may close certain areas of the refuge for sanctuary or administrative purposes. We will mark those areas with “No Hunting” or “Area Closed” signs.

6. We restrict motor vehicle use to roads designated as vehicle access roads on the refuge map (see § 27.31 of this chapter). We prohibit blocking access to any road or trail entering the refuge (see § 27.31(h) of this chapter). It is unlawful to hunt from or shoot into the 100-foot (30.5-meter) zone along either side of designated roads and parking lots.

7. During the refuge deer firearm season (to include primitive weapons and youth gun hunt) all hunters and visitors on the refuge except waterfowl hunters and nighttime raccoon hunters must wear in full view a minimum of 500 square inches (3,226 square centimeters (cm)) of solid, unbroken, fluorescent orange. Deer archery hunters on the refuge must also wear in full view a minimum of 500 square inches (3,226 square cm) of solid, unbroken, fluorescent orange when there is a State gun season on private land. When hunting quail or rabbit on a refuge outside the refuge's general gun and primitive weapon season, hunters must wear a fluorescent orange vest or cap.

8. We only allow dogs on the refuge when specifically authorized for hunting. We encourage the use of dogs to retrieve dead or wounded waterfowl. Dogs must remain in the immediate control of their handlers at all times (see § 26.21(b) of this chapter).

9. You must remove decoys, blinds, boats, other personal property, and litter (see §§ 27.93 and 27.94 of this chapter) from the hunting area following each morning's hunt. We prohibit cutting or removing trees and other vegetation (see § 27.51 of this chapter). We prohibit the use of flagging, paint, blazes, tacks, or other types of markers.

10. We prohibit all-terrain vehicles (ATVs, see § 27.31(f) of this chapter), horses, and mules on the refuge. We prohibit the overnight storage of boats on the refuge.

11. We prohibit the use or possession of alcoholic beverages while hunting on the refuge (see § 32.2(j)).

12. We prohibit all commercial activities, including guiding or participating in a paid guided hunt.

13. We prohibit possession of bait in the field, placement of bait, and hunting over bait (see § 32.2(h)).

14. You are allowed no more than 25 shotshells per person in the field.

* * * * *

D. * * *

1. Condition A12 applies.

2. All anglers must carry a valid refuge permit (Visitor Check-In Permit and Report, FWS Form 3-2405), certifying that they understand and will comply with all regulations.

* * * * *

8. We allow take of frog only with a Special Use Permit (FWS Form 3-1383-G).

Dahomey National Wildlife Refuge

A. Migratory Game Bird Hunting. We allow hunting of migratory waterfowl, coots, snipe, and woodcock on designated areas of the refuge in accordance with State regulations and subject to the following conditions:

1. All hunters must comply with all State hunter education requirements. All hunters age 16 and older must carry a valid, signed refuge hunting permit (Visitor Check-In Permit and Report, FWS Form 3-2405). While hunting on the refuge, all persons younger than age 16 (“youth hunter”) must be in the presence and under the direct supervision of a licensed or exempt hunter at least age 21 (“licensed hunter”). A hunter supervising a youth hunter must hold all required licenses and permits.

2. General refuge hours are legal sunrise to legal sunset. During hunting season, hunters may enter the refuge at 4 a.m. and must exit the refuge no later than 2 hours after legal sunset except during raccoon and frog hunts.

3. We allow hunting of migratory game birds, including under the Light Goose Conservation Order, only on Wednesdays, Saturdays, and Sundays ending at 12 p.m. (noon).

4. Each hunter must obtain a daily Big Game Harvest Report (FWS Form 3-2359), available at each refuge information station, and follow the printed instructions on the card. You must display the card in plain view on the dashboard of your vehicle so that the personal information is readable. Prior to leaving the refuge, you must complete the card and deposit it at one of the refuge information stations. Include all game harvested, and if you harvest no game, report “0.” We prohibit hunters possessing more than one Big Game Harvest Report at a time.

5. We may close certain areas of the refuge for sanctuary or administrative purposes. We will mark those areas with “No Hunting” or “Area Closed” signs.

6. We restrict motor vehicle use to roads designated as vehicle access roads on the refuge map (see § 27.31 of this chapter). We prohibit blocking access to any road or trail entering the refuge (see § 27.31(h) of this chapter). It is unlawful to hunt from or shoot into the 100-foot (30.5-meter) zone along either side of designated roads and parking lots.

7. During the refuge deer firearm season (to include primitive weapons and youth gun hunt) all hunters and visitors on the refuge except waterfowl hunters and nighttime raccoon hunters must wear in full view a minimum of 500 square inches (3,226 square centimeters (cm)) of solid, unbroken, fluorescent orange. Deer archery hunters on the refuge must also wear in full view a minimum of 500 square inches (3,226 square cm) of solid, unbroken, fluorescent orange when there is a State gun season on private land. When hunting quail or rabbit on a refuge outside the refuge's general gun and primitive weapon season, hunters must wear a fluorescent orange vest or cap.

8. We only allow dogs on the refuge when specifically authorized for hunting. We encourage the use of dogs to retrieve dead or wounded waterfowl. Dogs must remain in the immediate control of their handlers at all times (see § 26.21(b) of this chapter).

9. You must remove decoys, blinds, boats, other personal property, and litter (see §§ 27.93 and 27.94 of this chapter) from the hunting area following each morning's hunt. We prohibit cutting or removing trees and other vegetation (see § 27.51 of this chapter). We prohibit the use of flagging, paint, blazes, tacks, or other types of markers.

10. We prohibit all-terrain vehicles (ATVs) and utility-type vehicles (UTVs) (see § 27.31(f) of this chapter), horses, and mules on the refuge.

11. We prohibit the use or possession of alcoholic beverages while hunting on the refuge (see § 32.2(j)).

12. We prohibit all commercial activities, including guiding or participating in a paid guided hunt.

13. We prohibit possession of bait in the field, placement of bait, and hunting over bait (see § 32.2(h)).

14. You are allowed no more than 25 shotshells per person in the field.

B. Upland Game Hunting. We allow hunting of quail, squirrel, rabbit, and raccoon (raccoon by general Special Use Permit [FWS Form 3-1383-G] only) on designated areas of the refuge in accordance with State regulations and subject to the following conditions:

1. Conditions A1, A2, A4 through A7, and A10 through A13 apply.

2. You may possess only approved nontoxic shot for hunting (see § 32.2(k)) while in the field if hunting small game with a shotgun. Small game also may be hunted with .22 magnums, .17 calibers, and .22 caliber rimfire rifles and archery equipment using arrows with points other than broadheads.

3. You may use dogs, but dogs must remain under the immediate control of their handlers at all times (see § 26.21(b) of this chapter).

4. We prohibit the cutting or removal of trees and other vegetation (see § 27.51 of this chapter).

5. We prohibit the use of flagging, paint, blazes, tacks, or other types of markers.

C. Big Game Hunting. We allow hunting of white-tailed deer and feral hog on designated areas of the refuge in accordance with State regulations and subject to the following conditions:

1. Conditions A1, A2, A4 through A7, and A10 through A13 apply.

2. We prohibit dogs for any big game hunt.

3. We prohibit possession of any drug on any arrow for bow hunting (see § 32.2(g)).

4. We prohibit organized drives for deer.

5. We prohibit hunting or shooting across any open, fallow, or planted field from ground level.

6. We prohibit the construction of, and hunting from, any permanent stands or blinds on the refuge. We allow valid permit holders to possess and hunt from one portable stand or blind on the refuge. You must permanently and legibly write your name and phone number on all stands on the refuge. Stands left in the area do not reserve the hunting locations. You may place stands up to 2 days prior to the hunt, and you must remove them no more than 2 days after the refuge's deer season closes. We may confiscate and dispose of stands not in compliance with these regulations. Ground blinds must display a minimum 400 square inches (2,581 square centimeters) of fluorescent orange that is visible from all sides. We prohibit nailing deer stands and/or steps to trees and attaching any blind or stand to a tree by any metal object inserted into the tree (see § 32.2(i)).

7. Hunters using a climbing tree stand must use a fall-arrest system manufactured to Treestand Manufacturers Association standards.

8. We prohibit cutting or removing trees and other vegetation (see § 27.51 of this chapter).

9. We prohibit the use of flagging, paint, blazes, tacks, or other types of markers.

10. We prohibit the use of buckshot on the refuge.

D. Sport Fishing. We allow fishing on designated areas of the refuge in accordance with State regulations and subject to the following conditions:

1. Condition A11 applies.

2. All anglers must carry a valid refuge permit (Visitor Check-In Permit and Report, FWS Form 3-2405), certifying that they understand and will comply with all regulations.

* * * * *

7. We allow take of frog only by Special Use Permit (FWS Form 3-1383-G).

* * * * *

Hillside National Wildlife Refuge

A. * * *

2. All youth hunters age 15 and younger must be in the presence and direct supervision of a Mississippi licensed or exempt hunter, age 21 or older. One adult may supervise no more than one youth hunter.

3. Before hunting or fishing, all participants must display their Daily Visitor Information/Harvest Report Card (Big Game Harvest Report, FWS Form 3-2359) in plain view in their vehicle so that the required information is readable. All cards must be returned upon completion of the activity and before leaving the refuge.

* * * * *

13. Valid permit holders may incidentally take opossum, coyote, beaver, bobcat, nutria, and feral hog in any refuge hunt season with weapons legal for that hunt.

14. We allow all-terrain vehicles (ATVs) and utility-type vehicles (UTVs) only on designated trails (see § 27.31 of this chapter; see refuge brochure map) from September 15 through February 28. We prohibit horses and mules.

* * * * *

Holt Collier National Wildlife Refuge

A. * * *

2. All youth hunters age 15 and younger must be in the presence and direct supervision of a Mississippi licensed or exempt hunter, age 21 or older. One adult may supervise no more than one youth hunter.

3. Before hunting or fishing, all participants must display their Daily Visitor Information/Harvest Report Card (Big Game Harvest Report, FWS Form 3-2359) in plain view in their vehicle so that the required information is readable. All cards must be returned upon completion of the activity and before leaving the refuge.

* * * * *

9. Valid permit holders may incidentally take opossum, coyote, beaver, bobcat, nutria, and feral hog in any refuge hunt season with weapons legal for that hunt.

* * * * *

Mathews Brake National Wildlife Refuge

A. * * *

2. All youth hunters age 15 and younger must be in the presence and direct supervision of a Mississippi licensed or exempt hunter, age 21 or older. One adult may supervise no more than one youth hunter.

3. Before hunting or fishing, all participants must display their Daily Visitor Information/Harvest Report Card (Big Game Harvest Report, FWS Form 3-2359) in plain view in their vehicle so that the required information is readable. All cards must be returned upon completion of the activity and before leaving the refuge.

* * * * *

12. Valid permit holders may incidentally take opossum, coyote, beaver, bobcat, nutria, and feral hog in any refuge hunt season with weapons legal for that hunt.

* * * * *

Morgan Brake National Wildlife Refuge

A. * * *

2. All youth hunters age 15 and younger must be in the presence and direct supervision of a Mississippi licensed or exempt hunter, age 21 or older. One adult may supervise no more than one youth hunter.

3. Before hunting or fishing, all participants must display their Daily Visitor Information/Harvest Report Card (Big Game Harvest Report, FWS Form 3-2359) in plain view in their vehicle so that the required information is readable. All cards must be returned upon completion of the activity and before leaving the refuge.

* * * * *

13. Valid permit holders may incidentally take opossum, coyote, beaver, bobcat, nutria, and feral hog in any refuge hunt season with weapons legal for that hunt.

14. We allow all-terrain vehicles (ATVs) and utility-type vehicles (UTVs) only on designated trails (see § 27.31 of this chapter; see refuge brochure map) from September 15 through February 28. We prohibit horses and mules.

* * * * *

Panther Swamp National Wildlife Refuge

A. * * *

2. All youth hunters age 15 and younger must be in the presence and direct supervision of a Mississippi licensed or exempt hunter, age 21 or older. One adult may supervise no more than one youth hunter.

3. Before hunting or fishing, all participants must display their Daily Visitor Information/Harvest Report Card (Big Game Harvest Report, FWS Form 3-2359) in plain view in their vehicle so that the required information is readable. All cards must be returned upon completion of the activity and before leaving the refuge.

* * * * *

13. Valid permit holders may incidentally take opossum, coyote, beaver, bobcat, nutria, and feral hog in any refuge hunt season with weapons legal for that hunt.

* * * * *

Sam D. Hamilton Noxubee National Wildlife Refuge

A. Migratory Game Bird Hunting. We allow hunting of duck, woodcock, and coot on designated areas of the refuge in accordance with State regulations and subject to the following conditions:

1. You must purchase a refuge waterfowl permit (Waterfowl Lottery Application; FWS Form 3-2355) for waterfowl hunting in addition to meeting other applicable State and Federal requirements. No more than two companions may accompany each permitted hunter, and we do not require these companions to purchase permits. Permits are nontransferable and only issued to hunters ages 16 and older. Permit holders can hunt as standby hunters for any date for which waterfowl hunting is open. Youth age 15 or younger are not required to obtain a refuge waterfowl permit and can obtain a free permit from the refuge's office.

2. Information on hunts and hunt dates are available at refuge headquarters, on the refuge Web site, and as specified in the refuge brochure.

3. You must remove all decoys, blind material, and harvested game and return to the check station by 1 p.m. each day (see §§ 27.93 and 27.94 of this chapter).

4. All youth hunters age 15 and younger must remain within sight and normal voice contact of an adult age 21 or older. One adult may supervise not more than two youth hunters.

5. All waterfowl hunters must check-in and check-out at the refuge's duck check station both before and after a day's hunt.

6. We prohibit the use or possession of alcoholic beverages while hunting (see § 32.2(j)).

7. Persons possessing, transporting, or carrying firearms on the refuge must comply with all provisions of State and local law. Persons may only use (discharge) firearms in accordance with refuge regulations (see § 27.42 of this chapter and specific refuge regulations in this part 32).

8. You may possess only approved nontoxic shot while hunting within wetlands and green-tree reservoirs (see § 32.2(k)). Waterfowl hunters are limited to 25 shotshells per person.

9. We prohibit leaving any personal property, including, but not limited to, boats or vehicles of any type, geocaches, and cameras, overnight on the refuge (see § 27.93 of this chapter). You may not bring any mechanized equipment into the Noxubee Wilderness Area, and you must remove all personal property daily from the Noxubee Wilderness Area. Outside the Noxubee Wilderness Area, you may leave properly labeled tree stands used for deer hunting and trotlines and jugs used for fishing overnight.

10. During the deer firearm (primitive or modern gun) hunts, any person hunting species other than waterfowl, accompanying another person hunting species other than waterfowl, or walking off-trail within areas open to deer hunting must wear at least 500 square inches (3,226 square centimeters (cm)) of unbroken fluorescent-orange material visible above the waistline as an outer garment at all times. Ground blinds when occupied must display a minimum of 400 square inches (2,581 square cm) of unbroken fluorescent-orange material.

11. We allow unleashed dogs for retrieval of migratory and upland game only. Livestock is prohibited, and pets must remained restrained and under the owner's control.

12. We prohibit marking trees and using flagging tape, reflective tacks, and other similar marking devices.

13. We require all hunters and anglers to record hours active and game harvested using the Visitor Check-In Permit and Report (FWS Form 3-2405).

14. We require all users to possess and display a valid Entrance Pass. You may use a current Federal Recreational Lands Pass or valid Federal Migratory Bird Hunting and Conservation Stamp (Federal Duck Stamp) as the Entrance Pass.

15. Waterfowl hunters must stay within 100 feet (30.5 meters (m)) of the assigned hunt location. You may exceed 100 feet (30.5 m) when retrieving downed birds.

16. We prohibit using real or artificial agricultural grain baits, salts and other minerals, scents, and other food-like attractants (see § 32.2(h)). We allow you to use baited lines for fishing on the refuge.

17. We prohibit off-road vehicle use including the use of all-terrain vehicles (ATVs), utility-type vehicles (UTVs), and livestock, including horses and mules.

B. Upland Game Hunting. We allow hunting of squirrel, rabbit, quail, opossum, and raccoon on designated areas of the refuge in accordance with State regulations and subject to the following conditions:

1. When waterfowl hunting is actively taking place, we prohibit all public use other than waterfowl hunting within the designated areas for waterfowl hunting.

2. We allow hunting of squirrel, raccoon, rabbit, quail, and opossum with unleashed dogs during designated hunts. All pets must remain restrained and within the immediate control of the owner.

3. We allow raccoon and opossum hunting between the hours of legal sunset and legal sunrise.

4. Conditions A2, A4, A6 through A14, A16, and A17 apply.

5. We prohibit hunting or entry into areas designated as being “closed” (see refuge brochure map).

6. You may take incidental species (coyote, beaver, nutria, and feral hog) during any hunt with those weapons legal during those hunts.

7. Bobwhite quail and rabbit hunters are required to wear at least a solid hunter orange vest or cap.

C. Big Game Hunting. We allow hunting of white-tailed deer and turkey on designated areas of the refuge in accordance with State regulations and subject to the following conditions:

1. Conditions A2, A4, A6 through A14, A16, A17, B1, B2, B5 and B6 apply.

2. You must purchase a refuge quota deer permit (Quota Deer Hunt Application; FWS Form 3-2354) in addition to meeting State requirements for all refuge deer hunts. Permits are nontransferable. Youth age 15 or younger are not required to a purchase a refuge quota deer permit and can obtain a free permit from the refuge's office.

3. We prohibit organized drives for deer.

4. You may place one portable tree stand or ground blind for deer hunting on the refuge only during the open deer season. You must clearly label the stand or blind with the name, address, and phone number of the hunter. When not in use and left on the refuge, you must place stands in a non-hunting position at ground level.

5. While climbing a tree, installing a tree stand that uses climbing aids, or hunting from a tree stand on the refuge, you must use a fall-arrest system (full body harness) that is manufactured to the Treestand Manufacturer's Association's standards.

D. Sport Fishing. We allow sport fishing on designated areas of the refuge in accordance with State regulations and subject to the following conditions:

1. The general sport fishing, boating, and bow fishing season extends from March 1 through October 31, except for the shoreline of Bluff Lake from the Bluff Lake Boardwalk to the visitor center, the entire Noxubee River, and all borrow pit areas along Highway 25 that are open year-round to fishing.

2. Conditions A2, A6, A7, A9 through A14, A16, A17, B1, and B5 apply.

3. Anglers must keep boat travel at idle speed, and they must not create a wake when moving.

4. We prohibit limb lines, jug fishing, trotlines, snag lines, and hand grappling in Ross Branch, Bluff, and Loakfoma Lakes as well as areas within 100 yards of refuge water and transportation structures.

5. When left unattended, anglers must tag fishing gear with their name, address, and phone number. Anglers must check all gear within 24 hours each day or remove these devices.

6. Trotlining:

i. Anglers must label each end of the trotline floats with the owner's name, address, and phone number.

ii. We limit trotlines to one line per person, and we allow no more than two trotlines per boat.

iii. Anglers must tend all trotlines every 24 hours and remove them when not in use.

iv. Trotlines must possess at least 6-inch (15.2-centimeter) cotton string leads.

7. Jug fishing:

i. Anglers must label each jug with their name, address, and phone number.

ii. Anglers must check all jugs every 24 hours and remove them when not in use.

8. We prohibit nighttime bow fishing.

9. We prohibit fishing tournaments on all refuge waters.

10. We prohibit the taking of frogs, turtles, and crawfish (see § 27.21 of this chapter).

11. We prohibit the use of airboats, sailboats, hovercrafts, and inboard-water-thrust boats such as, but not limited to, personal watercraft, watercycles, and waterbikes.

12. We prohibit using nets of any type to capture free-roaming fish or wildlife. Fishing nets can be used to recover fish caught by hook and line.

St. Catherine Creek National Wildlife Refuge

A. * * *

1. We allow hunting in Butler Lake, Salt Lake, and Gillard Lake from ½ hour before legal sunrise until 12 p.m. (noon) on Wednesdays, Saturdays, and Sundays.

* * * * *

9. Waterfowl hunters are allowed no more than 25 shotshells per person.

* * * * *

11. We allow all-terrain vehicles (ATVs) and utility-type vehicles (UTVs) in accordance with State WMA regulations and size specifications on designated trails (see § 27.31 of this chapter) from scouting season until February 28. An ATV is an off-road vehicle with factory specifications not to exceed the following: Weight 750 pounds (337.5 kilograms), length 85 inches (212.5 centimeters (cm)), and width 48 inches (120 cm). We restrict ATV tires to those no larger than 26 inches (66 cm) by 12 inches (30 cm) with a maximum 1-inch (2.5-cm) lug height and a maximum allowable tire pressure of 7 psi (48 kPa) as indicated on the tire by the manufacturer.

12. You must be age 16 or older to operate an ATV or UTV on the refuge.

* * * * *

14. We prohibit the following acts: Use or possession of alcohol while hunting (see § 32.2(j)); entering the refuge from private property; hunters entering the refuge from public waterways; overnight parking; parking or hunting within 150 feet (45 meters) of any petroleum facility or equipment, or refuge residences and buildings; parking by hunters in refuge headquarters parking lot; and use of handguns for hunting on the refuge.

B. * * *

3. * * *

iii. We prohibit the use of boats, ATVs, and UTVs.

* * * * *

6. We prohibit the following acts: Target practice; and the possession of any trail-marking material.

C. * * *

3. You must wear a minimum of 500 square inches (3,226 square centimeters) of unbroken hunter orange as the outermost layer of clothing on the chest and back, and a hat or cap of unbroken hunter orange. You must wear the solid-hunter-orange items while in the field.

4. While hunting, all persons under age 16 must be in the presence and under direct supervision of a licensed or exempt hunter at least age 21.

* * * * *

7. We prohibit nailing deer stands and/or steps to trees. We prohibit attaching any blind or stand to a tree by any metal object inserted into the tree (see § 32.2(i)).

* * * * *

9. You may place stands up to 2 days prior to established hunting season dates, and you must remove them no more than 2 days after the hunting season closes. You must mark your stand with your name and phone number. We allow each hunter one portable stand or blind on the refuge.

* * * * *

13. We prohibit the use of trail cameras.

D. * * *. We allow fishing during daylight hours only from February 1-November 15 in accordance with State regulations and subject to the following conditions:

1. We prohibit the use of ATVs and UTVs (see § 27.31(f) of this chapter).

* * * * *

5. We prohibit taking alligator gar.

* * * * *

Tallahatchie National Wildlife Refuge

A. Migratory Game Bird Hunting. We allow hunting of migratory waterfowl, coots, snipe, and woodcock on designated areas of the refuge in accordance with State regulations and subject to the following conditions:

1. All hunters must comply with all State hunter education requirements. All hunters age 16 and older must possess and carry a signed North Mississippi NWR hunting permit (code 606, available from the Mississippi Department of Wildlife, Fisheries, and Parks). While hunting on the refuge, all persons younger than age 16 (“youth hunter”) must be in the presence and under the direct supervision of a licensed or exempt hunter at least age 21 (“licensed hunter”). A licensed hunter supervising a youth hunter must hold all required licenses and permits.

2. General refuge hours are legal sunrise to legal sunset. During hunting season, hunters may enter the refuge at 4 a.m. and must exit the refuge no later than 2 hours after legal sunset except during raccoon and frog hunts.

3. We allow hunting of migratory game birds, including under the Light Goose Conservation Order, only on Wednesdays, Saturdays, and Sundays ending at 12 p.m. (noon).

4. We prohibit public hunting north of Mississippi Highway 8.

5. Each hunter must obtain a daily Big Game Harvest Report (FWS Form 3-2359) available at each refuge information station and follow the printed instructions on the card. You must display the card in plain view on the dashboard of your vehicle so that the personal information is readable. Prior to leaving the refuge, you must complete the card and deposit it at one of the refuge information stations. Include all game harvested, and if you harvest no game, report “0.” We prohibit hunters possessing more than one Big Game Harvest Report at a time.

6. We may close certain areas of the refuge for sanctuary or administrative purposes. We will mark those areas with “No Hunting” or “Area Closed” signs.

7. We restrict motor vehicle use to roads designated as vehicle access roads on the refuge map (see § 27.31 of this chapter). We prohibit blocking access to any road or trail entering the refuge (see § 27.31(h) of this chapter). It is unlawful to hunt from or shoot into the 100-foot (30.5-meter) zone along either side of designated roads and parking lots.

8. During the refuge deer firearm season (to include primitive weapons and youth gun hunt), all hunters and visitors on the refuge except waterfowl hunters and nighttime raccoon hunters must wear in full view a minimum of 500 square inches (3,226 square centimeters (cm)) of solid, unbroken, fluorescent orange. Deer archery hunters on the refuge must also wear in full view a minimum of 500 square inches (3,226 square cm) of solid, unbroken, fluorescent orange when there is a State gun season on private land. When hunting quail or rabbit on a refuge outside the refuge's general gun and primitive weapon season, hunters must wear a fluorescent orange vest or cap.

9. We only allow dogs on the refuge when specifically authorized for hunting. We encourage the use of dogs to retrieve dead or wounded waterfowl. Dogs must remain in the immediate control of their handlers at all times (see § 26.21(b) of this chapter).

10. You must remove decoys, blinds, boats, other personal property, and litter (see §§ 27.93 and 27.94) from the hunting area following each morning's hunt. We prohibit cutting or removing trees and other vegetation (see § 27.51 of this chapter). We prohibit the use of flagging, paint, blazes, tacks, or other types of markers.

11. We prohibit all-terrain vehicles (ATVs) and utility-type vehicles (UTVs) (see § 27.31(f) of this chapter), horses, and mules on the refuge.

12. We prohibit the use or possession of alcoholic beverages while hunting on the refuge (see § 32.2(j)).

13. We prohibit all commercial activities, including guiding or participating in a paid guided hunt.

14. We prohibit possession of bait in the field, placement of bait, and hunting over bait (see § 32.2(h)).

15. You are allowed no more than 25 shotshells per person in the field.

B. Upland Game Hunting. We allow hunting of quail, squirrel, rabbit, and raccoon (raccoon by general Special Use Permit [FWS Form 3-1383-G] only) on designated areas of the refuge in accordance with State regulations and subject to the following conditions:

1. Conditions A1, A2, A4 through A8, and A10 through A14 apply.

2. You may possess only approved nontoxic shot for hunting (see § 32.2(k)) while in the field if hunting for small game with a shotgun. Small game also may be hunted with .22 magnums, .17 calibers, and .22 caliber rimfire rifles and archery equipment using arrows with points other than broadheads.

3. You may use dogs, but they must remain under the immediate control of their handlers at all times (see § 26.21(b) of this chapter).

C. Big Game Hunting. We allow hunting of white-tailed deer and feral hog on designated areas of the refuge in accordance with State regulations and subject to the following conditions:

1. Conditions A1, A2, A4 through A8, and A10 through A13 apply.

2. We prohibit dogs for any big game hunt.

3. We prohibit possession of any drug on any arrow for bow hunting (see § 32.2(g)).

4. We prohibit organized drives for deer.

5. We prohibit hunting or shooting across any open, fallow, or planted field from ground level.

6. We prohibit the construction of, and hunting from, any permanent stands or blinds on the refuge. We allow valid permit holders to possess and hunt from one portable stand or blind on the refuge. You must permanently and legibly write your name and phone number on all stands on the refuge. Stands left on the area do not reserve the hunting locations. You may place stands up to 2 days prior to the hunt, and you must remove them no more than 2 days after the refuge's deer season closes. We may confiscate and dispose of stands not in compliance with these regulations. Ground blinds must display a minimum 400 square inches (2,581 square centimeters) of fluorescent orange that is visible from all sides. We prohibit nailing deer stands and/or steps to trees and attaching any blind or stand to a tree by any metal object inserted into the tree (see § 32.2(i)).

7. Hunters using a climbing tree stand must use a fall-arrest system manufactured to Treestand Manufacturers Association standards.

8. We prohibit cutting or removing trees and other vegetation (see § 27.51 of this chapter). We prohibit the use of flagging, paint, blazes, tacks, or other types of markers.

9. We prohibit the use of buckshot on the refuge.

D. Sport Fishing. We allow fishing on designated areas of the refuge in accordance with State regulations and subject to the following conditions:

1. Condition A12 applies.

2. All anglers must carry a valid refuge permit (Visitor Check-In Permit and Report, FWS Form 3-2405), certifying that they understand and will comply with all regulations.

3. We only allow bank or boat sport fishing south of Mississippi Highway 8.

4. We prohibit possession or use of jugs, seines, nets, hand-grab baskets, slat traps/baskets, or any other similar devices and commercial fishing of any kind.

5. We only allow trotlines, yo-yos, limb lines, crawfish traps, or any other similar devices for recreational use. You must tag or mark them with the angler's full name and full residence address, including zip code written with waterproof ink, legibly inscribed or legibly stamped on the tag, and you must attend the devices a minimum of once daily. When not attended, you must remove these devices (see § 27.93 of this chapter) from the refuge.

6. We prohibit snagging or attempting to snag fish.

7. We allow crawfishing.

8. We allow take of frog only with a Special Use Permit (FWS Form 3-1383-G).

Yazoo National Wildlife Refuge

A. * * *

2. All youth hunters age 15 and younger must be in the presence and direct supervision of a Mississippi licensed or exempt hunter, age 21 or older. One adult may supervise no more than one youth hunter.

3. Before hunting or fishing, all participants must display their Daily Visitor Information/Harvest Report Card (Big Game Harvest Report, FWS Form 3-2359) in plain view in their vehicle so that the required information is readable. All cards must be returned upon completion of the activity and before leaving the refuge.

* * * * *

10. For hunting, you may possess only approved nontoxic shot (see § 32.2(k)).

* * * * *

13. Valid permit holders may incidentally take opossum, coyote, beaver, bobcat, nutria, and feral hog in any refuge hunt season with weapons legal for that hunt.

* * * * *

22. Amend § 32.44 by:

a. Revising the entry for Great River National Wildlife Refuge; and

b. Revising the entry for Middle Mississippi River National Wildlife Refuge.

The revisions read as follows:

§ 32.44 Missouri.

* * * * *

Great River National Wildlife Refuge

Refer to § 32.32 (Illinois) for regulations.

Middle Mississippi River National Wildlife Refuge

Refer to § 32.32 (Illinois) for regulations.

* * * * *

23. Amend § 32.46 by revising paragraphs C.1, C.2, C.4, and C.9 under the entry Fort Niobrara National Wildlife Refuge to read as follows:

§ 32.46 Nebraska.

* * * * *

Fort Niobrara National Wildlife Refuge

* * * * *

C. * * *

1. We require the submission of a Big/Upland Game Hunt Application (FWS Form 3-2356). You must possess and carry a signed refuge hunt permit (signed brochure) when hunting. We require hunters to complete a Big Game Harvest Report (FWS Form 3-2359) and return it to the refuge at the conclusion of the hunting season.

2. We allow hunting with muzzleloader and archery equipment. We prohibit hunting with firearms capable of firing cartridge ammunition.

* * * * *

4. We allow hunting in the area defined as those refuge lands situated north and west of the Niobrara River. We allow access to this area only from designated refuge parking areas and the Niobrara River.

* * * * *

9. We prohibit permanent tree stands, nails, screw-in steps, or other items that penetrate the outer bark of a tree (see § 32.2(i)). We prohibit leaving tree stands and ground blinds in the same location for more than 7 consecutive days. You must label unattended tree stands, elevated platforms, and ground blinds with your name and address; the label must be legible from the ground. You may put up tree stands, elevated platforms, and ground blinds, but no earlier than opening day of deer season; you must remove them by the last day of deer season.

* * * * *

24. Amend § 32.48, the entry for Umbagog National Wildlife Refuge, by revising paragraphs A.1 and C.3 to read as follows:

§ 32.48 New Hampshire.

* * * * *

Umbagog National Wildlife Refuge

A. * * *

1. You must wear hunter-orange clothing or material in accordance with State of Maine regulations for the season and/or species you are hunting; one article of hunter-orange clothing is required during moose season, and two articles are required during firearm and muzzleloader season for deer.

* * * * *

C. * * *

3. We allow prehunt scouting of the refuge; however, we prohibit dogs and hunting firearms during prehunt scouting.

* * * * *

25. Amend § 32.5, the entry for Montezuma National Wildlife Refuge, by revising paragraphs A, B, and C.11 to read as follows:

§ 32.51 New York.

* * * * *

Montezuma National Wildlife Refuge

A. Migratory Game Bird Hunting. We allow waterfowl, Canada goose, and snow goose hunting on designated areas of the refuge in accordance with State regulations and subject to the following conditions:

1. For the regular waterfowl season:

i. We require daily refuge permits (Migratory Bird Hunt Report, FWS Form 3-2361) and reservations. You must possess and carry refuge permits while in the field and present them upon request to any law-enforcement officer.

ii. We allow hunting only on Tuesdays, Thursdays, and Saturdays during the established refuge season set within the State western zone season. We allow a youth waterfowl hunt during the Saturday of the State's established youth waterfowl hunt dates each year.

iii. Except for opening day, we take telephone reservations from 8:30 a.m. to 9 a.m. on Tuesdays, Thursdays, and Saturdays for the next hunt day.

iv. We take opening day reservations between 8:30 a.m. and 9 a.m. on the Thursday of the week before the season opener (Note: This is not the Thursday directly before the opener). We take youth hunt reservations between 8:30 a.m. and 9 a.m. on the Thursday of the week before the youth hunt (Note: This is not the Thursday directly before the youth hunt.).

v. The reservation telephone number is 315-568-4136.

vi. All telephone reservations are on a first-come, first-served basis.

vii. If you have a reservation for Tschache Pool, you may bring one companion; we will determine party limits for other areas annually.

viii. You may request the parking area of your choice when making reservations; parking areas are given on a first-come, first-served basis.

ix. Only refuge personnel may move parking signs and blinds.

x. All hunters with reservations and their hunting companions must check-in at the Route 89 Hunter Check Station area at least 1 hour before legal shooting time or forfeit their reservation.

xi. You must set up in your chosen hunting spot before legal shooting time.

xii. Forfeited reservations become available on a first-come, first-served basis to standby hunters at the Route 89 Hunter Check Station.

xiii. In Tschache Pool, you must use motorless boats to hunt, and we limit hunters to one boat per reservation. We also limit hunters to one motor vehicle in the Tschache Pool area per reservation.

xiv. We prohibit shooting from any dike or within 50 feet (15.2 meters) of any dike or road, or from within 500 feet (152.4 meters) of the Tschache Pool observation tower. We do not limit hunting to specific blind sites.

xv. We will announce selection procedures for hunting sites on areas other than Tschache Pool annually.

xvi. You may possess a maximum of 15 nontoxic shot shells for hunting while in the field (see § 32.2(k)); you may not take more than 15 shot shells per hunter into the hunting area.

xvii. You must stop hunting at 12 p.m. (noon), and you must check-out and be out of the hunting area by 1 p.m.

xviii. We require proof of successful completion of the New York State Waterfowl Identification Course, the Montezuma Nonresident Waterfowl Identification Course, or a suitable nonresident State Waterfowl Identification Course to hunt in the refuge; all hunters must show proof each time they hunt, in addition to showing their valid hunting license and signed Federal Migratory Bird Hunting and Conservation Stamp (Federal Duck Stamp).

xix. You must possess, carry, and present upon request to any law enforcement officer a valid daily hunt permit card (Migratory Bird Hunt Report, FWS Form 3-2361). We also require you to return the daily hunt permit card at the end of hunting. You can obtain a permit at the Hunter Check Station during the check-in process, and you can return it to the Hunter Check Station or at the box located at the north end of the Tschache Pool dike.

2. For Canada goose and snow goose hunting:

i. We allow hunting of Canada goose during the New York State September (or “early”) season and of snow goose during portions of the New York State snow goose season and portions of the period covered by the Light Goose Conservation Order according to New York State regulations and any special postings or publications set forth by the refuge manager.

ii. Canada goose and snow goose hunting will be permitted 7 days per week during the refuge's set hunting dates. Hunting hours are in accordance with New York State regulations for Canada goose and snow goose seasons.

iii. You must possess, carry, and present upon request to any law enforcement officer a valid daily hunt permit card (Migratory Bird Hunt Report, FWS Form 3-2361). We also require you to return the daily hunt permit card at the end of hunting or at the end of the day. You can obtain a permit at the Hunter Check Station on State Route 89 and return it to the same location; obtaining a permit will be on a first-come, first-served basis each hunt day until the day's permits are all taken.

B. Upland Game Hunting. We allow hunting of wild turkey on designated areas of the refuge in accordance with State regulations and subject to the following conditions:

1. You must carry and present upon request to any law-enforcement officer a valid daily hunt permit card (Big/Upland Game Hunt Application, FWS Form 3-2356). We also require you to return the daily hunt permit card at the end of hunting or at the end of the day. You can obtain a permit at the Hunter Check Station on State Route 89 and return it to the same location; obtaining a permit during the fall season will be on a first-come, first-served basis each hunt day until the day's permits are all taken.

2. We only allow hunting from legal sunrise to legal sunset during the fall season and from ½ hour before legal sunrise to noon during the youth hunt weekend. We prohibit night hunting.

3. We allow hunting within the New York State fall turkey season. We prohibit hunting during the New York State spring turkey season.

4. We allow youth hunting during the New York State youth wild turkey hunt weekend, depending on whether mentors for youth hunters are available. Participants must make a reservation to hunt; each year, the refuge manager will set the date and time that we will accept reservations by phone. The reservation phone number is (315) 568-4136.

5. Youth hunters and their mentors must attend an orientation program conducted by refuge staff.

6. You may possess only approved nontoxic shot for hunting (see § 32.2(k)) while in the field if hunting with a shotgun. The refuge manager reserves the right to restrict hunting implements beyond State restrictions based on hunter satisfaction and visitor safety.

7. We prohibit hunting with dogs.

8. You may use portable blinds and decoys, but you must remove all equipment (see § 27.93 of this chapter) at the conclusion of each day.

9. We prohibit parking and walking along the Wildlife Drive for the purpose of hunting, unless otherwise posted by refuge personnel.

10. We prohibit use of all-terrain vehicles (ATVs) (see § 27.31(f) of this chapter), dirt bikes, bicycles, snowmobiles, and watercraft for the purpose of turkey hunting.

C. * * *

11. Hunting weapon restrictions follow New York State regulations; successful harvest with a bow or other hunting weapon during firearms season requires use of a firearms season tag. The refuge manager reserves the right to restrict hunting implements beyond State restrictions based on hunter satisfaction and visitor safety.

* * * * *

26. Amend § 32.52, the entry for Pocosin Lakes National Wildlife Refuge, by:

a. Revising paragraphs A.4 and A.9;

b. Removing paragraphs A.12 and B.9;

c. Revising paragraphs C.2 and C.5;

d. Removing paragraph C.8; and

e. Redesignating paragraph C.9 as C.8.

The revisions read as follows:

§ 32.52 North Carolina.

* * * * *

Pocosin Lakes National Wildlife Refuge

A. * * *

4. We open the refuge for daylight use only (½ hour before legal sunrise to ½ hour after legal sunset), except that we allow hunters to enter and remain in hunting areas from 2 hours before legal sunrise until 2 hours after legal sunset when we allow hunting in those areas.

* * * * *

9. You may possess only approved nontoxic shot (see § 32.2(k)) while migratory game bird hunting.

* * * * *

C. * * *

2. You may hunt turkey only if you carry a valid permit (General Activities Special Use Permit Application, FWS Form 3-1383-G). These permits are valid only for the dates and areas shown on the permit. We require an application and a fee for those permits and hold a drawing, when necessary, to select the permittees. You may possess only approved nontoxic shot (see § 32.2(k)) while hunting turkeys west of Evans Road and on the Pungo Unit.

* * * * *

5. We allow hunters to take feral hogs in any area that is open to hunting deer using only those weapons authorized for taking deer. On the Frying Pan tracts, we also allow hunters to take feral hogs, using only those weapons authorized for taking deer, whenever we open those tracts to hunting any game species with firearms.

* * * * *

27. Amend § 32.53 by:

a. Under the entry Arrowwood National Wildlife Refuge:

i. Revising paragraphs C.2, C.5, D.2, and D.3;

ii. Removing paragraphs D.4, D.5, and D.6; and

iii. Redesignating paragraphs D.7 through D.9 as D.4 through D.6, respectively;

b. Revising paragraph B introductory text and paragraphs B.3 and C.6 under the entry Des Lacs National Wildlife Refuge;

c. Revising paragraphs B and C under the entry Lake Zahl National Wildlife Refuge; and

d. Revising paragraphs B and C under the entry Lostwood National Wildlife Refuge.

The revisions read as follows:

§ 32.53 North Dakota.

* * * * *

Arrowwood National Wildlife Refuge

* * * * *

C. * * *

2. We allow deer hunting on the refuge during the State Youth Deer Season except in select closed areas as posted.

* * * * *

5. We prohibit permanent tree stands. We allow temporary tree stands, blinds, and game cameras for daily use; you must remove them by the end of the day. You may clamp, rope, or chain stands, steps, and cameras to trees; you may not nail, wire, screw, or bolt them to trees (see § 32.2(i)).

* * * * *

D. * * *

2. We allow shore fishing, archery, and spearfishing along major road rights-of-way and interior portions of the refuge and by-pass channel during the entire State fishing season. We only allow walk-in access, except in designated areas.

3. We allow ice fishing and dark house spearfishing. We allow fish houses, cars, and trucks on the ice as conditions allow. You may leave fish houses on the ice overnight until March 15; after March 15 you must remove fish houses from the refuge before leaving for the day.

* * * * *

Des Lacs National Wildlife Refuge

* * * * *

B. * * *. You may hunt sharp-tailed grouse, Hungarian partridge, turkey, and ring-necked pheasant on designated areas of the refuge in accordance with State regulations and subject to the following conditions:

* * * * *

3. Upland game bird season opens on the day following the close of the regular deer gun season through the end of the State season.

* * * * *

C. * * *

6. Conditions B6 through B9 apply.

* * * * *

Lake Zahl National Wildlife Refuge

* * * * *

B. Upland Game Hunting. We allow hunting of sharp-tailed grouse, Hungarian partridge, and ring-necked pheasant on designated areas of the refuge in accordance with State regulations and subject to the following conditions:

1. We open the refuge daily from 5 a.m. to 10 p.m.

2. You may possess only approved nontoxic shot while in the field (see § 32.2(k)).

3. Upland game bird season opens on the day following the close of the regular deer gun season through the end of the State season.

4. You may use hunting dogs to retrieve upland game. Dogs must be under your direct control at all times.

5. You may only enter the refuge by foot.

6. We prohibit the use of snowmobiles, all-terrain vehicles (ATVs), off-highway vehicles (OHVs), utility-type vehicles (UTVs), bicycles, or similar vehicles on the refuge.

7. We prohibit the use of horses, mules, or similar livestock on the refuge during all hunting seasons.

C. Big Game Hunting. We allow deer hunting on designated areas of the refuge in accordance with State regulations and subject to the following conditions:

1. Conditions B1 and B5 through B7 apply.

2. You may only use portable tree stands and ground blinds. We prohibit leaving stands and blinds overnight (see § 27.93 of this chapter). We prohibit driving nails, screws, spikes, or other objects into a tree or otherwise injuring a tree (see § 32.2(i)).

3. We prohibit entry to the refuge before 12 p.m. (noon) on the first day of the respective archery, gun, or muzzleloader deer hunting season.

4. We prohibit the use of flagging, trail markers, paint, reflective tacks, or other types of markers (see § 27.93 of this chapter).

5. We prohibit the use of trail cameras.

* * * * *

Lostwood National Wildlife Refuge

* * * * *

B. Upland Game Hunting. We allow hunting of sharp-tailed grouse, Hungarian partridge, and ring-necked pheasant on designated areas of the refuge in accordance with State regulations and subject to the following conditions:

1. We open the refuge daily from 5 a.m. to 10 p.m.

2. You may possess only approved nontoxic shot while in the field (see § 32.2(k)).

3. We prohibit upland game hunting on the portion of the refuge south of Highway 50 during regular deer gun season.

4. We allow upland game hunting on the portion of the refuge north of Highway 50 on the day following the close of the regular deer gun season through the end of the State season.

5. You may use hunting dogs to retrieve upland game. Dogs must be under your direct control at all times.

6. You must comply with all “Closed to Hunting” signs.

7. You may only enter the refuge by foot.

8. We prohibit the use of snowmobiles, all-terrain vehicles (ATVs), off-highway vehicles (OHVs), utility-type vehicles (UTVs), bicycles, or similar vehicles on the refuge.

9. We prohibit the use of horses, mules, or similar livestock on the refuge during all hunting seasons.

C. Big Game Hunting. We allow deer hunting on designated areas of the refuge in accordance with State regulations and subject to the following conditions:

1. Conditions B1 and B6 through B9 apply.

2. You may only use portable tree stands and ground blinds. We prohibit leaving stands and blinds overnight (see § 27.93 of this chapter). We prohibit driving nails, screws, spikes, or other objects into a tree or otherwise injuring a tree (see § 32.2(i)).

3. We prohibit entry to the refuge before 12 p.m. (noon) on the first day of the respective archery, gun, or muzzleloader deer hunting season.

4. We prohibit the use of flagging, trail markers, paint, reflective tacks, or other types of markers (see § 27.93 of this chapter).

5. We prohibit the use of trail cameras.

* * * * *

28. Amend § 32.55, the entry for Washita National Wildlife Refuge, by revising paragraphs A.1, A.2, and C to read as follows:

§ 32.55 Oklahoma.

* * * * *

Washita National Wildlife Refuge

A. * * *

1. We require permits (signed brochure) and payment of a fee to hunt goose, duck, and sandhill crane.

2. Goose, duck, and sandhill crane hunters must hunt from designated pit blinds.

* * * * *

C. Big Game Hunting. We allow hunting of white-tailed deer, feral hog, and Rio Grande wild turkey on designated areas of the refuge in accordance with State regulations and subject to the following conditions:

1. We allow deer and feral hog hunting during the special refuge season in accordance with the refuge hunt information sheet. We will hold turkey hunts during the State spring turkey season.

2. We allow shotguns and lawful archery equipment for turkey hunting.

3. You must obtain a refuge hunt permit from the State and pay a fee (fee waived for youth hunters and mentors during the youth hunt).

4. You must check in and out of hunt areas daily at the refuge office or check station.

5. You must take bagged deer, hog, and/or turkey to the refuge check station.

6. We will determine bag limits on deer and turkey annually.

7. We prohibit the use of bait (see § 32.2(h)).

7. A non-hunting mentor age 21 or older must accompany, and be in the immediate presence of, youth hunters participating in the youth hunt. Youth hunters must be age 17 or younger. Both youth hunters and mentors must wear hunter orange clothing meeting or exceeding the minimum State requirements.

8. We prohibit using handguns for hunting.

* * * * *

29. Amend § 32.56 by:

a. Revising paragraph A.8 under the entry Bandon Marsh National Wildlife Refuge;

b. Revising paragraphs A.5, A.6, and A.7 under the entry Lower Klamath National Wildlife Refuge;

c. Removing paragraph A.6 under the entry Nestucca Bay National Wildlife Refuge; and

d. Adding paragraph A.8 under the entry Siletz Bay National Wildlife Refuge.

The revisions and addition read as follows:

§ 32.56 Oregon.

* * * * *

Bandon Marsh National Wildlife Refuge

A. * * *

8. You may enter posted retrieval zones while retrieving downed birds and when traveling to and from the hunting areas. We prohibit discharging firearms while in a retrieval zone.

* * * * *

Lower Klamath National Wildlife Refuge

A. * * *

5. You may not set decoys in retrieving zones.

6. We prohibit the use of air-thrust and water-thrust boats.

7. You may possess only approved nontoxic shot while in the field (see § 32.2(k)).

* * * * *

Siletz Bay National Wildlife Refuge

A. * * *

8. You may enter posted retrieval zones while retrieving downed birds and when traveling to and from the hunting areas. We prohibit discharging firearms while in a retrieval zone.

* * * * *

30. Amend § 32.60 by:

a. Under the entry Cape Romain National Wildlife Refuge:

i. Revising paragraphs B.11, B.15, D.11, and D.12; and

ii. Adding paragraphs D.14, D.15, and D.16;

b. Under the entry Carolina Sandhills National Wildlife Refuge:

i. Revising paragraphs A.1, A.3, and A.5 through A.9;

ii. Adding paragraph A.10;

iii. Revising paragraph B.1 and C.1;

iv. Removing paragraph C.11;

v. Redesignating paragraphs C.13 through C.19 as C.11 through C.17, respectively; and

vi. Revising paragraph D.9;

c. Revising paragraphs B, C, and D under the entry Santee National Wildlife Refuge; and

d. Revising the entry for Waccamaw National Wildlife Refuge.

The additions and revisions read as follows:

§ 32.60 South Carolina.

* * * * *

Cape Romain National Wildlife Refuge

* * * * *

B. * * *

11. We prohibit camping on the refuge except for designated archery hunters on Bulls Island and individuals obtaining a Special Use Permit (FWS Form 3-1383-G) from the refuge manager.

* * * * *

15. We prohibit overnight parking at Garris Landing, except for archery hunters during the designated refuge archery white-tailed deer season and individuals obtaining a Special Use Permit (FWS Form 3-1383-G) from the refuge manager. We require individuals parking vehicles at Garris Landing to obey all posted signs.

* * * * *

D. * * *

11. We prohibit the commercial transport of passengers to any refuge island for any purpose without a Special Use Permit (FWS Form 3-1383-C) from the refuge manager.

12. We prohibit feeding or harassing any marine mammal.

* * * * *

14. We prohibit any amphibious vehicle, hovercraft, airboat, or vessel from landing upon refuge islands.

15. We prohibit the use of any amphibious vehicle or vessel upon refuge lands or waters.

16. We prohibit any personal watercraft, as defined at 33 CFR 174.3, from landing upon refuge islands.

Carolina Sandhills National Wildlife Refuge

A. * * *

1. All hunters must carry a signed refuge General Hunt Permit (signed brochure) and government-issued picture identification.

* * * * *

3. Each youth hunter (younger than age 16) must remain within sight and normal voice contact and under supervision of an adult age 21 or older with a valid license and applicable permit. Each adult may supervise no more than two youth hunters. Each youth hunter must carry evidence of successful completion of a State-approved hunter-education course.

* * * * *

5. We prohibit the use or possession of alcoholic beverages while hunting on the refuge (see § 32.2(j)).

6. We prohibit discharge of weapons for any purpose other than to take or attempt to take legal game animals during established hunting seasons.

7. We prohibit the use of outdoor recreational vehicles (ORVs) except by mobility-impaired hunters with a Special Use Permit (FWS Form 3-1383-G) to use ORV in designated areas during specified hunts. Mobility-impaired hunters must have a State Disabled Hunting license in order to receive the Special Use Permit. Companions assisting disabled hunters must possess required State license(s) and refuge permit(s) and be listed on the Special Use Permit.

8. For hunting, you may possess shotguns with shot no larger than No. 5.

9. Legal shooting hours for September dove hunts are 12 p.m. (noon) to 6 p.m.

10. We prohibit the possession of more than 50 shotgun shells during the September dove hunts.

B. * * *

1. Conditions A1 through A7 apply.

* * * * *

C. * * *

1. Conditions A1 through A7 apply (with the following exception for condition A3: Each adult may supervise no more than one youth hunter).

* * * * *

D. * * *

9. We prohibit the use or possession of alcoholic beverages while fishing on the refuge (see § 32.2(j)).

* * * * *

Santee National Wildlife Refuge

* * * * *

B. Upland Game Hunting. We allow hunting of raccoon and opossum on designated areas of the refuge in accordance with State regulations and subject to the following conditions:

1. We allow hunters to use only weapons, firearms, and ammunition specifically authorized for each hunt.

2. All refuge hunters under age 16 must show proof of successfully completing a hunter-education/safety course. A properly licensed adult at least age 21 must directly supervise (within sight and normal voice contact) hunters under age 16. An adult may supervise only one youth.

3. We require hunters to possess a refuge hunt permit (signed refuge hunt brochure), a valid State hunting license, and government-issued picture identification while hunting. The refuge hunt permit is not valid until signed by the hunter.

4. Before hunting, each individual participant must obtain from a designated check station and display their completed User Information/Harvest Report Card (Big Game Harvest Report, FWS Form 3-2359) in plain view in their vehicle so that the required information is readable. After checking a harvested animal at a check station, the hunter must record species harvest information on reporting card. You must return all cards upon completion of the activity and before leaving the refuge.

5. You must check all animals taken on the refuge before removing the animal from the refuge and prior to 8:30 p.m. at the check station.

6. We require hunters to make a reasonable effort to retrieve wounded game. You must obtain permission from refuge personnel to enter a “No Hunting Zone” or “Closed Area” for any purpose.

7. We allow vehicles only on established roads marked open for vehicular traffic. You may travel roads marked “Closed to all vehicles” on foot or by bicycle. The speed limit for all roads is 15 mph. We prohibit all-terrain vehicles (ATVs) and utility-type vehicles (UTVs) or other off-road vehicles. You may park vehicles alongside roads but only in a manner that will not block gates, roads, or fire lanes or interfere with the normal flow of traffic.

8. Hunting firearms being transported in vehicles and boats during refuge hunts must be unloaded and cased or locked in a secure compartment (e.g., toolbox or trunk). We define a loaded firearm as having ammunition in the chamber or magazine. Muzzleloaders will be considered unloaded if the percussion cap is not seated in the chamber.

9. We prohibit hunting with poison tip arrows (pods), exploding arrows, center fire rifles, and handguns (see § 32.2(g)).

10. We prohibit possession of bait, baiting, and/or hunting in the vicinity of bait (see § 32.2(h)).

11. We prohibit camping, overnight parking, fires, and littering (see §§ 27.95(a) and 27.94 of this chapter).

12. We prohibit the possession of remote photography, videography, or any other remote device and trail-monitoring/counting devices.

13. We prohibit entry beyond “Closed Area” or “No Hunting Zone” signs. We prohibit discharging weapons within, into, or across a “No Hunting Zone” or “Closed Area.”

14. We prohibit discharging a firearm from, on, or across any refuge road, or designated refuge foot trail.

15. We prohibit hunting from within 100 feet (30 meters (m)) of any roadway, whether open or closed to vehicular traffic, or from or within 300 yards (270 m) of any designated hunter check station or residence.

16. We prohibit the use or possession of alcoholic beverages while hunting (see § 32.2(j)).

17. We prohibit man or dog drives, stalk hunting, and/or hunting from artificially pruned trees for deer and feral hogs.

18. We allow hunting on each refuge unit only within specified hunt periods and only for raccoon or opossum, and white-tailed deer (see paragraph C, Big Game Hunting, of this entry).

19. We allow unlimited harvest of feral hog as an incidental take while hunting during the day.

20. We will open hunting areas from 5 a.m. until 8:30 p.m. during designated hunt periods.

21. We allow use of dogs only for raccoon and opossum hunting. The dogs must wear a collar displaying the owner's name, address, and telephone number.

22. We allow take of raccoon and opossum only during night hunting from the hours of 6 p.m. to 6 a.m. We prohibit hunting on Saturday nights and Sunday nights. Special State regulations apply for night hunting.

23. We allow take of raccoon and opossum with a shotgun using nontoxic shot size no larger than #4 or a .22-caliber rimfire rifle. We prohibit possession of buckshot or slugs. We prohibit the use of all other weapons for hunting.

C. Big Game Hunting. We allow hunting of white-tailed deer on designated areas of the refuge in accordance with State regulations and subject to the following conditions:

1. Conditions B1 through B20 apply.

2. We prohibit the use of dogs during deer hunts.

3. We prohibit night hunting of deer and feral hogs. On the refuge, nighttime is defined from ½ hour after legal sunset to ½ hour before legal sunrise.

4. We prohibit driving nails, screws, spikes, or other metal objects into a tree, and we prohibit hunting from a tree into which those objects have been driven (see § 32.2(i)).

5. We prohibit destroying or cutting vegetation (see § 27.51 of this chapter). We prohibit the possession of axes, saws, machetes, or other tools used for cutting vegetation on the refuge while scouting or hunting.

6. We prohibit trail flagging. You may use clothes pins with reflective tape/tack or commercially made reflective orange glow or trail clips to mark the path to the tree. You must mark all clips and pins with your full name, and you must remove them at the end of the hunt period. We will consider any clips or pins found without a hunter's name or any found after the end of a hunt period to be littering (see § 27.94 of this chapter), and we will remove them immediately.

7. We require hunters to wear an outer garment visible above the waist that contains a minimum of 500 square inches (3,226 square centimeters) of unbroken, solid fluorescent orange (hunter orange) material at all times during firearms and muzzleloader hunts. This does not apply to dove, raccoon, and turkey hunts.

8. Deer and feral hog hunting must occur from portable elevated hunting stands. A safety belt or harness must be used while using a hunting stand. We prohibit ground blinds. We allow only one stand per hunter, and each hunter must clearly mark stands with his or her full name, date, and phone number. We will confiscate any stands found without the hunter's name, date, and phone number marked on them.

9. We allow scouting on both the Pine Island and Cuddo Units during periods when these units are open to general public access. We allow vehicles only on roads designated as open for vehicular traffic. All other roads and trails are open to walk-in or bicycle traffic. We prohibit hunting weapons and dogs during scouting activities.

10. We will open access roads, closed to the general public for driving, only during each deer hunt and on the Friday, Saturday, and Sunday prior to each hunt.

11. You may place stands, clothes pins, or clips, only on open hunt areas on the Friday, Saturday, and Sunday immediately prior to each hunt (from 7 a.m. until 5 p.m.) and must remove them by 8:30 p.m. on the last day of each hunt period. We will confiscate any stands found outside of allowed periods.

12. We open the Plantation Islands (Cuddo Unit) to deer and feral hog hunting only from 5 a.m. until 2:30 p.m.

13. Shooting hours are from ½ hour before legal sunrise until ½ hour after legal sunset.

14. The refuge conducts one lottery draw hunt (Quota Deer Hunt Application, FWS Form 3-2354) for the Family, Friends, and Kids (Family Friendly) hunts conducted on the Bluff Unit of the refuge. Contact the refuge office for dates, application information, and more information about this special hunt opportunity.

15. We allow the use of non-motorized boats for accessing the unit's interior canals to inland areas open to hunting.

D. Sport Fishing. We allow fishing on the refuge in accordance with State regulations and subject to the following conditions:

1. A valid State fishing license, a signed refuge fishing permit (signed brochure), and government-issued picture identification must be in each angler's possession while fishing on the refuge. A signed refuge permit must be in each fisherman's possession while fishing on the refuge, except all recreational fishing boat operators are only required to have one refuge fishing permit per boat. A refuge fishing permit is not valid until signed.

2. We allow public fishing on all four refuge units. We open waters of Lake Marion within refuge boundaries for fishing 24 hours a day, except in areas posted as “Closed Areas” or closed for migratory bird management (sanctuaries). We allow fishing only on the inland ponds and canals during times the refuge units are open for general public access or as posted. We prohibit fishing at night, to include bank fishing, except by boat in Lake Marion.

3. Cantey Bay (Bluff Unit), Black Bottom (Cuddo Unit), and Savannah Branch (Pine Island Unit) are only open to public access, including boating and fishing, from March 1 through October 31.

4. We limit access to the interior freshwater canals and ponds to canoes or kayaks, or by foot or bicycle travel only. We prohibit use of internal combustion engines on interior ponds and canals.

5. We prohibit littering, camping and/or overnight parking, open fires, swimming or wading, collecting or searching for or taking of any items of antiquity, and overnight mooring of boats (see §§ 27.62, 27.94, and 27.95(a) of this chapter). We allow pets only in designated areas, and they must remain on a leash or within vehicles/vessels.

6. We prohibit fishing or boating within 100 feet (30 meters) of any nesting bird or bird rookeries within refuge boundaries.

7. We prohibit nighttime access to boat-launching areas.

8. We prohibit commercial fishing.

9. We prohibit attaching trotlines, bush/limb lines, fishing devices, signs, or any other objects to trees, posts, or markers within refuge boundaries.

10. We prohibit shellfishing of all mollusks, including Asian clams.

11. We prohibit mooring or attaching boats to any refuge boundary marker, post, or navigational post within refuge waters.

12. We prohibit air-thrust boats, hovercraft, airboats, and personal watercraft (jet skis) within the waters of and/or boundary of the refuge.

* * * * *

Waccamaw National Wildlife Refuge

A. Migratory Game Bird Hunting. We allow hunting of duck, goose, dove, woodcock, and snipe on designated areas of the refuge in accordance with State regulations and subject to the following conditions:

1. You must possess and carry at all times while hunting a signed, current refuge hunting regulations brochure, which serves as the hunt permit. The hunt permit is invalid until signed by the hunter.

2. Each youth hunter age 15 and younger must remain within sight, within normal voice contact, and under the supervision of an adult age 21 or older, except when participating in the Federal Youth Days waterfowl hunt, when the youth hunter must be under the supervision of an adult age 18 or older. We do not require youth hunters to have a hunter-education card for migratory gamebird hunting, but they must possess a signed refuge hunting regulations brochure. The supervising adult must comply with all State and Federal hunting license requirements and also possess a signed refuge hunting regulations brochure. Each supervising adult may supervise no more than two youths.

3. We allow waterfowl hunting only until 12 p.m. (noon) each Saturday and Wednesday during the State waterfowl season. Hunters may enter the refuge no earlier than 5 a.m. on hunt days and must be off the refuge by 2 p.m.

4. We allow scouting Monday through Friday during the waterfowl season. Hunters must be off the refuge by 2 p.m.

5. You may possess only approved nontoxic shot (see § 32.2(k)) while hunting all species of migratory birds on the refuge.

6. We prohibit permanent blinds (see § 27.93 of this chapter). Hunters must remove portable blinds and decoys at the end of each day's hunt.

7. We allow use of dogs only while hunting. We require dogs to wear a collar displaying the owner's name, address, and phone number.

8. We do not require hunter check-in and check-out, with the exception of special lottery hunts. There is no quota on the number of hunters for general hunting.

9. We prohibit discharge of weapons for any purpose other than to take or attempt to take legal game animals during established hunting seasons (see § 27.42(a) of this chapter).

10. We prohibit hunting on any unit for wildlife species not officially opened to hunting or posted as “No Hunting Zones.” We prohibit entering any unit or area posted as “Closed.”

11. We require individuals parking vehicles in the refuge to obey all posted signs.

12. Access into all refuge hunt areas for hunting and scouting is by foot, bicycle, or boat. We prohibit ATVs (see § 27.31(f) of this chapter) and air boats on the refuge.

B. Upland Game Hunting. We allow hunting of gray squirrel, raccoon, and opossum on designated areas of the refuge in accordance with State regulations and subject to the following conditions:

1. Conditions A1, A2, and A8 through A12 apply.

2. We allow hunting only in designated areas and only on days designated annually by the refuge within the State season.

3. You may possess only nontoxic shot no larger than #2 in shotguns for hunting. We allow .22-caliber rimfire rifles.

4. We prohibit shooting any game from a boat except waterfowl.

5. We require the use of dogs for hunting raccoon and opossum.

6. The refuge prohibits upland game hunting during refuge Big Game Hunts.

C. Big Game Hunting. We allow hunting of white-tailed deer, feral hog, and turkey on designated areas of the refuge. The State of South Carolina does not classify feral hog as big game; however, for the purpose of these regulations, we include feral hog in the big game category. We allow big game hunting on the refuge in accordance with State regulations and subject to the following conditions:

1. Conditions A1, A8 through A12, B2 and B4 apply.

2. We only allow hunting for designated species on days designated annually by the refuge, within the State season and limits, and according to refuge unit-specific regulations annually listed in the refuge hunting regulations brochure.

3. We close areas open to hunting to the general public during big game hunts.

4. We allow archery, muzzleloading (black powder), rifles (centerfire larger than .22 caliber), and shotguns according to refuge unit-specific regulations.

5. We prohibit blow guns and drugged arrows (see § 32.2(g)). We allow muzzleloading rifles that use only a single projectile on the muzzleloader hunts. We prohibit buckshot, rimfire ammunition, and full-metal-jacketed military ammunition.

6. Access into all refuge hunt areas for hunting and scouting is by foot or boat. We may open some refuge roads on hunt days. We prohibit ATVs (see § 27.31(f) of this chapter) and air boats on the refuge.

7. We allow scouting all year during daylight hours except during the State waterfowl season. During the waterfowl season, the same regulations that apply to scouting for waterfowl (see condition A4) apply to scouting for big game species. We prohibit the use of trail cameras and other scouting devices.

8. Hunters may enter the refuge no earlier than 5 a.m. on hunt days and must leave the refuge no later than 1 hour after legal sunset.

9. We do not require hunter check-in and check-out, with the exception of special lottery hunts.

10. The refuge limit on antlered deer is one antlered buck per hunt session that must have at least three antler points on one side. We define a “point” as an antler projection of at least 1 inch (2.5 centimeters) or more in length. Hunters can harvest two antlerless deer per year during coinciding State doe days or by using personal doe tags.

11. You may take feral hogs during refuge deer hunts. There is no size or bag limit on hogs. We may offer special hog hunts during and after deer season to further control this invasive species. You must dispatch all feral hogs before removing them from the refuge.

12. We prohibit hunting on or within 100 feet (30 meters) of all routes marked as roads or trails on the hunt brochure map.

13. You must hunt deer and feral hog from an elevated hunting stand.

14. We allow only one portable tree stand per hunter, and you must clearly mark it with your full name and phone number. We prohibit placing deer stands on the refuge more than 3 days prior to the opening day of a hunting session. Hunters must remove stands from the refuge no later than 3 days after each refuge big game hunt (see § 27.93 of this chapter).

15. We allow hunters to use flagging to mark the site of hunter entry from roads or trails and again at the stand site. We allow hunters to use clothes pins with reflective tape between entry and stand sites to mark the route to the stand. You must label all pins with your full name and remove them at the end of the hunt.

16. We require hunters to wear an outer garment visible above the waist that contains a minimum of 500 square inches (3,226 square centimeters) of solid, fluorescent-orange material at all times during big game hunts except for wild turkey.

17. We prohibit the use of organized drives, including the use of boats, as an aid in the taking or attempting to take big game species.

18. We prohibit possession of bait, distribution of bait, or hunting over a baited area (see § 32.2(h)).

19. We allow crossbows only during the big game hunting sessions, when we allow muzzleloaders and modern weapons. We may also allow crossbows during special hunts if determined to be appropriate.

20. Each youth hunter age 15 and younger must remain within sight, within normal voice contact, and under supervision of an adult age 21 or older, and must possess a signed refuge hunting regulations brochure. We do not require youth hunters who are sitting in the same hunting stand as the supervising adult to possess a hunter-education card. We require youth hunters who are sitting in a hunting stand by themselves to possess a valid hunter-education card. The supervising adult must comply with all State and Federal hunting license requirements and possess a signed refuge hunting regulations brochure. Each supervising adult may supervise a maximum of one youth.

21. We only allow deer and hog hunting on the uplands of Sandy Island during a special archery-only lottery hunt. Hunters must apply for lottery entry and are chosen by a random selection process. There is a quota on the number of hunters selected for this hunt.

22. We have special hunts for youth and mobility-impaired hunters on the Normandy Tract. You may obtain information about the drawing from the refuge office or Web site.

D. Sport Fishing. We allow fishing in accordance with State regulations.

31. Amend § 32.61, the entry for Lake Andes National Wildlife Refuge, by revising paragraph D to read as follows:

§ 32.61 South Dakota.

* * * * *

Lake Andes National Wildlife Refuge

* * * * *

D. Sport Fishing. We allow sport fishing on designated areas of the refuge in accordance with State regulations and subject to the following conditions:

1. You must remove all boats, motor vehicles, fishing equipment, and other personal property, excluding ice houses, by the end of each day (see §§ 27.93 and 27.94 of this chapter).

2. We allow fishing on the Center and South units of Lake Andes.

* * * * *

32. Amend § 32.62 by:

a. Under the entry Cross Creeks National Wildlife Refuge:

i. Revising paragraphs A.2, A.3, A.8, B.2, B.3, and B.8;

ii. Removing paragraph B.9; and

iii. Revising paragraphs C.4. and D.1;

b. Revising paragraphs A.6, B.1, B.4, and D.8 under the entry Hatchie National Wildlife Refuge; and

c. Under the entry Tennessee National Wildlife Refuge:

i. Revising paragraphs A.2, A.8, B.2, and B.9;

ii. Removing paragraph B.10; and

iii. Redesignating paragraph B.11 as B.10.

The revisions read as follows:

§ 32.62 Tennessee.

* * * * *

Cross Creeks National Wildlife Refuge

A. * * *

2. We require a refuge hunt permit (name and address) for all hunters age 17 and older. We charge a fee for all hunt permits. You must carry a valid refuge permit while hunting on the refuge.

3. We set and publish season dates and bag limits annually in the Refuge Hunting and Fishing Regulations available at the refuge office.

* * * * *

8. Youth hunters under age 17 must remain in sight and normal voice contact with an adult hunter age 21 or older. One adult hunter may supervise no more than two youth hunters.

* * * * *

B. * * *

2. We require a refuge hunt permit (name and address) for all hunters age 17 and older. We charge a fee for all hunt permits. You must carry a valid refuge permit while hunting on the refuge.

3. We set and publish season dates and bag limits annually in the Refuge Hunting and Fishing Regulations available at the refuge office.

* * * * *

8. Each youth hunter under age 17 must remain within sight and normal voice contact of an adult age 21 or older. One adult hunter may supervise no more than two youth hunters.

* * * * *

C. * * *

4. Each youth hunter younger than age 17 must remain within sight and normal voice contact of an adult age 21 or older. One adult hunter may supervise no more than one youth hunter.

* * * * *

D. * * *

1. We allow fishing on the refuge pools and reservoirs from March 16 through November 14 from ½ hour before legal sunrise to ½ hour after legal sunset.

* * * * *

Hatchie National Wildlife Refuge

A. * * *

6. Mourning dove, woodcock, and snipe seasons close during all deer archery, quota deer gun, and youth deer gun hunts. In the area west of Interstate 40 we follow the State seasons, except we close during youth deer gun and quota deer gun hunts.

* * * * *

B. * * *

1. Conditions A1 through A4, A6, and A8 through A12 apply.

* * * * *

4. We close all small game hunts during the refuge deer archery, quota, and youth gun hunts, except in the area west of Interstate 40, where small game reopens after the second quota deer gun hunt in accordance with State seasons.

* * * * *

D. * * *

8. We allow the use of nonmotorized boats and boats with electric motors only; we prohibit the use of gas and diesel motors on refuge lakes except in the waterfowl hunting area.

* * * * *

Tennessee National Wildlife Refuge

A. * * *

2. We require a refuge hunt permit (name and address) for all hunters age 17 and older. We charge a fee for all hunt permits. You must carry a valid refuge permit while hunting on the refuge.

* * * * *

8. Youth hunters under age 17 must remain in sight and normal voice contact with an adult hunter age 21 or older. One adult hunter may supervise no more than two youth hunters.

* * * * *

B. * * *

2. We require a refuge hunt permit (name and address) for all hunters age 17 and older. We charge a fee for all hunt permits. You must possess and carry a valid refuge hunt permit while hunting on the refuge.

* * * * *

9. Each youth hunter (under age 17) must remain within sight and normal voice contact and under supervision of an adult age 21 or older. One adult may supervise no more than two youth hunters.

* * * * *

33. Amend § 32.63 by:

a. Revising paragraph A introductory text and paragraphs A.1 through A.4 under the entry Anahuac National Wildlife Refuge;

b. Revising paragraphs B.1 and C under the entry Buffalo Lake National Wildlife Refuge;

c. Under the entry Hagerman National Wildlife Refuge:

i. Revising paragraphs A.10, A.12, A.13, and A.14;

ii. Removing paragraphs A.15 through A.17; and

iii. Revising paragraphs B, C.1 through C.4, C.6, and D;

d. Under the entry Laguna Atascosa National Wildlife Refuge:

i. Revising paragraph C.7; and

ii. Adding paragraph C.19; and

e. Under the entry Lower Rio Grande Valley National Wildlife Refuge:

i. Revising paragraph A.6;

ii. Adding paragraph A.23; and

iii. Revising paragraphs C.1 and C.4.

The revisions and additions read as follows:

§ 32.63 Texas.

* * * * *

Anahuac National Wildlife Refuge

A. * * *. We allow hunting of goose, duck, coot, white-winged dove, mourning dove, Eurasian collared-dove, and rock pigeon on designated areas of the refuge in accordance with State regulations and subject to the following conditions:

1. You must carry a current signed refuge hunting permit (signed brochure) while waterfowl hunting on all refuge hunt units.

2. Season dates for waterfowl will be concurrent with the State, except as specified in the refuge hunting permit (signed brochure).

3. For waterfowl hunting, you may enter the refuge hunt units no earlier than 4 a.m. Hunting starts at the designated legal shooting time and ends at 12 p.m. (noon). You must leave refuge hunt units by 12:30 p.m. For dove hunting, you may enter the refuge an hour before legal sunrise and must leave the refuge by ½ hour after legal sunset. We close refuge hunt units on Thanksgiving, Christmas, and New Year's Day.

4. For waterfowl hunting, we allow hunting in portions of the East Unit on Saturdays, Sundays, and Tuesdays during the regular waterfowl seasons. We require payment of a $10 per day or $40 per year to hunt on the East Unit. All hunters must check in and out through the check station when accessing the East Unit by vehicle. We will allow a limited number of parties to access the East Unit by vehicle. All hunters entering the East Unit through the check station will designate a hunt area on a first-come, first-served basis (special duck hunt areas will be assigned through a random drawing). We will require hunters to remain in an assigned area for that day's hunt. We allow hunters to access designated areas of the East Unit by boat from Jackson Ditch, East Bay Bayou, or Onion Bayou. We require hunters accessing the East Unit by boat from Jackson Ditch, East Bay Bayou, or Onion Bayou to pay the $40 annual fee. We prohibit access to the East Unit Reservoirs from Onion Bayou via boat. We prohibit the use of motorized boats on the East Unit, except on ponds accessed from Jackson Ditch via Onion Bayou. We prohibit motorized boats launching from the East Unit. For dove hunting, you are allowed to access and hunt the designated areas on the East Unit by vehicles via Farm Market Road 1985 only. Hunters are required to follow rules published annually by TPWD relating to the TPWD AHP.

* * * * *

Buffalo Lake National Wildlife Refuge

* * * * *

B. Upland Game Hunting. * * *

1. We require hunters to pay a fee and obtain a Special Use Permit (FWS Form 3-1383).

* * * * *

C. Big Game Hunting. We allow hunting of white-tailed deer, mule deer, and feral hogs on designated areas of the refuge in accordance with State regulations and subject to the following conditions:

1. We prohibit recreational shooting and target practice or any non-hunting discharge.

2. We prohibit shooting or hunting of all animals except deer and feral hogs during the hunt.

3. We prohibit any use of all-terrain vehicles (ATVs).

4. We prohibit the use of dogs for big game hunting.

5. We prohibit the use of horses.

6. We prohibit the use or possession of alcoholic beverages while hunting on refuge lands (see § 32.2(j)).

7. We prohibit the use of tree stands or any devices such as nails, tacks, and scaffolding used to climb trees, tripod types of blinds, or other elevated blinds.

8. You are not allowed on the refuge after dark except in designated camping areas.

9. We prohibit the use of silencers or any like device that alters the noise on a firearm.

10. Youth hunt:

i. We define youth hunters as ages 9 to 16 years of age. To participate in the youth hunt, youth hunters must be no younger than age 9 and no older than age 16 at the time they apply for a permit to hunt (see condition A.10.iv) and when the hunt occurs.

ii. A Texas-licensed, adult supervisor age 18 or older who has successfully completed a Hunter Education Certification Course (“adult supervisor”) must accompany youth hunters. Adult supervisors born prior to September 2, 1971, are exempt from the hunter-education requirement.

iii. When hunting, each adult supervisor may supervise only one youth hunter. A youth hunter may have up to two supervisors.

iv. All youth hunters must carry a valid Special Use Permit (FWS Form 3-1383-G) when hunting. Special Use Permits are available at the refuge office.

v. You must provide proof of the youth hunter's or supervisor's successful completion of a State hunter-safety course to refuge staff at the time of the hunt or the youth hunter will not be allowed to hunt. Adult supervisors born prior to September 2, 1971, are exempt from the hunter-safety course requirement.

vi. When hunting, the adult supervisor must be within normal voice control of the youth hunter at all times.

vii. Adult supervisors are not allowed to hunt during the youth hunt.

11. We may close hunting areas at any time due to fire dangers, inclement weather, or other unforeseen circumstances.

* * * * *

Hagerman National Wildlife Refuge

A. * * *

10. We prohibit airboats, hovercraft, and personal watercraft (Jet Skis, wave runner, jet boats, etc.) year-round on refuge waters.

* * * * *

12. We prohibit all-terrain vehicles (ATVs).

13. We prohibit horses.

14. We prohibit glass containers.

B. Upland Game Hunting. We allow hunting of squirrel and rabbit in the months of February and September on designated areas of the refuge in accordance with State regulations and subject to the following conditions: Conditions A1 through A14 apply.

C. * * *

1. We require a limited hunt permit (name) for archery deer, feral hog, and spring turkey hunts. In partnership with Texas Parks and Wildlife Department, we allow a special youth hunt as listed on the refuge hunt information sheet. For additional information on how to apply, contact the refuge headquarters at 903-786-2826.

2. Conditions A2, A5 through A7, and A10 through A14 apply.

3. We restrict hunt participants for limited hunts to those drawn for and in possession of a limited hunt permit (name). The permits are nontransferable. Hunt dates and application procedures will be available annually at the refuge headquarters.

4. We allow limited hunts for feral hog, archery deer, and spring turkey. We allow muzzleloaders, bow and arrow, and shotguns for feral hog and spring turkey hunts. You may possess only lead-free, nontoxic (steel, bismuth, copper, or tungsten) bullets, slugs, and shot (00 buck for hogs, no shell larger than No. 4 shot size for turkey).

* * * * *

6. We limit each hunter to one stand, which the hunter may place on the refuge during the day preceding each hunt. You must remove all stands by legal sunset on the last day of each hunt.

* * * * *

D. Sport Fishing. We allow fishing on designated areas of the refuge in accordance with State regulations and subject to the following conditions:

1. Lake Texoma and connected streams are open to fishing year-round. We require a valid State of Texas or Lake Texoma fishing license in accordance with State regulations.

2. Conditions A10, and A12 through A14 apply.

3. You may bank fish on Lake Texoma with pole and line, rod and reel, or hand line year-round.

4. We allow wade fishing in refuge ponds March 15 through October 1 annually from all areas except Refuge Road, Wildlife Drive, Plover Road, Tern Road, and Egret Road.

5. We allow fishing in refuge ponds March 15 through September 30 annually. We require a valid State of Texas or Lake Texoma fishing license in accordance with State regulations.

6. Anglers may not use any glass containers, plastic jugs, or plastic bottles as floats.

7. We prohibit discarding any type of fishing line.

8. You may only take bait for personal use while fishing in refuge waters in accordance with Texas State law. We prohibit removal of bait from the refuge for commercial sales or use.

9. We prohibit fishing from bridges.

10. We allow the use of bow and arrow to take nongame fish on refuge waters except from Refuge Road, Wildlife Drive, Plover Road, Tern Road, and Egret Road.

11. We prohibit limb line, throw lines, jug lines, seine nets, noodling, and yo-yos.

12. We prohibit taking frog, turtle, and mussel from refuge lands and waters (see § 27.21 of this chapter).

13. We prohibit taking any fish or bait for any purpose from refuge impoundments year-round.

14. We prohibit entry into refuge impoundments and ponds by any means (i.e., foot, boat, other floating device) for any purpose year-round.

Laguna Atascosa National Wildlife Refuge

* * * * *

C. * * *

7. Hunting means and methods, including use of firearms, archery, and crossbows, will be in accordance with State regulations unless otherwise designated. We publish this information in the refuge hunting sheet.

* * * * *

19. Persons possessing, transporting, or carrying firearms on National Wildlife Refuges must comply with all provisions of State and local law. Persons may only use (discharge) firearms in accordance with refuge regulations (see § 27.42 of this chapter and specific refuge regulations in this part 32).

* * * * *

Lower Rio Grande Valley National Wildlife Refuge

* * * * *

A. * * *

6. We require hunters to pay a fee to obtain a refuge hunt permit (signed brochure) and to possess and carry that permit at all times during your designated hunt period. Hunters must also display the refuge-issued vehicle placard (part of the hunt permit) while participating in the designated hunt period. Hunters, including youth hunters, must also have a valid hunting license, proof of hunter's education certification, and picture identification in order to obtain a refuge hunt permit and must possess the items listed in this condition (A6) while on the refuge hunt.

* * * * *

23. Persons, possessing, transporting, or carrying firearms on National Wildlife Refuges must comply with all provisions of State and local law. Persons may only use (discharge) firearms in accordance with refuge regulations (see § 27.42 of this chapter and specific refuge regulations in this part 32).

* * * * *

C. * * *

1. Conditions A4 through A13, and A16 through A23 apply.

* * * * *

4. Hunters must follow the Hunting Means and Methods of Firearms, Archery and Crossbows outlined in the Texas Wildlife and Parks Department's (TPWD's) regulations unless otherwise designated. We will publish changes from the TPWD regulations that are applicable to hunting on the refuge in the refuge hunting tear sheet, which is available at the refuge office.

* * * * *

34. Amend § 32.64 by revising paragraph B.4 under the entry Ouray National Wildlife Refuge to read as follows:

§ 32.64 Utah.

* * * * *

Ouray National Wildlife Refuge

* * * * *

B. * * *

4. We allow turkey hunting for youth hunters only.

* * * * *

35. Amend § 32.66 by:

a. Revising paragraph C.15 under the entry Back Bay National Wildlife Refuge; and

b. Under the entry Great Dismal Swamp National Wildlife Refuge:

i. Revising paragraph C.6;

ii. Removing paragraph C.7;

iii. Redesignating paragraph C.8 as C.7;

iv. Removing paragraph C.9;

v. Redesignating paragraphs C.10 and C.11 as C.8 and C.9, respectively; and

vi. Revising paragraph D.1.

The revisions read as follows:

§ 32.66 Virginia.

* * * * *

Back Bay National Wildlife Refuge

* * * * *

C. * * *

15. We prohibit use of tree stands except on Long Island (Zone 1).

* * * * *

Great Dismal Swamp National Wildlife Refuge

C. * * *

6. Persons possessing, transporting, or carrying firearms on the refuge must comply with all provisions of State and local law. Persons may only use (discharge) firearms in accordance with refuge regulations (see § 27.42 of this chapter and specific refuge regulations in this part 32).

* * * * *

D. * * *

1. During daylight hours, we allow fishing in Lake Drummond and in the Feeder Ditch from boat, and from the piers at Washington Ditch and Interior Ditch.

* * * * *

36. Amend § 32.67 by:

a. Under the entry Little Pend Oreille National Wildlife Refuge:

i. Revising paragraphs A.2 and B; and

ii. Removing paragraph C.3;

b. Revise the entry Nisqually National Wildlife Refuge to read, “Billy Frank Jr. Nisqually National Wildlife Refuge”, moving the entry into alphabetical order within the section, and revising paragraph D; and

c. Revising paragraph A.3 under the entry Ridgefield National Wildlife Refuge.

The revisions read as follows:

§ 32.67 Washington.

* * * * *

Billy Frank Jr. Nisqually National Wildlife Refuge

* * * * *

D. Sport Fishing. We allow fishing and shellfishing on designated areas of the refuge in accordance with State regulations and subject to the following conditions:

1. We allow fishing from boats outside the Sanctuary Area and outside the Research Natural Area.

2. We prohibit bank fishing along the Nisqually River.

3. We prohibit fishing in any waters inside the Sanctuary Area.

4. We allow shellfishing on the tideflats. Access is by boat or by foot from the Luhr Beach Boat Launch. We prohibit tideflat access from Refuge Dike.

5. We prohibit boat launching on the refuge.

* * * * *

Little Pend Oreille National Wildlife Refuge

* * * * *

A. * * *

2. We allow hunting during approved State hunting seasons occurring from September through December. We prohibit hunting and discharging firearms during all other periods.

* * * * *

B. Upland Game Hunting. We allow hunting of upland game and other small game on designated areas of the refuge in accordance with State regulations and subject to the following conditions:

1. We allow hunting during approved State hunting seasons occurring September through December, and during the State spring wild turkey season. We prohibit hunting and discharge of firearms during all other periods.

2. During the State spring turkey season, we prohibit hunting of all species except wild turkey.

3. We prohibit raccoon hunting with dogs.

4. Condition A3 applies.

* * * * *

Ridgefield National Wildlife Refuge

A. * * *

3. We limit or prohibit hunting of dusky Canada goose in accordance with State regulations. The State defines dusky Canada goose as a dark-breasted Canada goose, as determined by a Munsell color chart 10 YR, 5 or less, with a culmen (bill) length of 40 to 50 millimeters (1.6 to 2 inches). In addition, we will close the refuge goose season early if the dusky Canada goose harvest reaches a quota adopted by the refuge.

* * * * *

Karen Hyun,
Deputy Assistant Secretary for Fish and Wildlife and Parks.

[FR Doc. 2016-15259 Filed 7-13-16; 8:45 am]

BILLING CODE 4333-15-P